DEPARTMENT OF AGRICULTURE

Rural Utilities Service

7 CFR Parts 1709, 1714, 1735, 1737, 1738, 1739, 1740, 1774, 1775, 1776, 1777, 1778, 1779, 1780, 1781, and 1783

Rural Business-Cooperative Service

Rural Housing Service

Rural Utilities Service

Farm Service Agency

7 CFR Parts 1806, 1810, 1822, 1900, 1901, 1902, 1910, 1924, 1925, 1927, 1940, 1942, 1944, 1948, 1950, 1951, 1955, 1956, 1957, 1962, and 1980

Rural Housing Service

7 CFR Parts 3550, 3560, 3570, and 3575

Rural Business-Cooperative Service

Rural Utilities Service

7 CFR Parts 4274, 4279, 4280, 4284, 4288, and 4290

RIN 0570-AA30

Rural Development Regulations—Update to FmHA References and to Census References

AGENCY: Rural Business-Cooperative Service, Rural Housing Service, Rural Utilities Service, Farm Service Agency, U.S. Department of Agriculture (USDA).

ACTION: Direct final rule.

SUMMARY: Rural Development (RD) is amending its regulations by updating references to the Farmers Home Administration (FmHA) and clarifying and updating references to the census data. These actions will provide consistency in terminology between program regulations. In addition, clarifying and updating references to census data is needed to account for changes to the decennial Census, which, starting with the 2010 decennial Census is no longer reporting income and unemployment data. Additional revisions are being implemented to show the regulations that do not apply to the Farm Service Agency (FSA) and to remove outdated or unnecessary language.

DATES: This rule will become effective April 27, 2015 without further action unless the Agency receives significant written adverse comments or written notices of intent to submit adverse comments on or before March 26, 2015. If the Agency receives significant adverse comments or notices, the Agency will publish a timely notice in the Federal Register withdrawing those provisions on which adverse comment were received.

ADDRESSES: You may submit adverse comments or notice of intent to submit adverse comments to this rule by any of the following methods:

• Federal eRulemaking Portal: http://www.regulations.gov. Follow the instructions for submitting comments.

• Mail: Submit written comments via the U.S. Postal Service to the Branch Chief, Regulations and Paperwork Management Branch, U.S. Department of Agriculture, STOP 0742, 1400 Independence Avenue SW., Washington, DC 20250-0742.

• Hand Delivery/Courier: Submit written comments via Federal Express Mail, or other courier service requiring a street address, to the Branch Chief, Regulations and Paperwork Management Branch, U.S. Department of Agriculture, 300 7th Street SW., 7th Floor, Washington, DC 20024.

All written comments will be available for public inspection during regular work hours at the 300 7th Street SW., 7th Floor address listed above.

FOR FURTHER INFORMATION CONTACT: Kenneth Meardon, Policy Advisor, Rural Business-Cooperative Service, U.S. Department of Agriculture, STOP 3201, 1400 Independence Avenue SW., Washington, DC 20250-3225; email: ken.meardon@wdc.usda.gov; telephone (202) 260-8296.

SUPPLEMENTARY INFORMATION:

Classification

This rule has been determined to be not significant for purposes of Executive Order 12866 and has not been reviewed by the Office of Management and Budget.

Catalog of Federal Domestic Assistance

RD's programs affected by this rulemaking are shown in the Catalog of Federal Domestic Assistance (CFDA) with numbers as indicated:

10.350—Technical Assistance to Cooperatives

10.352—Value-Added Producer Grants (4284)

10.405—Farm Labor Housing Loans and Grants (3560)

10.410—Very Low to Moderate Income Housing Loans (Section 502 Rural Housing Loans) (3550)

10.415—Rural Rental Housing Loans

10.420—Rural Self-Help Technical Assistance

10.427—Rural Rental Assistance Payments (3560)

10.433—Rural Housing Preservation Grants

10.438—Rural Rental Housing Program—Guaranteed Loans

10.441—Technical and Supervisory Assistance Grants

10.448—Rural Housing Service Multi-Family Housing Rural Housing Voucher Demonstration Program (3560)

10.759—Special Evaluation Assistance for Rural Communities and Households Program (SEARCH) (1774)

10.760—Water and Waste Disposal Systems for Rural Communities (1779, 1780)

10.761—Technical Assistance and Training Grants (1775)

10.762—Solid Waste Management Grants (1775)

10.763—Emergency Community Water Assistance Grants (1778)

10.766—Community Facilities Loans and Grants (3570, 3575)

10.767—Intermediary Relending Program (4274)

10.768—Business and Industry Guaranteed Loan Program (4279)

10.769—Rural Business Enterprise Grant Program

10.770—Water and Waste Disposal Loans and Grants (Section 306C) (1777)

10.771—Rural Cooperative Development Grants

10.773—Rural Business Opportunity Grant Program

10.781—Water and Waste Disposal Systems for Rural Communities—ARRA (1780)

10.782—Appropriate Technology Transfer for Rural Areas (4284)

10.850—Rural Electrification Loans and Loan Guarantees (1714)

10.851—Rural Telephone Loans and Loan Guarantees (1735)

10.854—Rural Economic Development Loans and Grants (4280)

10.857—State Bulk Fuel Revolving Fund Grants

10.858—RUS Denali Commission Grants and Loans

10.859—Assistance to High Energy Cost—Rural Communities (1709)

10.860—Rural Business Investment Program (4290)

10.861—Public Television Station Digital Transition Grant Program (1740)

10.862—Water and Waste Disposal Systems for Rural Communities (1776)

10.863—Community Connect Grant Program (1739)

10-864—Grant Program to Estabish a Fund for Financing Water and Wastewater Projects (1783)

10.865—Biorefinery Assistance (4279)

10.866—Repowering Assistance Program (4288)

10.867—Bioenergy Program for Advanced Biofuels (4288)

10.868—Rural Energy for America Program (4280)

10.870—Rural Microentrepreneur Assistance Program

10.871—Small Socially-Disadvantaged Producer Grants (4284)

10.886—Rural Broadband Access Loans and Loan Guarantees (1738)

All active CFDA programs can be found at www.cfda.gov under “Department of Agriculture, Rural Development.” Programs not listed in this section or not listed on the CFDA Web site but are still being serviced by RD will nevertheless be covered by the requirements of this action.

Executive Order 12372, Intergovernmental Review of Federal Programs

This action is not subject to the provisions of Executive Order 12372, which requires intergovernmental consultation with State and local officials.

Executive Order 12988, Civil Justice Reform

This rule has been reviewed under Executive Order 12988, Civil Justice Reform. RD has determined that this rule meets the applicable standards provided in section 3 of the Executive Order. Additionally, (1) all state and local laws and regulations that are in conflict with this rule will be preempted; (2) no retroactive effect will be given to the rule; and (3) administrative appeal procedures, if any, must be exhausted before litigation against the Department or its agencies may be initiated, in accordance with the regulations of the National Appeals Division of USDA at 7 CFR part 11.

Environmental Impact Statement

This document has been reviewed in accordance with 7 CFR part 1940, subpart G, “Environmental Program.” RD has determined that this action does not constitute a major Federal action significantly affecting the quality of the human environment and, in accordance with the National Environmental Policy Act (NEPA) of 1969, 42 U.S.C. 4321 et seq., an Environmental Impact Statement is not required.

Unfunded Mandates Reform Act

This rule contains no Federal mandates (under the regulatory provisions of Title II of the Unfunded Mandates Reform Act of 1995) for State, local, and Tribal governments or the private sector. Thus, this rule is not subject to the requirements of sections 202 and 205 of the Unfunded Mandates Reform Act of 1995.

Regulatory Flexibility Act

Under section 605(b) of the Regulatory Flexibility Act, 5 U.S.C. 605(b), RD certifies that this rule will not have a significant economic impact on a substantial number of small entities because the action will not affect a significant number of small entities as defined by the Regulatory Flexibility Act (5 U.S.C. 501). RBS made this determination based on the fact that this action only impacts internal Agency procedures for determining how much of available program funds are allocated to each state. Small entities will not be impacted to a greater extent than large entities.

Executive Order 13132, Federalism

The policies contained in this rule do not have any substantial direct effect on states, on the relationship between the national government and the states, or on the distribution of power and responsibilities among the various levels of government. Nor does this rule impose substantial direct compliance costs on state and local governments. Therefore, consultation with states is not required.

Executive Order 13175, Consultation and Coordination With Indian Tribal Governments

This executive order imposes requirements on RD in the development of regulatory policies that have Tribal implications or preempt tribal laws. RD has determined that the rule does not, to our knowledge, have a substantial direct effect on one or more Indian Tribe(s) or on either the relationship or the distribution of powers and responsibilities between the Federal Government and Indian Tribes. Thus, this rule is not subject to the requirements of Executive Order 13175. If a Tribe determines that this rule has implications of which RD is not aware and would like to engage with RD on this rule, please contact RD's Native American Coordinator at (202) 690-1681 or AIAN@wdc.usda.gov.

Paperwork Reduction Act

There are no reporting and recordkeeping requirements associated with this rule.

E-Government Act Compliance

RD is committed to complying with the E-Government Act, to promote the use of the Internet and other information technologies, to provide increased opportunities for citizens to access Government information and services electronically.

I. Background and Discussion

RD is amending numerous RD regulations in two broad areas—references to the Farmners Home Administration and references to Bureau of Census data. For those RD regulations affected by these two areas, RD is also making several additional changes by updating the text with regard to applicability of the regulations to the FSA; removing or updating outdated text, as applicable; and removing unnecessary text.

II. Discussion of Changes

A. Farmers Home Administration (FmHA)

Many RD regulations still contain references to the Farmers Home Administration, or FmHA, which was the predecessor agency to both RD and FSA.

FmHA references most frequently encountered in RD regulations are in reference to forms, instructions, and addresses. RD is either removing references that are no longer necessary or updating the FmHA references to reflect the appropriate entity, as applicable. New references will be to RD, Agency, to the specific RD agency (Rural Business-Cooperative Service, Rural Housing Service, Rural Utilities Service), to the “government,” or to the United States, depending on the context of the regulation. Where necessary in individual RD regulations, definitions have been changed or added to reflect the new reference(s).

B. Census References

Many RD regulations refer to census data as the source to be used for various popluation-, income-, and unemployment-related data. RD is amending those portions of its regulations that reference U.S. Bureau of Census (Census Bureau) and its data primarily due to changes in the data being reported by the Census Bureau in the decennial Census.

Other changes are being implemented to further consistency among RD programs in referencing sources to be used for population-related data requirements and provisions and to provide clarification of how provisions are implemented. Finally, RD is removing outdated or unnecessary text.

The following paragraphs discuss these changes.

1. Census Bureau data. RD allocates the funding for a number of its programs using formulas that rely on data supplied by the Census Bureau, frequently as found in the decennial Census. Most RD regulations refer to this as “using the latest census data available” or similar language.

Starting with the 2010 census, however, the Census Bureau no longer reports income data in the decennial Census. Thus, RD needs to identify an alternative source for income-related data.

After examining several alternative data sources, RD determined that income data published by the Census Bureau in the American Community Survey (ACS), as found in the 5-year survey component of the ACS, provides the best source of data for estimates of state-level income and poverty data, even though such are no longer being published in the decennial Census. RD is also aware that the data contained in the ACS may not meet the needs of a specific program and that the ACS may at some point in the future be replaced or discontinued. For these reasons, RD is using “5-year income data from the American Community Survey (ACS) or, if needed, other Census Bureau data” to indicate the source of the data to be used.

In some instances, RD regulations refer to using other data sources for income-related data if the ACS or Census Bureau data are outdated. RD is retaining that concept where it currently exists, but modifying the language to address the revision noted in the preceding paragraph.

2. Consistency and clarification. As described below, RD is making several changes to create consistency between the RD programs.

a. Whenever a regulation is directing the use of the decennial Census as the data source, RD is using “the most recent decennial Census of the United States (decennial Census)” consistently throughout the RD regulations. This change brings consistency among the three RD agencies and their regulations.

b. RD regulations apply not only to what most people understand as the 50 states of the United States, but also to the U.S. Virgin Islands, Puerto Rico, Guam, American Samoa, the Marshall Islands, etc. The decennial Census does not report population for most of these territories. Some, but not all, of the RD regulations clearly identify how population data are to be obtained for these other areas. To make this consistent, RD is revising text to make clear in all its regulations the data sources to be used. Specifically, if the decennial Census does not provide the applicable population information, then RD will determine the applicable population data based on available population data.

C. FSA Related Changes

When they were operating as the Farmers Home Adminstration, RD and FSA shared many regulations. With RD and FSA now separate entities, many of the regulations in 7 CFR no longer apply to FSA. Some of these regulations have already been identified as no longer being applicable to FSA. There are a few regulations, however, that still need to be identified as no being applicable to FSA and RD is adding text to that effect. The regulations are: 7 CFR 1900 subpart A, 7 CFR 1902 subpart A, and 7 CFR 1910 subpart B.

D. Outdated and/or Unnecessary Text in Those Parts and Subparts That Contain Either Reference to Census Bureau or FmHA

Once RD identified those CFR parts that need updating with regard to references to FmHA and the Census Bureau, RD also identified a number of other outdated or unnecessary material, and thus is revising such material. In brief, these changes:

• Remove reference to Rand McNally and Company as an alternative source of population data (7 CFR 1735.2, 7 CFR 1737.2);

• Remove references to a Federal Communications Commission Web site and to a Census Tiger Map (7 CFR 1740.8(b)(1)(i) and (c)(1);

• Remove a series of Agency forms from 7 CFR 1980, Subpart E and their conforming references. Specifically, RD will no longer publish in the CFR RD forms identified as: (1) Appendix A, (2) Appendix B, (3) Appendix F, (4) Exhibits A through C to Appendix I to Subpart E of Part 1980, and (5) Exhibits A through C to Appendix K to Subpart E of Part 1980. The applicable forms will continue to be available in RD offices and through RD's Web site;

• Remove reference to the year 2000 as it currently modifies “Census block” in 7 CFR 1709(b);

• Remove the first paragraph in the definition of Rural and rural area in 7 CFR 3575.1. This paragraph references Fiscal Year 1999 and is thus obsolete; and

• Update the reference to the Legislative Affairs and Public Information Staff (LAPIS) with the Legislative and Public Affairs Staff (LAPAS) (7 CFR parts 1942, 1944, 1948, and 1980).

E. Other

For the Rural Economic Development Loan and Grant (REDLG) program, RD is modifying both the definition of Rural or rural area” (7 CFR 4280.3) and the scoring criterion associated with the decline in population for the county where the project is physically located (7 CFR 4280.42(b)(7)).

RD is modifying the definition of “Rural or rural area” for REDLG to make the definition consistent with the definition for “rural or rural area” found in the Rural Microentrepreneur Assistance Program (RMAP), whose definition is more comprehensive and consistent with other definitions with Rural Business-Cooperative Service programs.

RD is modifying the identified scoring criterion by adding reference to making the calculation using the an “equivalent time frame” in those instances where data is used from a data source other than the decennial Census.

List of Subjects

7 CFR Part 1709

Administrative practice and procedure, Electric utilities, Grant programs—energy, Rural areas.

7 CFR Part 1714

Electric power, Loan programs—energy, Rural areas.

7 CFR Part 1735

Loan programs—communications, Reporting and recordkeeping requirements, Rural areas, Telephone.

7 CFR Part 1737

Loan programs—communications, Reporting and recordkeeping requirements, Rural areas.

7 CFR Part 1738

Broadband, Loan programs—communications, Rural areas, Telecommunications, Telephone.

7 CFR Part 1739

Broadband, Grant programs—Communications, Rural areas, Telecommunications, Telephone.

7 CFR Part 1740

Grant programs—Digital televisions; Communications, Rural areas, Television.

7 CFR Part 1774

Community development, Grant programs, Reporting and recordkeeping requirements, Rural areas, Waste treatment and disposal, Water supply.

7 CFR Part 1775

Business and industry, Community development, Community facilities, Grant programs—housing and community development, Reporting and recordkeeping requirements, Rural areas, Waste treatment and disposal, Water supply, Watersheds.

7 CFR Part 1776

Agriculture, Community development, Community facilities, Credit, Grant programs—housing and community development, Nonprofit organizations, Reporting and recordkeeping requirements, Rural areas, Waste treatment and disposal, Water pollution control, Water resources, Water supply, Watersheds.

7 CFR Part 1777

Community development, Community facilities, Grant programs—housing and community development, Loan programs—housing and community development, Reporting and recordkeeping requirements, Rural areas, Waste treatment and disposal, Water supply, Watersheds.

7 CFR Part 1778

Community development, Community facilities, Grant programs—Housing and Community development, Reporting and recordkeeping requirements, Rural areas, Waste treatment and disposal, Water supply, Watersheds.

7 CFR Part 1779

Loan programs—housing and community development, Rural areas, Waste treatment and disposal, Water supply.

7 CFR Part 1780

Community development, Community facilities, Grant programs—housing and community development, Loan programs—housing and community development, Reporting and recordkeeping requirements, Rural areas, Waste treatment and disposal, Water supply, Watersheds.

7 CFR Part 1781

Community development, Community facilities, Loan programs—housing and community development, Reporting and recordkeeping requirements, Rural areas, Waste treatment and disposal, Water supply, Watersheds.

7 CFR Part 1783

Business and industry, Community development, Community facilities, Grant programs—housing and community development, Reporting and recordkeeping requirements, Rural areas, Waste treatment and disposal, Water supply, Watersheds.

7 CFR Part 1806

Agriculture, Flood insurance, Loan programs—agriculture, Loan programs—housing and community development, Low and moderate income housing, Rural areas.

7 CFR Part 1810

Agriculture, Loan programs—agriculture, Loan programs—Housing and community development, Low and moderate income housing, Rural areas.

7 CFR Part 1822

Loan programs—Housing and community development, Low and moderate income housing, Nonprofit organizations, Rural areas.

7 CFR Part 1900

Administrative practice and procedure, Authority delegations (Government agencies), Conflict of interests, Government employees, Grant programs—agriculture, Grant programs—housing and community development, Loan programs—agriculture, Loan programs—housing and community development, Reporting and recordkeeping requirements, Rural areas.

7 CFR Part 1901

Agriculture, Civil rights, Fair housing, Grant programs—agriculture, Grant programs—housing and community development, Grant programs—Indians, Historic preservation, Indians, Intergovernmental relations, Loan Programs—agriculture, Loan programs—housing and community development, Marital status discrimination, Minimum wages, Religious discrimination, Reporting and recordkeeping requirements, Rural areas, Sex discrimination.

7 CFR Part 1902

Accounting; Banks, banking; Grant programs—agriculture, Grant programs—housing and community development; Loan programs—agriculture; Loan programs—housing and community development, Reporting and recordkeeping requirements.

7 CFR Part 1910

Agriculture, Credit, Loan programs—agriculture, Loan programs—housing and community development, Low and moderate income housing, Reporting and recordkeeping requirements.

7 CFR Part 1924

Agriculture, Administrative practice and procedures, Claims, Credit, Grant programs—housing and community development, Housing Standards, Loan programs-agriculture, Low and moderate income housing, Manufactured homes, Reporting and recordkeeping requirements, Rural areas.

7 CFR Part 1925

Agriculture, Loan programs—agriculture, Loan programs—housing and community development, Low and moderate income housing, Rural areas, Taxes.

7 CFR Part 1927

Agriculture, Loan programs—agriculture, Loan programs—housing and community development, Low and moderate income housing, Rural areas.

7 CFR Part 1940

Agriculture, Environmental protection, Flood plains, Grant programs—agriculture, Grant programs-housing and community development, Loan programs-agriculture, Loan programs—housing and community development, Low and moderate income housing, Reporting and recordkeeping requirements, Rural areas, Truth in lending.

7 CFR Part 1942

Business and industry, Community facilities, Fire prevention, Grant programs—business, Grant programs—housing and community development, Grant programs—Indians, Indians, Loan programs—agriculture, Loan programs-housing and community development, Loan programs—Indians, Loan programs—natural resources, Reporting and recordkeeping requirements, Rural areas, Waste treatment and disposal, Water supply, Watersheds.

7 CFR Part 1944

Administrative practice and procedure, Aged, Cooperatives, Fair housing, Grant programs—housing and community development, Home improvement, Individuals with disabilities, Loan programs—housing and community development, Low and moderate income housing, Manufactured homes, Migrant labor, Rent subsidies, Reporting requirements, Rural areas.

7 CFR Part 1948

Coal, Community facilities, Grant programs—housing and community development, Reporting and recordkeeping requirements,Rural areas, Uranium.

7 CFR Part 1950

Accounting, Loan programs—agriculture, Loan programs—housing and community development, Military personnel, Rural areas.

7 CFR Part 1951

Accounting, Claims, Community facilities, Credit, Disaster assistance, Government employees, Grant programs—housing and community development, Housing, Income taxes, Loan programs—agriculture, Loan programs—housing and community development, Low and moderate income housing, Reporting and recordkeeping requirements, Rural areas, Wages.

7 CFR Part 1955

Agriculture, Drug traffic control, Government property, Loan programs—agriculture, Loan programs—housing and community development, Low and moderate income housing, Rural areas.

7 CFR Part 1956

Accounting, Business and industry, Claims, Loan programs—agriculture, Loan programs—housing and community development, Reporting and recordkeeping requirements, Rural areas.

7 CFR Part 1957

Loan programs—housing and community development, Low and moderate income housing, Rural areas.

7 CFR Part 1962

Agriculture, Bankruptcy, Drug traffic control, Government property, Loan programs—agriculture, Loan programs—housing and community development, Rural areas.

7 CFR Part 1980

Agriculture, Business and industry, Community facilities, Credit, Disaster assistance, Livestock, Loan programs—agriculture, Loan programs—business, Loan programs—housing and community development, Low and moderate income housing, Reporting and recordkeeping requirements, Rural areas.

7 CFR Part 3550

Administrative practice and procedure, Environmental impact statements, Fair housing, Grant programs—housing and community development, Housing, Loan programs—housing and community development, Low and moderate income housing, Manufactured homes, Reporting and recordkeeping requirements, Rural areas.

7 CFR Part 3560

Accounting, Administrative practice and procedure, Aged, Conflict of interests, Government property management, Grant programs—Housing and community development, Insurance, Loan programs—Agriculture, Loan programs—Housing and community development, Low and moderate income housing, Migrant labor, Mortgages, Nonprofit organizations, Public housing, Rent subsidies, Reporting and recordkeeping requirements, Rural areas.

7 CFR Part 3570

Administrative practice and procedure, Fair Housing, Grant programs—housing and community development, ousing, Low and moderate income housing, Reporting and recordkeeping requirements, Rural areas.

7 CFR Part 3575

Loan programs—agriculture.

7 CFR Part 4274

Community development, Loan programs—business, Reporting and recordkeeping requirements, Rural areas.

7 CFR Part 4279

Loan programs—business, Reporting and recordkeeping requirements, Rural areas.

7 CFR Part 4280

Loan programs—Business and industry, Economic development, Energy, Energy efficiency improvements, Feasibility studies, Grant programs, Guaranteed loan programs, Renewable energy systems, Rural areas.

7 CFR Part 4284

Business and industry, Community development, Community facilities, Grant programs—housing and community development, Loan programs—housing and community development, Reporting and recordkeeping requirements, Rural areas, Waste treatment and disposal, Water supply.

7 CFR Part 4288

Administrative practice and procedure, Energy—advanced biofuel, Renewable biomass, Reporting and recordkeeping.

7 CFR Part 4290

Community development, Government securities, Grant programs—business, Securities, Small businesses.

For the reasons discussed above, Rural Development is amending chapters XVII, XVIII, XXXV, and XLII of title 7, of the Code of Federal Regulations as follows

CHAPTER XVII—RURAL UTILITIES SERVICE, DEPARTMENT OF AGRICULTURE

PART 1709—ASSISTANCE TO HIGH ENERGY COST COMMUNITIES

1. The authority citation for part 1709 continues to read as follows:

Authority: 5 U.S.C. 301, 7 U.S.C. 901 et seq.

Subpart B—RUS High Energy Cost Grant Program

§ 1709.107 [Amended]

2. Amend § 1709.107(b) by removing “2000 Census block” and adding “Census block according to the most recent decennial Census of the United States (decennial Census)” in its place.

3. Revise § 1709.123(c)(2) to read as follows:

§ 1709.123 Evaluation criteria and weights.

* * * * *

(c) * * *

(2) Rurality. Priority consideration may be given to proposals that serve smaller rural communities. Applications will be scored based on the population of the largest incorporated cities, towns or villages or census designated places included within the grant's proposed target area as determined using the population figures from the most recent decennial Census. If the applicable population figure cannot be based on the most recent decennial Census, RD will determine the applicable population figure based on available population data.

* * * * *

Subpart C—Bulk Fuel Revolving Fund Grant Program

4. Revise § 1709.210(c)(3) to read as follows:

§ 1709.210 Application process.

* * * * *

(c) * * *

(3) Assessment of needs and potential beneficiaries. The application must provide estimates of the number, location and population of potentially eligible areas in the State and their estimated fuel needs and costs. The section must also describe the criteria used to identify eligible areas, including the characteristics that make fuel deliveries by surface transport impossible or impracticable. The description of beneficiary communities should provide a detailed breakdown of the density profile of the area to be served by eligible projects. Indicate to what extent persons in eligible areas live outside of communities of 2,500 persons or more, communities of 5,000 or more or outside of communities of 20,000 or more. All population estimates should be based on the most recent decennial Census of the United States. If the applicable population estimate cannot be based on the most recent decennial Census, RD will determine the applicable population figure based on available population data. All representations should be supported with exhibits such as maps, summary tables and references to official information sources.

* * * * *

PART 1714—PRE-LOAN POLICIES AND PROCEDURES FOR INSURED ELECTRIC LOANS

5. The authority citation for part 1714 continues to read as follows:

Authority: 7 U.S.C. 901 et seq.; 1921 et seq.; and 6941 et seq.

Subpart A—General

6. Revise the second and third sentences in § 1714.5(d) to read as follows:

§ 1714.5 Determination of interest rates on municipal rate loans.

* * * * *

(d) * * * The method used to determine this rate is set forth in the regulations of the Rural Housing Service at 7 CFR 1942.17(f)(1) and (4). Pursuant to the RUS rule, the interest rates are set using as guidance the average of the Bond Buyer Index for the four weeks prior to the first Friday of the last month before the beginning of the quarter. * * *

7. Revise § 1714.7(b)(2)(i) and (ii) to read as follows:

§ 1714.7 Interest rate cap.

* * * * *

(b) * * *

(2) * * *

(i) To qualify under the consumer income test, the borrower must include in its loan application information about the location of its residential consumers. The borrower must provide to RUS, based on the most recent data available at the time of loan application, either the number of consumers in each county it serves or the number of consumers in each census tract it serves. Using 5-year income data from the American Community Survey (ACS) or, if needed, other Census Bureau data, RUS will compare, on a weighted average basis, the average per capita and median household income of the counties or census tracts served by the borrower with state figures.

(ii) If there is reason to believe that the ACS or other Census Bureau data does not accurately represent the economic conditions of the borrower's consumers, the reasons will be documented and the borrower may furnish, or RD may obtain, additional information regarding such economic conditions. Information must consist of reliable data from local, regional, State, or Federal sources or from a survey conducted by a reliable impartial source. The Administrator has the sole discretion to determine whether such data submitted by the borrower is sufficient to determine whether the borrower qualifies under the consumer income test.

* * * * *

PART 1735—GENERAL POLICIES, TYPES OF LOANS, LOAN REQUIREMENTS-TELECOMMUNICATIONS PROGRAM

8. The authority citation for part 1735 continues to read as follows:

Authority: 7 U.S.C. 901 et seq., 1921 et seq., and 6941 et seq.

Subpart A—General

9. In § 1735.2, revise the definition of “Rural area” to read as follows:

§ 1735.2 Definitions.

* * * * *

Rural area means any area of the United States, its territories and insular possessions (including any area within the Federated States of Micronesia, the Republic of the Marshall Islands, and the Republic of Palau) not included within the boundaries of any incorporated or unincorporated city, village or borough having a population exceeding 5,000 inhabitants. The population figure is obtained from the most recent decennial Census of the United States (decennial Census). If the applicable population figure cannot be obtained from the most recent decennial Census, RD will determine the applicable population figure based on available population data. For purposes of the “rural area” definition, the character of an area is determined as of a time the initial loan for the system is made.

* * * * *

Subpart B—Loan Purposes and Basic Policies

10. Revise § 1735.10(g) to read as follows:

§ 1735.10 General.

* * * * *

(g) For the purpose of paragraph (a)(2) of this section, rural areas means any area that is not located within a city, town, or incorporated area that has a population of greater than 20,000 inhabitants or within an urbanized area contiguous and adjacent to a city or town that has a population of greater than 50,000 inhabitants. For the purpose of the definition of rural area,

(1) The population figure is obtained from the most recent decennial Census of the United States (decennial Census). If the applicable population figure cannot be obtained from the most recent decennial Census, RD will determine the applicable population figure based on available population data; and

(2) An urbanized area means a densely populated territory as defined in the most recent decennial Census.

PART 1737—PRE-LOAN POLICIES AND PROCEDURES COMMON TO INSURED AND GUARANTEED TELECOMMUNICATIONS LOANS

11. The authority citation for part 1737 continues to read as follows:

Authority: 7 U.S.C. 901 et seq., 1921 et seq.; Pub. L. 103-354, 108 Stat. 3178 (7 U.S.C. 6941 et.seq.).

12. In § 1737.2, revise the definition of “Rural area” to read as follows:

§ 1737.2 Definitions.

* * * * *

Rural area means any area of the United States, its territories and possessions (including any area within the Federated States of Micronesia, the Republic of the Marshall Islands, and the Republic of Palau) not included within the boundaries of any incorporated or unincorporated city, village or borough having a population exceeding 5,000 inhabitants. The population figure is obtained from the most recent decennial Census of the United States. If the applicable population figure cannot be obtained from the most recent decennial Census, RD will determine the applicable population figure based on available population data. For purposes of the “rural area” definition, the character of an area is determined as of a time the initial loan for the system is made.

* * * * *

PART 1738—RURAL BROADBAND ACCESS LOANS AND LOAN GUARANTEES

13. The authority citation for part 1738 continues to read as follows:

Authority: Pub. L. 107-171, 7 U.S.C. 901 et seq.

Subpart A—General

14. In § 1738.2(a), revise the definition of “Rural area” to read as follows:

§ 1738.2 Definitions.

(a) * * *

Rural area means any area, as confirmed by the most recent decennial Census of the United States (decennial Census), which is not located within:

(i) A city, town, or incorporated area that has a population of greater than 20,000 inhabitants; or

(ii) An urbanized area contiguous and adjacent to a city or town that has a population of greater than 50,000 inhabitants. For purposes of the definition of rural area, an urbanized area means a densely populated territory as defined in the most recent decennial Census.

* * * * *

PART 1739—BROADBAND GRANT PROGRAM

15. The authority citation for part 1739 continues to read as follows:

Authority: Title III, Pub. L. 108-199, 118 Stat. 3.

16. In § 1739.3, revise the definition of “Rural area” to read as follows:

§ 1739.3 Definitions.

* * * * *

Rural area means any area, as confirmed by the most recent decennial Census of the United States (decennial Census), which is not located within:

(1) A city, town, or incorporated area that has a population of greater than 20,000 inhabitants; or

(2) An urbanized area contiguous and adjacent to a city or town that has a population of greater than 50,000 inhabitants. For purposes of the definition of rural area, an urbanized area means a densely populated territory as defined in the most recent decennial Census.

* * * * *

PART 1740—PUBLIC TELEVISION STATION DIGITAL TRANSITION GRANT PROGRAM

17. The authority citation for part 1740 continues to read as follows:

Authority: Consolidated Appropriations Act, 2005; Title III: Rural Development Programs; Rural Utilities Service; Distance Learning, Telemedicine, and Broadband Program; Pub. L. 108-447.

Subpart A—Public Televsion Station Digital Transition Grant Program

§ 1740.8 [Amended]

18. Amend § 1740.8 by:

a. In paragraph (b)(1)(i), removing “http://www.fcc.gov/fcc-bin/audio/tvq.html” and removing “, overlaid on a Census Tiger Map. The map also shows counties covered” and

b. In paragraph (c)(1), removing the last sentence.

PART 1774—SPECIAL EVALUATION ASSISTANCE FOR RURAL COMMUNITIES AND HOUSEHOLDS PROGRAM

19. The authority citation for part 1774 continues to read as follows:

Authority: 7 U.S.C. 1926(a)(2)(C).

Subpart A—General Provisions

20. In § 1774.2, revise the definitions of “Financially distressed area” and “Rural area” to read as follows:

§ 1774.2 Definitions.

* * * * *

Financially distressed area. An area is considered financially distressed if the median household income of the area to be served is either below the poverty line or below 80 percent of the statewide non-metropolitan median household income according to the 5-year income data from the American Community Survey (ACS) or, if needed, other Census Bureau data. If there is reason to believe that the ACS or other Census Bureau data does not accurately represent the median household income of the area to be served, the reasons will be documented and the borrower may furnish, or RD may obtain, additional information regarding such median household income data. Information must consist of reliable data from local, regional, State or Federal sources or from a survey conducted by a reliable impartial source.

* * * * *

Rural area. For the purposes of this SEARCH program, any area not in a city or town with a population of 2,500 or fewer, according to the most recent decennial Census of the United States (decennial Census). If the applicable population figure cannot be obtained from the most recent decennial Census, RD will determine the applicable population figure based on available population data.

* * * * *

PART 1775—TECHNICAL ASSISTANCE GRANTS

21. The authority citation for part 1775 continues to read as follows:

Authority: 5 U.S.C. 301; 7 U.S.C. 1989; 16 U.S.C. 1005.

Subpart A—General Provisions

22. In § 1775.2, revise the definition of “Rural area” to read as follows:

§ 1775.2 Definitions.

* * * * *

Rural area. Any area not in a city or town with a population in excess of 10,000, according to the most recent decennial Census of the United States. If the applicable population figure cannot be obtained from the most recent decennial Census, RD will determine the applicable population figure based on available population data.

* * * * *

PART 1776—HOUSEHOLD WATER WELL SYSTEM GRANT PROGRAM

23. The authority citation for part 1776 continues to read as follows:

Authority: 7 U.S.C. 1926e.

Subpart A—General

24. In § 1776.3, revise the definition of “Eligible individual” to read as follows:

§ 1776.3 Definitions.

* * * * *

Eligible individual means an individual who is a member of a household the members of which have a combined income (for the most recent 12-month period for which the information is available) that is not more than 100 percent of the median nonmetropolitan household income for the State or territory in which the individual resides, according to 5-year income data from the American Community Survey (ACS) or, if needed, other Census Bureau data. If there is reason to believe that the ACS or other Census Bureau data does not accurately represent the median nonmetropolitan household income for the State or territory in which the individual resides, the reasons will be documented and the applicant may furnish, or RD may obtain, additional information regarding such median household income data. Information must consist of reliable data from local, regional, State or Federal sources or from a survey conducted by a reliable impartial source.

* * * * *

PART 1777—SECTION 306C WWD LOANS AND GRANTS

25. The authority citation for part 1777 continues to read as follows:

Authority: 5 U.S.C. 301; 7 U.S.C. 1989; 16 U.S.C. 1005.

26. In § 1777.4, revise the definition of “Rural areas” to read as follows:

§ 1777.4 Definitions.

* * * * *

Rural areas. Includes unincorporated areas and any city or town with a population not in excess of 10,000 inhabitants located in any of the 50 States, the Commonwealth of Puerto Rico, the Western Pacific Territories, Marshall Islands, Federated States of Micronesia, Republic of Palau, and the U.S. Virgin Islands. The population figure is obtained from the most recent decennial Census of the United States. If the applicable population figure cannot be obtained from the most recent decennial Census, RD will determine the applicable population figure based on available population data.

* * * * *

27. Revise § 1777.12(a)(1) to read as follows:

§ 1777.12 Eligibility.

(a) * * *

(1) Per capita income of the residents is not more than 70 percent of the most recent national average per capita income, as determined by 5-year income data from the American Community Survey (ACS) or, if needed, other Census Bureau data. If there is reason to believe that the ACS or other Census Bureau data does not accurately represent the per capita income of the residents, the reasons will be documented and the borrower/applicant may furnish, or RD may obtain, additional information regarding such per capita income data. Information must consist of reliable data from local, regional, State or Federal sources or from a survey conducted by a reliable impartial source, and

* * * * *

PART 1778—EMERGENCY AND IMMINENT COMMUNITY WATER ASSISTANCE GRANTS

28. The authority citation for part 1778 continues to read as follows:

Authority: 5 U.S.C. 301, 7 U.S.C. 1989; 16 U.S.C. 1005.

29. In § 1778.4, revise the definition of “Rural areas” to read as follows:

§ 1778.4 Definitions.

* * * * *

Rural areas. Includes any area not in a city or town with a population in excess of 10,000 inhabitants located in any of the fifty States, the Commonwealth of Puerto Rico, the Western Pacific Territories, Marshall Islands, Federated States of Micronesia, Republic of Palau, and the U.S. Virgin Islands. The population figure is obtained from the most recent decennial Census of the United States (decennial Census). If the applicable population figure cannot be obtained from the most recent decennial Census, RD will determine the applicable population figure based on available population data.

* * * * *

30. Revise § 1778.10(a)(1) and (2) to read as follows:

§ 1778.10 Restrictions.

(a) * * *

(1) Assist any city or town with a population in excess of 10,000 inhabitants. The population figure is obtained from the most recent decennial Census. If the applicable population figure cannot be obtained from the most recent decennial Census, RD will determine the applicable population figure based on available population data. Facilities financed by RUS may be located in non-rural areas. However, loan and grant funds may be used to finance only that portion of the facility serving rural areas, regardless of facility location.

(2) Assist a rural area that has a median household income in excess of the statewide nonmetropolitan median household income as determined by 5-year income data from the American Community Survey (ACS) or, if needed, other Census Bureau data. If there is reason to believe that the ACS or other Census Bureau data does not accurately represent the median household income of the rural area, the reasons will be documented and the applicant may furnish, or RD may obtain, additional information regarding such median household income data. Information must consist of reliable data from local, regional, State or Federal sources or from a survey conducted by a reliable impartial source.

* * * * *

§ 1778.13 [Amended]

31. Amend § 1778.13(b) by removing “decennial census of the United States” and adding “decennical Census” in its place.

PART 1779—WATER AND WASTE DISPOSAL PROGRAMS GUARANTEED LOANS

32. The authority citation for part 1779 continues to read as follows:

Authority: 5 U.S.C. 301; 7 U.S.C. 1989; 16 U.S.C. 1005.

33. In § 1779.2, revise the definition of “Rural and rural area” to read as follows:

§ 1779.2 Definitions.

* * * * *

Rural and rural area. Any area not in a city or town with a population in excess of 10,000 inhabitants. The population figure is obtained from the most recent decennial Census of the United States (decennial Census). If the applicable population figure cannot be obtained from the most recent decennial Census, RD will determine the applicable population figure based on available population data.

* * * * *

PART 1780—WATER AND WASTE LOANS AND GRANTS

34. The authority citation for part 1780 continues to read as follows:

Authority: 5 U.S.C. 301; 7 U.S.C. 1989; 16 U.S.C. 1005.

Subpart A—General Policies and Requirements

35. Revise the second, third, and fourth sentences of § 1780.1(b) to read as follows:

§ 1780.1 General.

* * * * *

(b) * * * The median household income of the service area and the nonmetropolitan median household income of the State will be determined from income data from 5-year income data from the American Community Survey (ACS) or, if needed, other Census Bureau data. If there is reason to believe that the ACS or other Census Bureau data does not accurately represent the median household income within the area to be served, the reasons will be documented and the applicant may furnish, or RD may obtain, additional information regarding such median household income data. Information must consist of reliable data from local, regional, State or Federal sources or from a survey conducted by a reliable impartial source. * * *

36. In § 1780.3, revise the definition of “Rural and rural areas” to read as follows:

§ 1780.3 Definitions and grammatical rules of construction.

* * * * *

Rural and rural areas means any area not in a city or town with a population in excess of 10,000 inhabitants. The population figure is obtained from the most recent decennial Census of the United States (decennial Census). If the applicable population figure cannot be obtained from the most recent decennial Census, RD will determine the applicable population figure based on available population data.

* * * * *

37. Revise § 1780.18(c)(2)(ii) to read as follows:

§ 1780.18 Allocation of program funds.

* * * * *

(c) * * *

(2) * * *

(ii) The data sources for each criterion identified in paragraph (c)(2) of this section are specified in paragraphs (c)(2)(ii)(A) through (C) of this section. Each criterion is assigned a specific weight according to its relevance in determining need. The percentage representing each criterion is multiplied by the weight factor and summed to arrive at a State factor (SF). The SF cannot exceed 0.05, as follows:

SF = (criterion in paragraph (b)(2)(i)(A) of this section × 50 percent) + (criterion in paragraph (b)(2)(i)(B) × 25 percent) + (criterion in paragraph (b)(2)(i)(C) of this section × 25 percent)

(A) For the criterion specified in paragraph (b)(2)(i)(A) of this section, the most recent decennial Census data.

(B) For the criterion specified in paragraph (b)(2)(i)(B) of this section, 5-year income data from the American Community Survey (ACS) or, if needed, other Census Bureau data.

(C) For the criterion specified in paragraph (b)(2)(i)(C) of this section, the most recent Bureau of Labor Statistics data.

* * * * *

Subpart B—Loan and Grant Application Processing

38. Revise § 1780.49(b)(2) to read as follows:

§ 1780.49 Rural or Native Alaskan villages.

* * * * *

(b) * * *

(2) Rural or Native Alaskan village. A rural or Native Alaskan community which meets the definition of a village under State statutes and does not have a population in excess of 10,000 inhabitants according to the most recent decennial Census.

* * * * *

PART 1781—RESOURCE CONSERVATION AND DEVELOPMENT (RCD) LOANS AND WATERSHED (WS) LOANS AND ADVANCES

39. The authority citation for part 1781 continues to read as follows:

Authority: 5 U.S.C. 301; 7 U.S.C. 1989; 16 U.S.C. 1005.

§ 1781.2 [Amended]

40. Amend the first sentence of § 1781.2(a) by removing “, successor to the Farmers's Home Administration” in the first sentence.

PART 1783—REVOLVING FUNDS FOR FINANCING WATER AND WASTEWATER PROJECTS (REVOLVING FUND PROGRAM)

41. The authority citation for part 1783 continues to read as follows:

Authority: 7 U.S.C. 1926 (a)(2)(B).

Subpart A—General

42. In § 1783.3, revise the definition of “Rural and rural area” to read as follows:

§ 1783.3 What definitions are used in this regulation?

* * * * *

Rural and rural area means a city, town or unincorporated area that has a population of no more than 10,000 inhabitants. The population figure is obtained from the most recent decennial Census of the United States (decennial Census). If the applicable population figure cannot be obtained from the most recent decennial Census, RD will determine the applicable population figure based on available population data.

* * * * *

CHAPTER XVIII—RURAL HOUSING SERVICE, RURAL BUSINESS-COOPERATIVE SERVICE, RURAL UTILITIES SERVICE, AND FARM SERVICE AGENCY, DEPARTMENT OF AGRICULTURE

PART 1806—INSURANCE

43. The authority citation for part 1806 continues to read as follows:

Authority: 5 U.S.C. 301; 7 U.S.C. 1989; 42 U.S.C. 1480.

Subpart A—Real Property Insurance

§ 1806.1 [Amended]

44. Amend § 1806.1 by:

a. In paragraph (a), removing “Rural Housing Service (RHS). Any references herein to the Farmers Home Administration (FmHA) or its employees are intended to mean FSA or RHS, as applicable, and their employees.” and adding “Rural Housing Service (RHS), herein referred to as the “Agency.” in its place;

b. In paragraphs (b) and (d), removing “the FmHA or its successor agency under Public Law 103-354” and adding “RD” in its place; and

c. In paragraph (e), removing “Form FmHA or its successor agency under Public Law 103-354” wherever it occurs and adding “Form RD” in its place and removing “interest of the FmHA or its successor agency under Public Law 103-354” and adding “interest of RD” in its place.

§ 1806.2 [Amended]

45. Amend § 1806.2 by:

a. In paragraph (b)(5)(i), removing “FmHA or its successor agency under Public Law 103-354” and adding “RD” in its place;

b. In paragraphs (b)(6) introductory text and (b)(6)(i), removing “FmHA or its successor agency under Public Law 103-354” and adding “Agency” in its place;

c. In paragraphs (b)(9) and (b)(10) introductory text, removing “FmHA or its successor agency under Public Law 103-354” wherever it occurs and adding “the Agency” in their place;

d. In paragraph (b)(11) introductory text:

i. Removing “FmHA or its successor agency under Public Law 103-354 has” and adding “the Agency has” in its place; and

ii. Removing “FmHA or its successor agency under Public Law 103-354 will” and adding “the Agency will” in its place;

iii. Removing “Form FmHA or its successor agency under Public Law 103-354” wherever it occurs and adding “Form RD” in its place;

d. In paragraph (b)(11)(ii), removing “FmHA or its successor agency under Public Law 103-354” and adding “the Agency” in its place;

e. In paragraph (b)(11)(iii), removing “FmHA or its successor agency under Public Law 103-354 is” and adding “the Agency is” in its place and removing “Form FmHA or its successor agency under Public Law 103-354” and adding “Form RD” in its place;

f. In paragraph (b)(11)(iv) introductory text, removing “FmHA or its successor agency under Public Law 103-354” and adding “The Agency” in its place;

g. In paragraph (b)(11)(iv)(A), removing “United States of America (Farmers Home Administration or its successor agency under Public Law 103-354)” and adding “United States of America (Rural Development)” in its place and removing “naming FmHA or its successor agency under Public Law 103-354” and adding “naming the Agency” in its place;

h. In paragraph (b)(11)(iv)(B), removing “United States of America (Farmers Home Administration or its successor agency under Public Law 103-354)” and adding “United States of America (Rural Development)” in its place and removing “by FmHA or its successor agency under Public Law 103-354” and adding “by the Agency” in its place;

i. In paragraph (b)(11)(iv)(C), removing “the Farmers Home Admnistration or its successor agency under Public Law 103-354” and adding “Rural Development” in its place;

j. In paragraph (c), removing “Form FmHA or its successor agency under Public Law 103-354” wherever it occurs and adding “Form RD” in its place and removing “in which the FmHA or its successor agency under Public Law 103-354” and adding “in which the Agency” in its place;

k. In paragraph (d)(1) introductory text, removing “FmHA or its successor agency under Public Law 103-354” and adding “Agency” in its place;

l. In paragraph (d)(1)(iii)(B), removing “FmHA or its successor agency under Public Law 103-354” and adding “the” in its place;

m. In paragraph (d)(2), removing “against the FmHA or its successor agency under Public Law 103-354” and adding “against the Agency” in its place and removing “FmHA or its successor agency under Public Law 103-354 mortgage” and adding “Agency mortgage” in its place; and

n. In paragraph (e), removing “FmHA or its successor agency under Public Law 103-354 loan” and adding “Agency loan” in its place and removing “for FmHA or its successor agency under Public Law 103-354 loans” and adding “for the Agency loans” in its place.

§ 1806.3 [Amended]

46. Amend § 1806.3 by:

a. In paragraphs (a)(1), (b), and (c)(1)(v), removing “FmHA or its successor agency under Public Law 103-354” wherever it occurs and adding “Agency” in their place;

b. In paragraph (c)(1)(vii), removing “FmHA or its successor agency under Public Law 103-354” wherever it occurs and adding “Agency” in their place; and

c. In paragraph (c)(1)(viii), removing “FmHA or its successor agency under Public Law 103-354” wherever it occurs and adding “Agency” in their place.

§ 1806.4 [Amended]

47. Amend § 1806.4 by:

a. In paragraph (a)(2)(ii), removing “FmHA or its successor agency under Public Law 103-354” wherever it occurs and adding “RD” in their place;

b. In paragraph (a)(4), removing “FmHA or its successor agency under Public Law 103-354” and adding “Agency” in its place;

c. In paragraph (b)(1), removing “upon demand to FmHA or its successor agency under Public Law 103-354” and adding “upon demand to the Agency” in its place and removing “FmHA or its successor agency under Public Law 103-354 Instruction” and adding “RD Instruction” in its place; and

d. In paragraph (b)(2)(i), removing “FmHA or its successor agency under Public Law 103-354” wherever it occurs and adding “the Agency” in their place.

§ 1806.5 [Amended]

48. Amend § 1806.5 by:

a. In paragraphs (a) introductory text and (i)(2)(ii), removing “FmHA or its successor agency under Public Law 103-354” and adding “Agency” in its place;

b. In paragraph (a)(1), removing “the FmHA or its successor agency under Public Law 103-354 ” and adding “the Agency” in its place;

c. In paragraph (a)(1), removing “FmHA or its successor agency under Public Law 103-354 was” and adding “the Agency was” in its place;

d. In paragraphs (a)(2), (b)(1), and (b)(2) introductory text, removing “FmHA or its successor agency under Public Law 103-354 ” and adding “Agency” in its place;

e. In paragraph (b)(2)(i), removing “FmHA or its successor agency under Public Law 103-354's” and adding “the Agency's” in its place and removing “jointly to the FmHA or its successor agency under Public Law 103-354” and adding “jointly to the Agency” in its place;

f. In paragraph (c)(1)(iii), removing “FmHA or its successor agency under Public Law 103-354” and adding “the Agency” in its place;

g. In paragraphs (c)(1)(iv) and (e)(2), removing “FmHA or its successor agency under Public Law 103-354” and adding “Agency” in its place;

h. In paragraph (g) introductory text, removing “FmHA or its successor agency under Public Law 103-354” wherever it occurs and adding “Agency” in its place;

i. In paragraphs (g)(2) and (h), removing “FmHA or its successor agency under Public Law 103-354 ” and adding “Agency” in its place; and

j. In paragraph (i)(2), removing “FmHA or its successor agency under Public Law 103-354 official” and adding “Agency official” in its place and removing “whether FmHA or its successor agency under Public Law 103-354” and adding “whether the Agency” in its place.

§ 1806.6 [Amended]

49. Amend § 1806.6 by:

a. In the introductory text, removing “FmHA or its successor agency under Public Law 103-354” wherever it occurs and adding “the Agency” in its place;

b. In paragraph (a)(1) introductory text, removing “FmHA or its successor agency under Public Law 103-354” and adding “Agency” in its place;

c. In paragraph (a)(1)(ii), removing “FmHA or its successor agency under Public Law 103-354” and adding “Agency” in its place;

d. In paragraph (a)(1)(iii), removing “FmHA or its successor agency under Public Law 103-354” wherever it occurs and adding “Agency” in their place;

e. In paragraph (a)(1)(v), removing “FmHA or its successor agency under Public Law 103-354 Instruction” and adding “RD Instruction” in its place and removing “FmHA or its successor agency under Public Law 103-354 account” and adding “Agency account” in its place;

f. In paragraph (a)(1)(vii), removing “FmHA or its successor agency under Public Law 103-354” and adding “Agency” in its place;

g. In paragraph (c)(2), removing “FmHA or its successor agency under Public Law 103-354 as mortgagee” and adding “Agency as mortgagee” in its place and removing “FmHA or its successor agency under Public Law 103-354 Instruction” and adding “RD Instruction” in its place; and

h. In paragraph (c)(3), removing “Form FmHA or its successor agency under Public Law 103-354” and adding “Form RD” in its place and removing “from the FmHA or its successor agency under Public Law 103-354” and adding “from the Agency” in its place.

Subpart B—National Flood Insurance

§ 1806.21 [Amended]

50. Amend § 1806.21(a) by removing “Farmers Home Administration (FmHA) or its successor agency under Public Law 103-354” and adding “Rural Development and Farm Service Agency, herein referred to as the “Agency”,” in its place.

§ 1806.22 [Amended]

51. Amend § 1806.22 by:

a. In the paragraph heading of paragraph (b), removing “Farmers Home Administration or its successor agency under Public Law 103-354” and adding “The Agency” in its place; and

b. In the first sentence of paragraph (b), removing “the FmHA or its successor agency under Public Law 103-354 National Office” and adding “the National Office” in its place.

§ 1806.23 [Amended]

52. Amend § 1806.23(a) by removing “FmHA or its successor agency under Public Law 103-354” and adding “Agency” in its place.

§ 1806.25 [Amended]

53. Amend § 1806.25 by:

a. In the introductory text, removing “FmHA or its successor agency under Public Law 103-354” and adding “The Agency” in its place and

b. In paragraph (c)(4), removing “FmHA or its successor agency under Public Law 103-354” and adding “the Agency” in its place.

PART 1810—INTEREST RATES, TERMS, CONDITIONS, AND APPROVAL AUTHORITY

54. The authority citation for part 1810 continues to read as follows:

Authority: 7 U.S.C. 1989; 14 U.S.C. 1480; 7 CFR 2.23; 7 CFR 2.70.

Subpart A—Interest Rates, Amortization, Guarantee Fee, Annual Charge, and Fixed Period

§ 1810.1 [Amended]

55. Amend § 1810.1 by:

a. In paragraph (a), removing “FmHA or its successor Agency under Public Law 103-354” and adding “the Agency (Rural Business-Cooperative Service and Rural Housing Service of the U.S. Department of Agriculture)” in its place; and

b. In paragraph (b), removing “Farmers Home Administration or its successor agency under Public Law 103-354” and adding “U.S. Department of Agriculture” in its place.

§ 1810.2 [Amended]

56. Amend § 1810.2(b) and (c) by removing “FmHA or its successor Agency under Public Law 103-354” and adding “the Agency” in their place.

PART 1822—Rural Housing Loans and Grants

57. The authority citation for part 1822 continues to read as follows:

Authority: 42 U.S.C. 1480; 5 U.S.C. 301; 7 CFR 2.23; 7 CFR 2.70.

Subpart G—Rural Housing Site Loan Policies, Procedures, and Authorizations

§ 1822.261 [Amended]

58. Amend § 1822.261 by removing “assistance to FmHA or its successor agency under Public Law 103-354” and adding “Rural Development (RD)” in its place and removing “with an FmHA or its successor agency under Public Law 103-354 employee” and adding “with an RD employee” in its place.

§ 1822.264 [Amended]

59. Amend § 1822.264(b) by removing “The Farmers Home Administration (FmHA) or its successor agency under Public Law 103-354” and adding “RHS” in its place.

§ 1822.265 [Amended]

60. Amend § 1822.265(a) by removing “FmHA or its successor agency under Public Law 103-354”.

§ 1822.266 [Amended]

61. Amend § 1822.266(e)(4) by removing “FmHA or its successor agency under Public Law 103-354” and adding “RD” in its place.

§ 1822.267 [Amended]

62. Amend § 1822.267 by:

a. In paragraph (b), removing “FmHA or its successor agency under Public Law 103-354” and adding “RD” in its place;

b. In paragraph (d), removing “using a form entitled, “((Rural Housing Site) Loan to Nonprofit Corporation)” available at all FmHA or its successor agency under Public Law 103-354 offices”;

c. In paragraph (e), removing “, and certain information in a guide entitled “Planning and Developing Building Sites” available at all FmHA or its successor agency under Public Law 103-354 offices”;

d. In paragraph (h), removing “Form FmHA or its successor agency under Public Law 103-354” and adding “Form RD” in its place;

e. In paragraph (i), removing “FmHA or its successor agency under Public Law 103-354” wherever it occurs and adding “Rural Development” in its place; and

f. In paragraph (k)(2), removing “Form FmHA or its successor agency under Public Law 103-354” and adding “Form RD” in its place;

g. In paragraph (l)(2) introductory text, removing “Form FmHA or its successor agency under Public Law 103-354” and adding “Form RD” in its place;

h. In paragraph (l)(2)(i), removing “FmHA or its successor agency under Public Law 103-354” wherever it occurs and adding “Rural Development” in its place;

i. In paragraph (l)(4), removing “FmHA or its successor agency under Public Law 103-354” and adding “Rural Development” in its place; and

j. In paragraph (l)(5), removing “FmHA or its successor agency under Public Law 103-354's” and adding “The government's” in its place.

§ 1822.268 [Amended]

63. Amend § 1822.268(a) by:

a. Removing “charged by FmHA or its successor agency under Public Law 103-354” and adding “charged by Rural Development” in its place;

b. Removing “FmHA or its successor agency under Public Law 103-354 Instruction” and adding “RD Instruction” in its place; and

c. Removing “FmHA or its successor agency under Public Law 103-354 office” and adding “RD office” in its place.

§ 1822.270 [Amended]

64. Amend § 1822.270(a) introductory text by removing “FmHA or its successor agency under Public Law 103-354 loan” and adding “RD” in its place.

§ 1822.271 [Amended]

65. Amend § 1822.271 by:

a. In paragraph (b)(3)(ii), removing “FmHA or its successor agency under Public Law 103-354” and adding “Rural Development” in its place and

b. In paragraph (e), removing “FmHA or its successor agency under Public Law 103-354” wherever it occurs in the column labeled “Form No.” and adding “RD” in its place.

§ 1822.274 [Amended]

66. Amend § 1822.274 by:

a. In paragraph (b) first sentence, removing “Form FmHA or its successor agency under Public Law 103-354 1927-1 (state), Real Estate Mortgage ­for ___,” will” and adding “Form RD 3550-14, “Real Estate Mortgage or Deed of Trust for (state),” will” in its place and in the first paragraph of the quoted material in the third sentence by removing “basis for the FmHA or its successor agency under Public Law 103-354” and adding “basis for Rural Development” in its place; and

b. In paragraph (c)(2), removing “FmHA or its successor agency under Public Law 103-354” and adding “RD” in its place.

§ 1822.275 [Amended]

67. Amend § 1822.275(a) by removing “FmHA or its successor agency under Public Law 103-354” and adding “RD” in its place.

§ 1822.278 [Amended]

68. Amend § 1822.278(g) by:

a. In the first sentence, removing “Form FmHA or its successor agency under Public Law 103-354 1927-1 (state), Real Estate ___for___(Direct Loan),” will” and adding “Form RD 3550-14, “Real Estate Mortgage or Deed of Trust for (state),” will” in its place; and

b. In the first paragraph of the quoted material in the third sentence, removing “basis for the FmHA or its successor agency under Public Law 103-354” and adding “basis for Rural Development” in its place.

PART 1900—GENERAL

69. The authority citation for part 1900 continues to read as follows:

Authority: 5 U.S.C. 301; 7 U.S.C. 1989; 7 U.S.C. 6991, et seq.; 42 U.S.C. 1480; Reorganization Plan No. 2 of 1953 (5 U.S.C. App.).

§ 1900.1 [Amended]

70. Amend § 1900.1 by:

a. Removing “the Farmers Home Administration or its successor Agency under Public Law 103-354” and adding “Rural Development” in its place; and

b. Adding “This subpart is inapplicable to Farm Service Agency, Farm Loan Programs.” at the end of the section.

§ 1900.2 [Amended]

71. Amend § 1900.2 introductory text and paragraph (g) by removing “the Farmers Home Administration or its successor Agency under Public Law 103-354” wherever it occurs and adding “Rural Development” in its place.

§ 1900.3 [Amended]

72. Amend § 1900.3 by removing “the Farmers Home Administration or its successor Agency under Public Law 103-354” wherever it occurs and adding “Rural Development” in its place.

§ 1900.5 [Amended]

73. Amend § 1900.5 by removing “the FmHA or its successor Agency under Public Law 103-354” and adding “Rural Development” in its place.

§ 1900.6 [Amended]

74. Amend § 1900.6(a) and (b) by removing “Farmers Home Administration or its successor Agency under Public Law 103-354” and adding “Rural Development” in its place.

§ 1900.7 [Amended]

75. Amend § 1900.7 by removing “Administrator of the Farmers Home Administration or its successor agency under Public Law 103-354” and adding “Under Secretary for Rural Development” in its place.

Subpart C—Applicability of Federal Law

§ 1900.101 [Amended]

76. Amend § 1900.101 by:

a. In the introductory text, removing “Agency” and adding “Rural Development” in its place;

b. In paragraph (a), removing “Farmers Home Administration (FmHA) or its successor Agency under Public Law 103-354” and adding “Rural Development” in its place; and

c. In paragraph (b), removing “FmHA or its successor Agency under Public Law 103-354” and adding “Rural Development” in its place.

§ 1900.102 [Amended]

77. Amend § 1900.102 by removing “FmHA or its successor Agency under Public Law 103-354” and “Farmers Home Administration or its successor Agency under Public Law 103-354” wherever they occur and adding “Rural Development” in their place.

Subpart D—Processing and Servicing Rural Development Assistance to Employees, Relatives, and Associates

78. Revise the heading of Subpart D to read as set forth above.

79. Revise § 1900.151(a) introductory text and (b) to read as follows:

§ 1900.151 General.

(a) The Standards of Ethical Conduct for Employees of the Executive Branch requires the maintenance of high standards of honesty, integrity, and impartiality by employees. To reduce the potential for employee conflict of interest, any processing, approval, servicing or review activity, including access through automated information systems, is conducted only by authorized Rural Development employees who:

* * * * *

(b) No provision of this subpart takes precedence over individual program requirements or restrictions relating to eligibility for Rural Development assistance to Rural Development employees, members of families of employees, close relatives, or business or close personal associates of employees.

* * * * *

§ 1900.152 [Amended]

80. Amend § 1900.152 by:

a. Removing “FmHA or its successor Agency under Public Law 103-354” and adding “Rural Development” wherever it occurs in its place in the following definitions:

i. `Applicant or borrower';

ii. `Assistance';

iii. `Employee'; and

iv. `Recipient'; and

b. Removing “an FmHA or its successor Agency under Public Law 103-354” and adding “a Rural Development” in its place in the definition of `Conflict of Interest'.

81. Revise § 1900.153 to read as follows:

§ 1900.153 Identifying and reporting an employee relationship.

(a) Responsibility of applicant. When an application for assistance is filed, the processing official asks if there is any known relationship or association with a Rural Development employee. The applicant is required to disclose the requested information under pertinent program regulations.

(b) Responsibility of the Rural Development employee. A Rural Development employee who knows he or she is related to or associated with an applicant or recipient, regardless of whether the relationship or association is known to others, is required to notify the Rural Development official who is processing or servicing the assistance, in writing. RD Guide Letter 1900-D-1 (available in any RD office) may be used as the notice. If the appropriate official is not known, the State Director should be notified. Regardless of whether the relationship or association is defined in § 1900.152, if the employee believes there may be a potential conflict of interest, the Rural Development official who is processing or servicing the assistance may be notified and special handling requested. An employee's request that the case receive special handling is usually honored.

(c) Responsibility of the Rural Development official. When any relationship or association is identified, the Rural Development official completes and submits RD Guide Letter 1900-D-2 to the State Director (or Administrator, under paragraph (e) of this section or § 1900.155(a)). When completed, RD Guide Letter 1900-D-3 is returned by the State Director, the processing official;

(d) Relationship or association established after application for Rural Development assistance. If a relationship or association is established after an application has been filed or assistance has been provided, both recipient and employee are required to notify the Rural Development official as described in paragraphs (a) and (b) of this section.

(e) Relationship or association with a State Office, Finance Office or National Office employee. If an identified relationship or association is with an employee at a State Office (other than a State Director), Finance Office or National Office, the processing/servicing official completes and submits RD Guide Letter 1900-D-2 to the State Director in the normal manner. The State Director reviews the information, determines the need for special handling, designates the processing/servicing official, completes and submits RD Guide Letter 1900-D-3 to the Administrator for written concurrence. When the Administrator's concurrence is received, the State Director returns completed RD Guide Letter 1900-D-3 to the original official who completes the action described in paragraph (c) of this section.

(f) Relationship or association with a State Director. If an identified relationship or association is with a State Director, the processing/servicing official completes and submits RD Guide Letter 1900-D-2 to the Administrator. The Administrator reviews, determines the need for special handling, designates the processing/servicing official, completes and returns RD Guide Letter 1900-D-3 to the original official who completes the action described in paragraph (c) of this section.

(g) Change in relationship or association, status of Rural Development assistance, or employee's duty station. If the relationship or association has changed, the application denied or the assistance otherwise terminated, or Rural Development employee's duty station changed, the designated processing/servicing official completes RD Guide Letter 1900-D-2 with the new information and submits it. The review process takes place as described in paragraphs (a) through (e) of this section to determine if processing/servicing activity may return to normal or requires another change. If the assistance is denied or otherwise terminated, the designated official notifies the original official.

§ 1900.155 [Amended]

82. Amend § 1900.155(a) by removing “FmHA or its successor Agency under Public Law 103-354” and adding “Rural Development” in its place.

§ 1900.156 [Amended]

83. Amend § 1900.156(g) by removing “FmHA or its successor Agency under Public Law 103-354” and adding “Rural Development” in its place.

PART 1901—PROGRAM-RELATED INSTRUCTIONS

84. The authority citation for part 1901 continues to read as follows:

Authority: 5 U.S.C. 301; 7 U.S.C. 1989; 42 U.S.C. 1480.

Subpart K—Certificates of Beneficial Ownership and Insured Notes

§ 1901.501 [Amended]

85. Amend § 1901.501 by removing “Farmers Home Administration (FmHA) or its successor Agency under Public Law 103-354” and adding “Rural Development” in its place.

86. Revise § 1901.503(a)(2) through (a)(7), (a)(9), (a)(10), (a)(12), (a)(13), (a)(15) through (a)(17), (a)(19), and (b)(1) through (b)(6) to read as follows:

§ 1901.503 Definitions.

(a) * * *

(2) Certificate. A certificate of beneficial ownership issued by Rural Development under this subpart.

(3) Director, Finance Office. The Director or the Insured Loan Officer of the Finance Office of Rural Development.

(4) Rural Development. The United States acting through the Rural Housing Service, the Rural Utilities Service, or the Rural Business-Cooperative Service or their successor agencies.

(5) Finance Office. The office which maintains the Rural Development finance records. It is located at 1520 Market Street, St. Louis, Missouri 63103. (Phone: 314-425-4400)

(6) Fixed period. Any time interval (preceding an option period) during which the insured holder is not entitled to require Rural Development to purchase the insured note, as specified in the insurance agreement.

(7) Insurance agreement. The entire contract evidencing and setting forth the terms and conditions of Rural Development insurance of the payment for the insured note. The insurance agreement with respect to any particular loan may be evidenced by Form RD 440-5, “Insurance Endorsement (Insured Loan),” RD 440-30, “Insurance Endorsement (Insure Loans),” or any other form or forms prescribed by the National Office and executed by an authorized official of Rural Development. It may include such provisions as, for example, an agreement of Rural Development to purchase or repurchase the loan, or to make supplementary payments from the insurance fund.

* * * * *

(9) Insured holder. The current owner of an insured note other than Rural Development, according to the records of Rural Development as insurer of the note.

(10) Insured note. Any promissory note or bond evidencing an insured loan regardless of whether it is held by Rural Development in the insurance fund, by a private holder, or by Rural Development as trustee.

* * * * *

(12) National Office. The Administrator or other authorized officer of Rural Development in Washington, DC.

(13) Option period. Any period during which the insured holder has the optional right to require Rural Development to purchase the insured note, as specified in the insurance agreement.

* * * * *

(15) Private buyer. A buyer of an insured note other than Rural Development.

(16) Private holder. An insured holder other than Rural Development.

(17) Repurchase agreement. A provision in the insurance agreement obligating Rural Development to buy the insured note at the option of the holders.

* * * * *

(19) State Director. The State Director of Rural Development for the State in which is located the real estate improved, purchased, or refinanced with the loan evidenced by the insured note.

(b) * * *

(1) Reserve bank. The Federal Reserve Bank of New York (and any other Federal Reserve Bank which agrees to issue securities in book-entry form) as fiscal agent of the United States acting on behalf of Rural Development and, when indicated, acting in its individual capacity.

(2) Rural Development security. A certificate representing beneficial ownership of notes, bonds, debentures, or other similar obligations held by Rural Development under the Consolidated Farm and Rural Development Act and title V of the Housing Act of 1949, issued in the form of a definitive Rural Development security or a book-entry Rural Development security.

(3) Definitive Rural Development security. A Rural Development security in engraved on printed form.

(4) Book-entry Rural Development security. A Rural Development security in the form of an entry made as prescribed in this subpart on the records of a Reserve bank.

(5) Pledge. A pledge of, or any other security interest in, Rural Development securities as collateral for loans or advances, or to secure deposits of public moneys or the performance of an obligation.

(6) Date of call. The date fixed in the official notice of call published in the Federal Register on which Rural Development will make payment of the security before maturity in accordance with its terms.

* * * * *

§ 1901.504 [Amended]

87. Amend § 1901.504 by removing “FmHA or its successor Agency under Public Law 103-354 financing” and adding “Rural Development financing” in its place and by removing “FmHA or its successor Agency under Public Law 103-354's fiscal agents” and adding “Rural Development's fiscal agents” in its place.

§ 1901.505 [Amended]

88. Amend § 1901.505 section heading and paragraphs (a)(1), (a)(2), and (b) by removing “FmHA or its successor Agency under Public Law 103-354” wherever it occurs and adding “Rural Development” in its place.

§ 1901.506 [Amended]

89. Amend § 1901.506 by:

a. Removing “FmHA or its successor Agency under Public Law 103-354” each time it appears and adding “Rural Development” in the following places:

i. The section heading;

ii. Paragraphs (a)(1), (a)(2), (a)(3);

iii. Paragraphs (b)(1) introductory text, (b)(2), (b)(3), (b)(4), (b)(5);

iv. Paragraphs (c)(1) introductory text, (c)(1)(i), (c)(1)(iv), (c)(2), (c)(3), (c)(4), (c)(5);

v. Paragraphs (d) paragraph heading, (d)(1), (d)(2);

vi. Paragraph (e) paragraph heading and text;

vii. Paragraph (f)(1);

viii. Paragraph (g) paragraph heading and text;

ix. Paragraph (h)(1); and

b. In paragraph (f)(2), removing “the Farmers Homes Administration or its successor agency under Public Law 103-354” and “Farmers Homes Administration or its successor agency under Public Law 103-354” and adding “Rural Development” in their place.

90. Amend § 1901.507 by:

a. Revising the section heading to read as set forth below;

b. In paragraphs (b)(1) and (b)(3), removing “FmHA or its successor Agency under Public Law 103-354” and adding “Rural Development” in its place;

c. In paragraph (c)(1), removing “FmHA or its successor Agency under Public Law 103-354” and adding “Rural Development” in its place;

d. In paragraph (d)(1), removing “FmHA or its successor Agency under Public Law 103-354” wherever it occurs and adding “Rural Development” in its place;

e. Removing in paragraph (d)(2) “Farmers Home Administration or its successor Agency under Public Law 103-354” and adding “Rural Development” in its place;

f. In paragraph (d)(3), removing “FmHA or its successor Agency under Public Law 103-354” wherever it occurs and adding “Rural Development” in its place; and

g. Revising paragraph (e) to read as follows:

§ 1901.507 Certificates of beneficial ownership by the Rural Development Finance Office.

* * * * *

(e) Assignments. Assignments of certificates should be executed by the owner or the owner's authorized representative in the presence of an officer authorized to certify assignments. Registered certificates may be assigned to a specified transferee or to Rural Development for redemption or for exchange for other certificates offered at maturity. Assignments to “United States, Rural Development,” “Farmers Home Administration for Transfer,” or “Rural Development for Exchange” will not be accepted unless supplemented by specific instructions by or in behalf of the owner. If an alteration or erasure has been made in an assignment, a new assignment from the assignor should be obtained. Otherwise, an affidavit or explanation by the person responsible for the alteration or erasure should be submitted for consideration.

* * * * *

§ 1901.508 [Amended]

91. Amend § 1901.508 by:

a. In the introductory text and in paragraphs (a)(1) through (a)(4), removing “FmHA or its successor Agency under Public Law 103-354” wherever it occurs and adding “Rural Development” in its place;

b. In paragraph (b)(1)(i), removing “Form FmHA or its successor Agency under Public Law 103-354” and adding “Form RD” in its place;

c. In paragraph (b)(2), removing “FmHA or its successor Agency under Public Law 103-354 is requested” and adding “Rural Development is requested” in its place and removing “Form FmHA or its successor Agency under Public Law 103-354” and adding “Form RD” in its place;

d. In paragraph (b)(3), removing “Form FmHA or its successor Agency under Public Law 103-354” and adding “Form RD” in its place and removing “made to FmHA or its successor Agency under Public Law 103-354” and adding “made to Rural Development” in its place;

e. In paragraph (b)(4):

i. Removing “Form FmHA or its successor Agency under Public Law 103-354” wherever it occurs and adding “Form RD” in its place;

ii. Removing “records of FmHA or its successor Agency under Public Law 103-354” and adding “records of Rural Development” in its place; and

iii. Removing “by FmHA or its successor Agency under Public Law 103-354” and adding “by Rural Development” in its place;

f. In paragraph (b)(5):

i. Removing “by FmHA or its successor Agency under Public Law 103-354” wherever it occurs and adding “by Rural Development” in its place;

ii. Removing “Form FmHA or its successor Agency under Public Law 103-354” and adding “Form RD” in its place; and

iii. Removing “However, FmHA or its successor Agency under Public Law 103-354” and adding “However, Rural Development” in its place; and

g. In the heading to paragraph (c) and in paragraphs (c)(1) introductory text, (c)(2), and (d), removing “FmHA or its successor Agency under Public Law 103-354” wherever it occurs and adding “Rural Development” in its place.

§ 1901.509 [Amended]

92. Amend § 1901.509 by:

a. In paragraph (a), removing “FmHA or its successor Agency under Public Law 103-354's” wherever it occurs and adding “Rural Development's” in its place;

b. In paragraphs (b) introductory text, (b)(1) introductory text, and (b)(1)(iii), removing “FmHA or its successor Agency under Public Law 103-354” and adding “Rural Development” in its place;

c. In paragraph (b)(5):

i. Removing “and FmHA or its successor Agency under Public Law 103-354” and adding “and Rural Development” in its place;

ii. Removing “to FmHA or its successor Agency under Public Law 103-354” and adding “to Rural Development” in its place; and

iii. Removing “by FmHA or its successor Agency under Public Law 103-354” and adding “by Rural Development” in its place; and

d. In paragraph (b)(6), removing “the Farmers Home Administration or its successor Agency under Public Law 103-354” and adding “Rural Development” in its place; and

e. In paragraph (d), removing “FmHA or its successor Agency under Public Law 103-354” and adding “Rural Development” in its place.

PART 1902—SUPERVISED BANK ACCOUNTS

93. The authority citation for part 1902 continues to read as follows:

Authority: 5 U.S.C. 301; 7 U.S.C. 1989; 7 U.S.C. 6991, et seq.; 42 U.S.C. 1480; Reorganization Plan No. 2 of 1953 (5 U.S.C. App.).

Subpart A—Supervised Bank Accounts of Loan, Grant, and Other Funds

§ 1902.1 [Amended]

94. Amend § 1902.1 introductory text by adding at the end of the section “This subpart is inapplicable to Farm Service Agency, Farm Loan Programs.”

§ 1902.4 [Amended]

95. Amend § 1902.4 by:

a. In paragraph (a)(1), removing “FmHA or its successor agency under Public Law 103-354” and adding “government” in its place; and

b. In paragraph (b)(2):

i. Removing “the FmHA or its successor Agency under Public Law 103-354” and adding “Rural Development” in its place;

ii. Removing “FmHA or its successor Agency under Public Law 103-354 will” and adding “Rural Development will” in its place; and

iii. Removing “Form FmHA or its successor Agency under Public Law 103-354” and adding “Form RD” in its place.

§ 1902.9 [Amended]

96. Amend § 1902.9 in the heading of paragraph (a) by removing “FmHA or its successor Agency under Public Law 103-354” and adding “Rural Development” in its place.

§ 1902.10 [Amended]

97. Amend § 1902.10 by:

a. In paragraph (b), removing “FmHA or its successor Agency under Public Law 103-354” and adding “Rural Development” in its place; and

b. In paragraph (c), removing “Form FmHA or its successor Agency under Public Law 103-354” and adding “Form RD” in its place.

§ 1902.15 [Amended]

98. Amend § 1902.15 by:

a. In the introductory text:

i. Removing “When FmHA or its successor Agency under Public Law 103-354” and adding “When Rural Development” in its place;

ii. Removing “Form FmHA or its successor Agency under Public Law 103-354” and adding “Form RD” in its place; and

iii. Removing “FmHA or its successor Agency under Public Law 103-354's” and adding “Rural Development's” in its place.

b. In paragraphs (a) and (c)(1)(i) introductory text, removing “FmHA or its successor Agency under Public Law 103-354” and adding “Rural Development” in its place;

c. In paragraph(c)(1)(i)(B), removing “FmHA or its successor Agency under Public Law 103-354's” and adding “Rural Development's” in their place;

d. In paragraph (c)(1)(i)(C), removing “FmHA or its successor Agency under Public Law 103-354” wherever it occurs and adding “Rural Development” in its place;

e. In paragraph (c)(1)(ii):

i. Removing “FmHA or its successor Agency under Public Law 103-354 indebtedness” and adding “Rural Development indebtedness” in its place;

ii. Removing “FmHA or its successor Agency under Public Law 103-354 borrower” and adding “Rural Development borrower” in its place; and

iii. Removing “the FmHA or its successor Agency under Public Law 103-354” and adding “Rural Development” in its place; and

f. In paragraphs (c)(1)(iii) and (c)(2)(i), removing “FmHA or its successor Agency under Public Law 103-354” and adding “Rural Development” in its place.

§ 1902.16 [Amended]

99. Amend § 1902.16 by:

a. In paragraph (c), removing “FmHA or its successor agency under Public Law 103-354s” and adding “Rural Development” in its place; and

b. In paragraph (d) by removing “of FmHA or its successor agency under Public Law 103-354's” and adding “due to Rural Development” in its place.

PART 1910—GENERAL

100. The authority citation for part 1910 continues to read as follows:

Authority: 5 U.S.C. 301; 7 U.S.C. 1989; 42 U.S.C. 1480.

Subpart B—Credit Reports

100. Section 1910.51 is revised to read as follows:

§ 1910.51 Purpose.

This subpart prescribes the policies and procedures of Rural Development for individual and joint type credit reports. Credit reports will be ordered to determine the eligibility of applicants requesting Rural Development loans. A nonrefundable fee will be charged the applicant. This subpart is inapplicable to Farm Service Agency, Farm Loan Programs.

Subpart C—Commercial Credit Reports

101. Revise the first sentence of § 1910.101 to read as follows:

§ 1910.101 Preface.

This subpart (§§ 1910.101 through 1910.150) describes the procedure to be used by Rural Development in obtaining commercial credit reports. * * *

PART 1924—CONSTRUCTION AND REPAIR

102. The authority citation for part 1924 continues to read as follows:

Authority: 5 U.S.C. 301; 7 U.S.C. 1989; 42 U.S.C. 1480.

Subpart A—Planning and Performing Construction and Other Development

§ 1924.1 [Amended]

103. Amend § 1924.1 by removing “Farmers Home Administration (FmHA) or its successor agency under Public Law 103-354” and adding “Agency” in its place.

§§ 1924.3, 1924.4, 1924.5, 1924.6, 1924.8, 1924.9, 1924.10, and 1924.13 [Amended]

102. Remove “FmHA or its successor agency under Public Law 103-354” wherever it occurs and add “Agency” in its place in the following places:

a. Section 1924.3;

b. Section 1924.4(d), (f), and (p);

c. Section 1924.5(d)(1) introductory text wherever it occurs, (d)(1)(iv), (d)(1)(v), (f)(1)(i), (f)(1)(iii)(C)(4), (f)(2)(iii), (f)(2)(xii) wherever it occurs, (g)(3), and (i)(4);

d. Section 1924.6(a)(6), (a)(8), (a)(10)(ii) wherever it occurs, and (a)(11)(iv);

e. Section 1924.8(e);

f. Section 1924.9(b)(7);

g. Section 1924.10(c)(1) wherever it occurs; and

h. Section 1924.13(a) introductory text, (a)(1), (a)(3), (a)(5)(i)(B) wherever it occurs, (a)(5)(ii)(C), (a)(5)(vi), (b)(2)(v), (e)(1) introductory text wherever it occurs, (e)(1)(iii)(B)(2), (e)(2)(i)(B), (e)(2)(ii)(A), and (e)(2)(vii).

§§ 1924.5, 1924.6, 1924.9, 1924.10, 1924.11, 1924.12, and 1924.13 [Amended]

103. Remove “FmHA or its successor agency under Public Law 103-354” wherever it occurs and add “RD” in its place in the following places:

a. Section 1924.5(b) wherever it occurs, (f)(1)(iii)(F), (f)(2)(i), (g)(1) introductory text, and (g)(2);

b. Section 1924.6(a)(10)(iv) wherever it occurs, (a)(11)(iii), (a)(12)(ii), (a)(12)(iii) wherever it occurs, (a)(12)(v)(A), (a)(12)(vi)(C)(2)(i), (a)(12)(vi)(C)(2)(ii), (b)(3)(i) wherever it occurs, (b)(3)(ii)(C), and (b)(3)(ii)(G);

c. Section 1924.9(c) wherever it occurs;

d. Section 1924.10(a)(4), (c)(2)(i), and (c)(2)(ii);

e. Section 1924.11(c);

f. Section 1924.12(a), (d)(1), and (d)(2); and

g. Section 1924.13(e)(1)(ii) introductory text wherever it occurs and (e)(2)(x).

§§ 1924.4, 1924.5, 1924.6, 1924.9, and 1924.13 [Amended]

104. Remove “FmHA or its successor agency under Public Law 103-354” wherever it occurs and add “the Agency” in its place in the following places:

a. Section 1924.4(h)(1), (h)(8), and (n);

b. Section 1924.5(d)(1)(i)(E)(1), (f)(1)(ii), (f)(1)(iii)(C), (f)(2) introductory text, (f)(2)(vii), and (f)(2)(viii);

c. Section 1924.6(a)(2)(vi), (a)(3)(iii)(B), (a)(3)(iv)(D), (a)(3)(iv)(F), (a)(11)(iv) wherever it occurs, (a)(12)(v)(C) wherever it occurs, (a)(12)(vi)(C)(1)(ii), and (b)(3)(ii)(F);

d. Section 1924.9(d) and (e); and

e. Section 1924.13(a)(5)(i)(F), (a)(5)(iii)(C), (b)(2) wherever it occurs, (e)(1)(i)(D), (e)(1)(i)(E), (e)(1)(iii)(B)(3), (e)(1)(vi)(A) wherever it occurs, (e)(1)(vii)(A)(4), (e)(1)(vii)(B)(3), (e)(2)(i)(D), (e)(2)(ii)(C), (e)(2)(iii)(C), (e)(2)(ix)(A) wherever it occurs, and (e)(2)(ix)(B).

§ 1924.5 [Amended]

105. Amend § 1924.5 by:

a. In paragraph (d)(1)(ii), removing “FmHA or its successor agency under Public Law 103-354” wherever it occurs and adding “Rural Development” in its place;

b. In paragraph (f) introductory text, removing “FmHA or its successor agency under Public Law 103-354's” and adding “the Agency's” in its place;

c. In paragraph (f)(1)(iii), removing “FmHA or its successor agency under Public Law 103-354” and adding “The Agency” in its place;

d. In paragraph (f)(2)(iii):

i. Removing “FmHA or its successor agency under Public Law 103-354 for” and adding “Agency for” in its place;

ii. Removing “that FmHA or its successor agency under Public Law 103-354 will” and adding “the Agency will” in its place; and

iii. Removing “Form FmHA or its successor agency under Public Law 103-354” wherever it occurs and adding “Form RD” in its place;

e. In paragraph (h) introductory text:

i. Removing “of FmHA or its successor agency under Public Law 103-354” and adding “of the Agency” in its place; and

ii. Removing “FmHA or its successor agency under Public Law 103-354 forms” and adding “RD forms” in its place; and

f. in paragraph (i)(5), removing “FmHA or its successor agency under Public Law 103-354” and adding “The Agency” in its place.

§ 1924.6 [Amended]

106. Amend § 1924.6 by:

a. In paragraph (a)(1), removing “Form FmHA or its successor agency under Public Law 103-354” and adding “Form RD” in its place and removing “(including FmHA or its successor agency under Public Law 103-354)” and adding “(including the Agency)” in its place;

b. In paragraph (a)(3)(ii), removing “(including FmHA or its successor agency under Public Law 103-354)” and adding “(including the Agency)” in its place and removing “FmHA or its successor agency under Public Law 103-354 will be” and adding “The Agency will be” in its place;

c. In paragraph (a)(3)(iii)(A):

i. Removing “FmHA or its successor agency under Public Law 103-354 prior” and adding “the Agency prior” in its place;

ii. Removing “the owner and FmHA or its successor agency under Public Law 103-354” and adding “the owner and the Agency” in its place;

iii. Removing “by FmHA or its successor agency under Public Law 103-354” and adding “by the Agency” in its place; and

iv. Removing “all FmHA or its successor agency under Public Law 103-354” and adding “all Agency” in its place.

d. In paragraph (a)(11)(i), removing “FmHA or its successor agency under Public Law 103-354 employee” and adding “Agency employee” in its place and removing “Form FmHA or its successor agency under Public Law 103-354” and adding “Form RD” in its place;

e. In paragraph (a)(12)(v)(B), removing “provide FmHA or its successor agency under Public Law 103-354” and adding “provide the Agency” in its place and removing “FmHA or its successor agency under Public Law 103-354 official” wherever it occurs and adding “Agency official” in its place;

f. In paragraph (a)(12)(vi)(B):

i. Removing “FmHA or its successor agency under Public Law 103-354 loan” and adding “Agency loan” in its place;

ii. Removing “by FmHA or its successor agency under Public Law 103-354” wherever it occurs and adding “by the Agency” in its place;

iii. Removing “of FmHA or its successor agency under Public Law 103-354” and adding “of the Agency” in its place; and

iv. Removing “the owner and FmHA or its successor agency under Public Law 103-354” and adding “the owner and the Agency” in its place; and

g. In paragraph (a)(12)(vi)(C) introductory text:

i. Removing “the FmHA or its successor agency under Public Law 103-354 loan” and adding “Agency loan” in its place;

ii. Removing “FmHA or its successor agency under Public Law 103-354 will” and adding “the Agency will” in its place; and

iii. Removing “Form FmHA or its successor agency under Public Law 103-354” wherever it occurs and adding “Form RD” in its place.

§ 1924.9 [Amended]

107. Amend § 1924.9 by:

a. In paragraph (a):

i. Removing “Rural Development office” and adding “Agency office” in its place;

ii. Removing “RHS or its successor agency under Public Law 103-354 inpections” wherever it occurs and adding “Agency inspections” in its place; and

iii. Removing “RHS or its successor agency under Public Law 103-354 has” and adding “the Agency has” in its place; and

b. In paragraph (b)(2), removing “the FmHA or its successor agency under Public Law 103-354” and adding “Agency” in its place.

§ 1924.10 [Amended]

108. Amend § 1924.10(a)(3) by removing “FmHA or its successor agency under Public Law 103-354's security” and adding “the Agency's security” in its place and removing “FmHA or its successor agency under Public Law 103-354 security” and adding “Agency security” in its place.

§ 1924.12 [Amended]

109. Amend § 1924.12 by:

a. In paragraph (b):

i. Removing “Form FmHA or its successor agency under Public Law 103-354” and adding “Form RD” in its place;

ii. Removing “the owner and FmHA or its successor agency under Public Law 103-354” and adding “the owner and the Agency” in its place; and

iii. Removing “by FmHA or its successor agency under Public Law 103-354” and adding “by the Agency” in its place;

b. In paragraph (c), removing “Form FmHA or its successor agency under Public Law 103-354” and adding “Form RD” in its place and removing “FmHA or its successor agency under Public Law 103-354 office” and adding “Agency office” in its place; and

c. In paragraph (d)(4), removing “notifies FmHA or its successor agency under Public Law 103-354” and adding “notifies the Agency” in its place and removing “Form FmHA or its successor agency under Public Law 103-354” and adding “Form RD” in its place.

§ 1924.13 [Amended]

110. Amend § 1924.13 by:

a. In paragraph (a)(4)(iii), removing “The Farmers Home Administration or its successor agency under Public Law 103-354” and adding “The Agency” in its place and removing “FmHA or its successor agency under Public Law 103-354 Approval Official” and adding “Agency Approval Official” in its place;

b. In paragraph (e)(1)(ii)(F):

i. Removing “to FmHA or its successor agency under Public Law 103-354” wherever it occurs and adding “to the Agency” in its place;

ii. Removing “Form FmHA or its successor agency under Public Law 103-354” and adding “Form RD” in its place; and

iii. Removing “FmHA or its successor agency under Public Law 103-354 regulations” and adding “Agency regulations” in its place;

c. In paragraph (e)(1)(ii)(G), removing “FmHA or its successor agency under Public Law 103-354 offices” and adding “Agency offices” in its place, and removing “Form FmHA or its successor agency under Public Law 103-354” wherever it occurs and adding “Form RD” in its place;

d. In paragraph (e)(1)(ii)(H), removing “The Farmers Home Administration or its successor agency under Public Law 103-354” and adding “The Agency” in its place and removing “FmHA or its successor agency under Public Law 103-354 Official” and adding “Agency Official” in its place;

e. In paragraph (e)(1)(iv):

i. Removing “FmHA or its successor agency under Public Law 103-354 with” and adding “the Agency with” in its place;

ii. Removing “Form FmHA or its successor agency under Public Law 103-354” wherever it occurs and adding “Form RD” in its place;

iii. Removing “FmHA or its successor agency under Public Law 103-354 offices” and adding “Agency offices” in its place; and

iv. Removing “FmHA or its successor agency under Public Law 103-354 personnel” and adding “Agency personnel” in its place;

f. In paragraph (e)(1)(v) introductory text:

i. Removing “Form FmHA or its successor agency under Public Law 103-354” wherever it occurs and adding “Form RD” in its place;

ii. Removing “FmHA or its successor agency under Public Law 103-354 office” wherever it occurs and adding “Agency office” in its place;

iii. Removing “FmHA or its successor agency under Public Law 103-354 will” and adding “the Agency will” in its place;

iv. Removing “FmHA or its successor agency under Public Law 103-354 contractor” and adding “Agency contractor” in its place;

v. Removing “FmHA or its successor agency under Public Law 103-354 contracts” and adding “Agency contracts” in its place; and

vi. Removing “FmHA or its successor agency under Public Law 103-354 personnel” and adding “Agency personnel” in its place;

g. In paragraph (e)(1)(v)(A), removing “Form FmHA or its successor agency under Public Law 103-354” and adding “Form RD” in its place and removing “to FmHA or its successor agency under Public Law 103-354” and adding “to the Agency” in its place;

h. In paragraph (e)(1)(v)(B):

i. Removing “the owner and FmHA or its successor agency under Public Law 103-354” and adding “the owner and the Agency” in its place;

ii. Removing “Form FmHA or its successor agency under Public Law 103-354” and adding “Form RD” in its place;

iii. Removing “prior to FmHA or its successor agency under Public Law 103-354” and adding “prior to the Agency” in its place; and

iv. Removing “by FmHA or its successor agency under Public Law 103-354” and adding “by the Agency” in its place;

i. In paragraph (e)(1)(v)(C):

i. Removing “Form FmHA or its successor agency under Public Law 103-354” wherever it occurs and adding “Form RD” in its place;

ii. Removing “by FmHA or its successor agency under Public Law 103-354” and adding “by the Agency” in its place; and

iii. Removing “FmHA or its successor agency under Public Law 103-354 office” and adding “Agency office” in its place;

j. In paragraph (e)(1)(v)(D), removing “Form FmHA or its successor agency under Public Law 103-354” and adding “Form RD” in its place and removing “FmHA or its successor agency under Public Law 103-354 regulations” and adding “Agency regulations” in its place;

k. In paragraph (e)(1)(v)(E):

i. Removing “by FmHA or its successor agency under Public Law 103-354” and adding “by the Agency” in its place;

ii. Removing “FmHA or its successor agency under Public Law 103-354 reserves” and adding “The Agency reserves” in its place;

iii. Removing “Form FmHA or its successor agency under Public Law 103-354” and adding “Form RD” in its place; and

iv. Removing “to FmHA or its successor agency under Public Law 103-354” wherever it occurs and adding “to the Agency” in its place;

l. In paragraph (e)(1)(v)(G):

i. Removing “Forms FmHA or its successor agency under Public Law 103-354” and adding “Forms RD” in its place;

ii. Removing “FmHA or its successor agency under Public Law 103-354 1944-31” and adding “RD 1944-31” in its place;

iii. Removing “FmHA or its successor agency under Public Law 103-354 Instruction” and adding “RD Instruction” in its place; and

iv. Removing “FmHA or its successor agency under Public Law 103-354 office” wherever it occurs and adding “Agency office” in its place;

m. In paragraph (e)(1)(v)(I):

i. Removing “Form FmHA or its successor agency under Public Law 103-354” and adding “Form RD” in its place;

ii. Removing “FmHA or its successor agency under Public Law 103-354 Instruction” and adding “RD Instruction” in its place; and

iii. Removing “FmHA or its successor agency under Public Law 103-354 office” and adding “Agency office” in its place;

n. In paragraph (e)(1)(vi) introductory text, removing “Form FmHA or its successor agency under Public Law 103-354” wherever it occurs and adding “Form RD” in its place and removing “FmHA or its successor agency under Public Law 103-354 as shown” and adding “the Agency as shown” in its place;

o. In paragraph (e)(2)(i)(G), removing “Form FmHA or its successor agency under Public Law 103-354” and adding “Form RD” in its place and removing “by FmHA or its successor agency under Public Law 103-354” and adding “by the Agency” in its place;

p. In paragraph (e)(2)(i)(H), removing “Form FmHA or its successor agency under Public Law 103-354” and adding “Form RD” in its place and removing “to FmHA or its successor agency under Public Law 103-354” and adding “to the Agency” in its place;

q. In paragraph (e)(2)(viii) introductory text:

i. Removing “Form FmHA or its successor agency under Public Law 103-354” wherever it occurs and adding “Form RD” in its place;

ii. Removing “FmHA or its successor agency under Public Law 103-354 office” and adding “Agency office” in its place;

iii. Removing “FmHA or its successor agency under Public Law 103-354 contractor” and adding “Agency contractor” in its place; and

iv. Removing “FmHA or its successor agency under Public Law 103-354 contracts” and adding “Agency contracts” in its place;

r. In paragraph (e)(2)(viii)(A):

i. Removing “Form FmHA or its successor agency under Public Law 103-354” wherever it occurs and adding “Form RD” in its place;

ii. Removing “FmHA or its successor agency under Public Law 103-354 regulations” and adding “Agency regulations” in its place;

iii. Removing “FmHA or its successor agency under Public Law 103-354 reserves” and adding “The Agency reserves” in its place;

iv. Removing “to FmHA or its successor agency under Public Law 103-354” and adding “to the Agency” in its place;

v. Removing “FmHA or its successor agency under Public Law 103-354 office” and adding “Agency office” in its place; and

vi. Removing “by FmHA or its successor agency under Public Law 103-354” and adding “by the Agency” in its place;

s. In paragraph (e)(2)(viii)(B):

i. Removing “FmHA or its successor agency under Public Law 103-354 must” and adding “the Agency must” in its place;

ii. Removing “Form FmHA or its successor agency under Public Law 103-354” and adding “Form RD” in its place; and

iii. Removing “by FmHA or its successor agency under Public Law 103-354” and adding “by the Agency” in its place;

t. In paragraph (e)(2)(viii)(D):

i. Removing “Form FmHA or its successor agency under Public Law 103-354” and adding “Form RD” in its place;

ii. Removing “FmHA or its successor agency under Public Law 103-354 Instruction” and adding “RD Instruction” in its place; and

iii. Removing “FmHA or its successor agency under Public Law 103-354 office” and adding “Agency office” in its place; and

u. In paragraph (e)(2)(ix):

i. Removing “FmHA or its successor agency under Public Law 103-354 District” and adding “Agency District” in its place;

ii. Removing “Form FmHA or its successor agency under Public Law 103-354” and adding “Form RD” in its place;

iii. Removing “to FmHA or its successor agency under Public Law 103-354” and adding “to the Agency” in its place;

iv. Removing “FmHA or its successor agency under Public Law 103-354 Representative” and adding “Agency Representative” in its place; and

v. Removing “FmHA or its successor agency under Public Law 103-354 does not” and adding “the Agency does not” in its place.

Exhibit B to Subpart A [Amended]

111. Amend Exhibit B to Subpart A of Part 1924 by:

a. In the introductory text:

i. Removing “of FmHA or its successor agency under Public Law 103-354” and adding “of the Agency” in its place;

ii. Removing “Farmers Home Administration (FmHA) or its successor agency under Public Law 103-354” and adding “Agency” in its place; and

iii. Removing “an FmHA or its successor agency under Public Law 103-354” and adding “an Agency” in its place;

b. In paragraph I.B, removing “FmHA or its successor agency under Public Law 103-354” and adding “Agency” in its place;

c. In paragraph III.B:

i. Removing “an FmHA or its successor agency under Public Law 103-354” and adding “an Agency” in its place;

ii. Removing “local FmHA or its successor agency under Public Law 103-354” wherever it occurs and adding “local Agency” in its place; and

iii. Removing “Form FmHA or its successor agency under Public Law 103-354” and adding “Form RD” in its place;

d. In paragraph IV, removing “FmHA or its successor agency under Public Law 103-354” and adding “the Agency” in its place;

e. In paragraph V introductory text, removing “FmHA or its successor agency under Public Law 103-354” and adding “Agency” in its place;

f. In paragraph V.D introductory text, removing “FmHA or its successor agency under Public Law 103-354” and adding “the Agency” in its place;

g. In paragraph V.E, removing “FmHA or its successor agency under Public Law 103-354” and adding “Agency” in its place;

h. In paragraph V.H, removing “FmHA or its successor agency under Public Law 103-354” and adding “Agency” in its place;

i. In paragraph V.J, removing “FmHA or its successor agency under Public Law 103-354” and adding “Agency” in its place;

j. In paragraph VI.A introductory text, removing “FmHA or its successor agency under Public Law 103-354” and adding “Agency” in its place;

k. In paragraph VI.A.3, removing “FmHA or its successor agency under Public Law 103-354” and adding “Agency” in its place;

l. In paragraph VII.C introductory text, removing “FmHA or its successor agency under Public Law 103-354” and adding “Agency” in its place;

m. In paragraph IX, removing “FmHA or its successor agency under Public Law 103-354 will” and adding “The Agency will” in its place and removing “of the FmHA or its successor agency under Public Law 103-354” and adding “of the Agency” in its place;

n. In paragraph X.B, removing “FmHA or its successor agency under Public Law 103-354” and adding “Agency” in its place;

o. In paragraph X.C, removing “FmHA or its successor agency under Public Law 103-354” and adding “Agency” in its place;

p. In Attachment 1 to Exhibit B by:

i. In the introductory text, removing “Farmers Home Administration (FmHA) or its successor agency under Public Law 103-354” and adding “Agency” in its place and removing “FmHA or its successor agency under Public Law 103-354” and adding “Agency” in its place;

ii. In paragraph A.10, removing “FmHA or its successor agency under Public Law 103-354” and adding “RD” in its place; and

iii. In paragraph B.4(c), removing “FmHA or its successor agency under Public Law 103-354” and adding “U.S. Department of Agriculture,” in its place;

q. In Attachment 2 to Exhibit B by:

i. In the second introductory paragraph, removing “Farmers Home Administration (FmHA) or its successor agency under Public Law 103-354” and adding “Agency” in its place;

ii. In paragraph 2, removing “by FmHA or its successor agency under Public Law 103-354” and adding “by the Agency” in its place;

iii. In paragraph 3, removing “local FmHA or its successor agency under Public Law 103-354” and adding “local Agency” in its place;

iv. In paragraph 3, removing “FmHA or its successor agency under Public Law 103-354 Instruction” and adding “RD Instruction” in its place;

v. In paragraph 3, removing “FmHA or its successor agency under Public Law 103-354 Thermal” and adding “Agency Thermal” in its place;

vi. In paragraph 6 and the second undesginated concluding paragraph, removing “FmHA or its successor agency under Public Law 103-354 personnel” and adding “RD personnel” in its place;

vii. In paragraph 6, removing “FmHA or its successor agency under Public Law 103-354 State” and adding “Agency State” in its place; and

viii. In paragraph 6, removing “FmHA or its successor agency under Public Law 103-354 inspection” and adding “RD inspection” in its place; and

r. In Attachment 5 to Exhibit B by removing “FmHA or its successor agency under Public Law 103-354” wherever it occurs and adding “Agency” in its place.

Exhibit C to Subpart A [Amended]

112. Amend Exhibit C to Subpart A of Part 1924 by:

a. In paragraphs II.A introductory text and V.B introductory text, removing “any FmHA or its successor agency under Public Law 103-354” wherever it occurs and adding “any Agency” in its place;

b. In paragraphs IV introductory text and IV.A introductory text, removing “Form FmHA or its successor agency under Public Law 103-354” wherever it occurs and adding “Form RD” in its place; and

c. In paragraph IV.A.1, removing “FmHA or its successor agency under Public Law 103-354 form” and adding “RD form” in its place.

Exhibit D to Subpart A [Amended]

113. Amend Exhibit D to Subpart A of Part 1924 by removing “FmHA or its successor agency under Public Law 103-354” wherever it occurs and adding “Agency” in its place in the following places:

a. Paragraph IV.A;

b. Paragraph IV.C.1.a;

c. Paragraph IV.C.1.b;

d. Paragraph IV.C.2.b; and

e. Paragraph V.A.

Exhibit H to Subpart A [Amended]

114. Amend Exhibit H to Subpart A of Part 1924 by:

a. In paragraph II, removing “Farmers Home Administration (FmHA) or its successor agency under Public Law 103-354” and adding “Agency” in its place;

b. In paragraph IV.B, removing “FmHA or its successor agency under Public Law 103-354 requires” and adding “the Agency requires” in its place and removing “FmHA or its successor agency under Public Law 103-354 County” and adding “Agency County” in its place;

c. In paragraph IV.C, removing “FmHA or its successor agency under Public Law 103-354 requires” and adding “the Agency requires” in its place and removing “FmHA or its successor agency under Public Law 103-354 County” and adding “Agency County” in its place;

d. In paragraph IV.D, removing “FmHA or its successor agency under Public Law 103-354” wherever it occurs and adding “Agency” in its place; and

e. In paragraph IV.E, removing “FmHA or its successor agency under Public Law 103-354” and adding “Agency” in its place.

Exhibit I to Subpart A [Amended]

115. Amend Exhibit I to Subpart A of Part 1924 by:

a. Removing “FmHA or its successor agency under Public Law 103-354” wherever it occurs and adding “the Agency” in its place in the following places:

i. Paragraph 300-3; and

ii. Paragraph 302-2.5; and

b. Removing “FmHA or its successor agency under Public Law 103-354” wherever it occurs and adding “Agency” in its place in the following places:

i. Paragraph 302-2.3;

ii Paragraph 303-1.

Exhibit J to Subpart A [Amended]

116. Amend Exhibit J to Subpart A of Part 1924, Part A by:

a. In Section I:

i. Removing “FmHA or its successor agency under Public Law 103-354 field” and adding “Agency field” in its place;

ii. Removing “FmHA or its successor agency under Public Law 103-354 housing” and adding “Agency housing” in its place;

iii. Removing “FmHA or its successor agency under Public Law 103-354 may” and adding “The Agency may” in its place; and

iv. Removing “FmHA or its successor agency under Public Law 103-354 will” and adding “The Agency will” in its place;

b. In Section II introductory text by:

i. Removing “FmHA or its successor agency under Public Law 103-354 has” and adding “The Agency has” in its place;

ii. Removing “to FmHA or its successor agency under Public Law 103-354” and adding “to the Agency” in its place; and

iii. Removing “of FmHA or its successor agency under Public Law 103-354” and adding “of Agency” in its place;

c. In Section II.B:

i. Removing “FmHA or its successor agency under Public Law 103-354 field” and adding “Agency field” in its place;

ii. Removing “FmHA or its successor agency under Public Law 103-354 loan” and adding “Agency loan” in its place;

iii. Removing “FmHA or its successor agency under Public Law 103-354/MPS” and adding “Agency/MPS” in its place; and

iv. Removing “FmHA or its successor agency under Public Law 103-354 in that” and adding “the Agency in that” in its place;

d. In Section III:

i. In the definition of `Manufactured Home” removing “FmHA or its successor agency under Public Law 103-354's” and adding “the Agency's” in its place; and

ii. In the definition of `Permanent Perimeter Enclosure' removing “FmHA or its successor agency under Public Law 103-354 adopted” and adding “Agency adopted” in its place;

e. In Section IV, removing “FmHA or its successor agency under Public Law 103-354” and adding “the Agency” in its place;

f. In Section V:

i. In the introductory text, removing “by FmHA or its successor agency under Public Law 103-354” and adding “by the Agency” in its place;

ii. In Section V.2, removing “by FmHA or its successor agency under Public Law 103-354” and adding “by the Agency” in its place and removing “to FmHA or its successor agency under Public Law 103-354” and adding “to the Agency” in its place; and

iii. In Section V.2.B introductory text, removing “by FmHA or its successor agency under Public Law 103-354” and adding “by the Agency” in its place and removing “FmHA or its successor agency under Public Law 103-354 regulations” and adding “Agency regulations” in its place;

Exhibit J to Subpart A [Amended]

117. Amend Exhibit J to Subpart A of Part 1924, Part B by:

a. In Section I.C removing “FmHA or its successor agency under Public Law 103-354's” and adding “the Agency's” in its place;

b. In Section I.I, removing “FmHA or its successor agency under Public Law 103-354” and adding “Agency” in its place;

c. In Section II.A introductory text, removing “FmHA or its successor agency under Public Law 103-354/MPS” and adding “Agency/MPS” in its place and removing “to FmHA or its successor agency under Public Law 103-354” and adding “to the Agency” in its place;

d. In Section II.A.1, removing “FmHA or its successor agency under Public Law 103-354/MPS” and adding “Agency/MPS” in its place and removing “to FmHA or its successor agency under Public Law 103-354” and adding “to the Agency” in its place;

e. In Section II.A.2, removing “FmHA or its successor agency under Public Law 103-354” and adding “Agency” in its place;

f. In Section II.A.4, removing “FmHA or its successor agency under Public Law 103-354” and adding “Agency” in its place;

g. In Section II.A.6, removing “FmHA or its successor agency under Public Law 103-354 adopted” and adding “Agency adopted” in its place and removing “to FmHA or its successor agency under Public Law 103-354” and adding “to the Agency” in its place;

h. In Section II.A.8, removing “FmHA or its successor agency under Public Law 103-354's” and adding “the Agency's” in its place;

i. In Section II.C.1, removing “FmHA or its successor agency under Public Law 103-354/MPS” wherever it occurs and adding “Agency/MPS” in its place;

j. In Section II.C.2, removing “FmHA or its successor agency under Public Law 103-354/MPS” and adding “Agency/MPS” in its place;

k. In Section III.A, removing “FmHA or its successor agency under Public Law 103-354/MPS” and adding “Agency/MPS” in its place;

l. In Section III.C, removing “FmHA or its successor agency under Public Law 103-354” and adding “Agency” in its place;

m. In Section IV.A.1, removing “FmHA or its successor agency under Public Law 103-354/MPS” and adding “Agency/MPS” in its place; and

n. In Section IV.C.2, removing “FmHA or its successor agency under Public Law 103-354/MPS” and adding “Agency/MPS” in its place and removing “by FmHA or its successor agency under Public Law 103-354” and adding “by the Agency” in its place;

Exhibit J to Subpart A [Amended]

118. Amend Exhibit J to Subpart A of Part 1924, Part C by:

a. In Section I introductory text, removing “FmHA or its successor agency under Public Law 103-354” and adding “the Agency” in its place;

b. In Section I.B, removing “FmHA or its successor agency under Public Law 103-354” wherever it occurs and adding “Agency” in its place;

c. In Section I.C:

i. Removing “FmHA or its successor agency under Public Law 103-354 County” and adding “Agency County” in its place;

ii. Removing “FmHA or its successor agency under Public Law 103-354/MPS” and adding “Agency/MPS” in its place; and

iii. Removing “by FmHA or its successor agency under Public Law 103-354” and adding “by the Agency” in its place; and

d. In Section V.A, removing “Form FmHA or its successor agency under Public Law 103-354” and adding “Form RD” in its place.

Exhibit J to Subpart A [Amended]

119. Amend Exhibit J to Subpart A of Part 1924, Part D, Inspection of Development Works, Section II.D by removing “FmHA or its successor agency under Public Law 103-354's” and adding “the Agency's” in its place.

Exhibit K to Subpart A [Amended]

120. Amend Exhibit K to Subpart A of Part 1924 by:

a. In Section I, removing “FmHA or its successor agency under Public Law 103-354” and adding “the Agency” in its place;

b. In Section II, removing “FmHA or its successor agency under Public Law 103-354's” wherever it occurs and adding “the Agency's” in its place and removing “between FmHA or its successor agency under Public Law 103-354” and adding “between the Agency” in its place; and

c. In Section III, removing “FmHA or its successor agency under Public Law 103-354” and adding “the Agency” in its place.

Exhibit L to Subpart A [Amended]

121. Amend Exhibit L to Subpart A of Part 1924 by:

a. In Section I introductory text, removing “Farmers Home Administration (FmHA) or its successor agency under Public Law 103-354” and adding “the Agency” in its place;

b. In Section I.A, removing “FmHA or its successor agency under Public Law 103-354” and adding “the Agency” in its place;

c. In Section I.B, removing “FmHA or its successor agency under Public Law 103-354” and adding “the Agency” in its place;

d. In Section I.C, removing “FmHA or its successor agency under Public Law 103-354” and adding “the Agency” in its place;

e. In Section II.B, removing “FmHA or its successor agency under Public Law 103-354” wherever it occurs and adding “the Agency” in its place;

f. In Section III.E, removing “if FmHA or its successor agency under Public Law 103-354” and adding “if the Agency” in its place and removing “FmHA or its successor agency under Public Law 103-354 inspections” wherever it occurs and adding “Agency inspections” in its place;

g. In Section IV.A(6), removing “FmHA or its successor agency under Public Law 103-354” and adding “Agency” in its place;

h. In Section IV.B(1), removing “FmHA or its successor agency under Public Law 103-354” and adding “Agency” in its place;

i. In Section IV.B(2), removing “FmHA or its successor agency under Public Law 103-354” and adding “Agency” in its place; and

j. In Attachment 1, removing “FmHA or its successor agency under Public Law 103-354” and adding “the Agency” in its place.

Subpart C—Planning and Performing Site Development Work

§§ 1924.103 and 1924.119 [Amended]

122. Amend §§ 1924.103 and 1924.119 by removing “FmHA” and adding “RD” in its place and by removing “(available in any RHS field office)” wherever it occurs.

Subpart F—Complaints and Compensation for Construction Defects

§ 1924.251 [Amended]

123. Amend § 1924.251 by removing “Farmers Home Administration (FmHA) or its successor agency under Public Law 103-354” and adding “Rural Development” in its place.

§§ 1924.252, 1924.253, 1924.258, 1924.260, 1924.261, 1924.262, 1924.265, 1924.266, 1924.274, and 1924.276 [Amended]

124. Remove “FmHA or its successor agency under Public Law 103-354” wherever it occurs and add “Rural Development” in its place in the following places:

a. Section 1924.252;

b. Section 1924.253;

c. Section 1924.258;

d. Section 1924.260;

e. Section 1924.261;

f. Section 1924.262;

g. Section 1924.265;

h. Section 1924.266;

i. Section 1924.274; and

j. Section 1924.276.

§ 1924.259 [Amended]

125. Amend § 1924.259 by:

a. In paragraph (a), removing “a format specified by FmHA or its successor agency under Public Law 103-354 (available in any FmHA or its successor agency under Public Law 103-354 office)” and adding “a Rural Development approved format” in its place and removing “FmHA or its successor agency under Public Law 103-354 will” and adding “Rural Development will” in its place;

b. In paragraph (b), removing “FmHA or its successor agency under Public Law 103-354 using a format specified by FmHA or its successor agency under Public Law 103-354 (available in any FmHA or its successor agency under Public Law 103-354 office)” and adding “Rural Development using a Rural Development approved format” in its place;

c. In paragraphs (c), (d), and (e) introductory text, removing “FmHA or its successor agency under Public Law 103-354” wherever it occurs and adding “Rural Development” in its place;

d. In paragraph (e)(2) introductory text, removing “FmHA or its successor agency under Public Law 103-354's findings” and adding “the findings” in its place; and

e. In paragraphs (e)(2)(i), (e)(2)(ii), (e)(3), and (e)(4), removing “FmHA or its successor agency under Public Law 103-354” wherever it occurs and adding “Rural Development” in its place.

§ 1924.271 [Amended]

126. Amend § 1924.271 by removing “to FmHA or its successor agency under Public Law 103-354” and adding “to Rural Development” in its place and by removing “(available in any FmHA or its successor agency under Public Law 103-354 office)”.

§ 1924.273 [Amended]

127. Amend § 1924.273 by removing “(available in any FmHA or its successor agency under Public Law 103-354 office)”.

PART 1925—TAXES

128. The authority citation for part 1925 continues to read as follows:

Authority: 5 U.S.C. 301; 7 U.S.C. 1989; 42 U.S.C. 1480.

Subpart C—Planning and Performing Site Development Work

§ 1925.2 [Amended]

129. Amend § 1925.2 by removing “Farmers Home Administration (FmHA) or its successor agency under Public Law 103-354” and adding “Agency” in its place.

§ 1925.3 [Amended]

130. Amend § 1925.3(c) by removing “FmHA or its successor agency under Public Law 103-354” and adding “RD” in its place.

§ 1925.4 [Amended]

131. Amend § 1925.4 by:

a. In paragraph (a), removing “FmHA or its successor agency under Public Law 103-354” wherever it occurs and adding “Agency” in its place; and

b. In paragraph (b), removing “FmHA or its successor agency under Public Law 103-354” and adding “RD” in its place.

PART 1927—TITLE CLEARANCE AND LOAN CLOSING

132. The authority citation for part 1927 continues to read as follows:

Authority: 5 U.S.C. 301; 7 U.S.C. 1989; 42 U.S.C. 1480.

Subpart B—Real Estate Title Clearance and Loan Closing

§ 1927.52 [Amended]

133. Amend § 1927.52 by removing the definition of “FSA” and revising the definitions of “Agency”, “National Office”, “RHS”, and “State Office” to read as follows:

§ 1927.52 Definitions.

Agency. The Rural Housing Service (RHS) or its successor agency.

* * * * *

National Office. The National Headquarters Office of RHS.

* * * * *

RHS. The Rural Housing Service, an agency of the United States Department of Agriculture, or its successor agency.

* * * * *

State Office. This term refers to the Rural Development State Director.

* * * * *

PART 1940—GENERAL

134. The authority citation for part 1940 continues to read as follows:

Authority: 5 U.S.C. 301; 7 U.S.C. 1989; and 42 U.S.C. 1480.

Subpart I—Truth in Lending-Real Estate Settlement Procedures

§ 1940.401 [Amended]

135. Amend § 1940.401 by:

a. Removing “Form FmHA or its successor agency under Public Law 103-354” wherever it occurs and adding “Form RD” in its place; and

b. In paragraph (d)(4)(iii), removing “by FmHA or its successor agency under Public Law 103-354 to the FmHA or its successor agency under Public Law 103-354 County Office” and adding “by Rural Development to the Rural Development County Office” in its place.

§ 1940.406 [Amended]

136. Amend § 1940.406 by removing “Form FmHA or its successor agency under Public Law 103-354” wherever it occurs and adding “Form RD” in its place.

Subpart L—Methodology and Formulas for Allocation of Loan and Grant Program Funds

§ 1940.551 [Amended]

137. Amend § 1940.551 by:

a. In paragraph (a), removing “Administrator of the Farmers Home Administration (FmHA) or its successor agency under Public Law 103-354” and adding “Administrator for the Rural Business-Cooperative Service or the Administrator for the Rural Housing Service, as applicable,” in its place; and

b. In paragraph (c), removing “FmHA or its successor agency under Public Law 103-354” wherever it occurs and adding “Rural Development” in its place.

§§ 1940.552, 1940.557, 1940.578, and 1940.585 [Amended]

138. Amend §§ 1940.552(e), 1940.577(b)(2), 1940.578(k), and 1940.585(g) by removing “FmHA or its successor agency under Public Law 103-354” wherever it occurs and adding “Rural Development” in its place.

139. Revise § 1940.560(b)(3) to read as follows:

§ 1940.560 Guaranteed Rural Rental Housing Program.

* * * * *

(b) * * *

(3) State's percentage of National average cost per unit. The data source for the criterion specified in paragraph (b)(1) of this section is the most recent decennial Census of the United States (decennial Census). The data source for the criterion specified in paragraph (b)(2) of this section is 5-year income data from the American Community Survey (ACS) or, if needed, other Census Bureau data. The data source for the criterion specified in paragraph (b)(3) of this section is the cost per unit data using the applicable maximum per unit dollar amount limitations under section 207(c) of the National Housing Act, which can be obtained from the Department of Housing and Urban Development. The percentage representing each criterion is multiplied by the weight assigned and totaled to arrive at a State factor.

State Factor = (criterion No. 1 × weight of 40%) + (criterion No. 1 × weight of 40%) + (criterion No. 1 × weight of 20%)

* * * * *

140. In § 1940.563, revise paragraph (b)(4) and add paragraph (b)(5) to read as follows:

§ 1940.563 Section 502 non-subsidized guaranteed Rural Housing (RH) loans.

* * * * *

(b) * * *

(4) State's percentage of the national number of rural renter households paying more than 35 percent of income for rent. The data source for each criterion is specified in paragraph (b)(5) of this section. Each criterion is assigned a specific weight according to its relevance in determining need. The percentage representing each criterion is multiplied by the weight factor and summed to arrive at a basic State factor (SF) as follows:

SF = (criterion 1 × weight of 30%) + (criterion 2 × weight of 10%) + (criterion 3 × weight of 30%) + (criterion 4 × weight of 30%)

(5) The data source for the criteria specified in paragraphs (b)(1) and (b)(2) of this section is the most recent decennial Census. The data source for the criteria specified in paragraph (b)(3) and (b)(4) of this section is 5-year income data from the American Community Survey (ACS) or, if needed, other Census Bureau data.

* * * * *

141. In § 1940.564, revise paragraph (b)(4) and add paragraph (b)(5) to read as follows:

§ 1940.564 Section 502 subsidized guaranteed Rural Housing loans.

* * * * *

(b) * * *

(4) State's percentage of the national number of rural renter households paying more than 35 percent of income for rent. The data source for each criterion is specified in paragraph (b)(5) of this section. Each criterion is assigned a specific weight according to its relevance in determining need. The percentage representing each criterion is multiplied by the weight factor and summed to arrive at a basic State factor (SF) as follows:

SF = (criterion 1 × weight of 30%) + (criterion 2 × weight of 10%) + (criterion 3 × weight of 30%) + (criterion 4 × weight of 30%)

(5) The data source for the criteria specified in paragraphs (b)(1), (b)(2), and (b)(4) of this section is the most recent decennial Census. The data source for the criterion specified in paragraph (b)(3) of this section is 5-year income data from the American Community Survey (ACS) or, if needed, other Census Bureau data.

* * * * *

142. Revise § 1940.566(b)(2) to read as follows:

§ 1940.566 Section 504 Housing Repair loans.

* * * * *

(b) * * *

(2) State's percentage of the National number of rural households below 50 percent of area median income. The data source for the first criterion is the most recent decennial Census data. The data source for the second criterion is 5-year income data from the American Community Survey (ACS) or, if needed, other Census Bureau data. Each criterion is assigned a specific weight according to its relevance in determining need. The percentage representing each criterion is multiplied by the weight factor and summed to arrive at a basic State factor (SF).

SF = (criterion No. 1 × weight of 50%) + (criterion No. 2 × weight of 50%)

* * * * *

143. Revise § 1940.567(b)(3) to read as follows:

§ 1940.567 Section 504 Housing Repair grants.

* * * * *

(b) * * *

(3) State's percentage of the National number of rural households below 50 percent of area median income. The data source for the first two of these criteria is the most recent decennial Census data. The data source for the third criterion is the 5-year data from the American Community Survey (ACS) or, if needed, other Census Bureau data. Each criterion is assigned a specific weight according to its relevance in determining need. The percentage representing each criterion is multiplied by the weight factor and summed to arrive at a basic State factor (SF).

SF = (criterion No. 1 × weight of 33 1/3%) + (criterion No. 2 × weight of 33 1/3%) + (criterion No. 3 × weight of 33 1/3%)

* * * * *

144. Revise § 1940.575(b)(3) to read as follows:

§ 1940.575 Section 515 Rural Rental Housing (RRH) loans.

* * * * *

(b) * * *

(3) State's percentage of National rural families with incomes below the poverty level. The data source for the first two of these criterion is the most recent decennial Census data. The data source for the third criterion is the 5-year data from the American Community Survey (ACS) or, if needed, other Census Bureau data. Each criterion is assigned a specific weight according to its relevance in determining need. The percentage representing each criterion is multiplied by the weight assigned and summed to arrive at a State factor (SF).

SF = (criterion No. 1 × weight of 33 1/3%) + (criterion No. 2 × weight of 33 1/3%) + (criterion No. 3 × weight of 33 1/3%)

* * * * *

145. Revise § 1940.585(b)(2) to read as follows:

§ 1940.585 Community Facility loans.

* * * * *

(b) * * *

(2) The data source for the first criterion is the most recent decennial Census data. The data source for the second criterion is the 5-year data from the American Community Survey (ACS) or, if needed, other Census Bureau data. The data source for the third criterion is the most recent Bureau of Labor Statistics data. Each criterion is assigned a specific weight according to its relevance in determining need. The percentage representing each criterion is multiplied by the weight factor and summed to arrive at a State factor (SF). The SF cannot exceed 0.05.

SF = (criterion (b)(1)(i) × 50 percent) + (criterion (b)(1)(ii) × 25 percent) + (criterion (b)(1)(iii) × 25 percent)

* * * * *

146. Amend § 1940.591 by:

a. Revising paragraph (b)(2); and

b. In paragraph (g), removing “(available in any FmHA or its successor agency under Public Law 103-354 office).”

The revision reads as follows:

§ 1940.591 Community Program Guaranteed loans.

* * * * *

(b) * * *

(2) The data source for the first criterion is the most recent decennial Census data. The data source for the second criterion is the 5-year data from the American Community Survey (ACS) or, if needed, other Census Bureau data. The data source for the third criterion is the most recent Bureau of Labor Statistics data. Each criterion is assigned a specific weight according to its relevance in determining need. The percentage representing each criterion is multiplied by the weight factor and summed to arrive at a State factor (SF). The SF cannot exceed 0.05.

SF = (criterion (b)(1)(i) × 50 percent) + (criterion (b)(1)(ii) × 25 percent) + (criterion (b)(1)(iii) × 25 percent)

* * * * *

147. Revise § 1940.592(b)(2) to read as follows:

§ 1940.592 Community facilities grants.

* * * * *

(b) * * *

(2) The data source for the first criterion is the most recent decennial Census data. The data source for the second criterion is the 5-year data from the American Community Survey (ACS) or, if needed, other Census Bureau data. Each criterion is assigned a specific weight according to its relevance in determining need. The percentage representing each criterion is multiplied by the weight factor and summed to arrive at a State factor (SF).

SF (criterion (b)(1)(i) × 50 percent) + (criterion (b)(1)(ii) × 50 percent)

* * * * *

Subpart T—System for Delivery of Certain Rural Development Programs

§ 1940.951 [Amended]

148. Amend § 1940.951 by:

a. In the introductory text, removing “Farmers Home Administration (FmHA) or its successor agency under Public Law 103-354” and adding “Rural Development” in its place; and

b. In paragraph (d), removing “FmHA or its successor agency under Public Law 103-354” and adding “Rural Development” in its place.

§ 1940.953 [Amended]

149. Amend § 1940.953 by:

a. In the definition of `Administrator', removing “FmHA or its successor agency under Public Law 103-354” and adding “Rural Business—Cooperative Service, Rural Housing Service, or Rural Utilities Service” in its place; and

b. In the defintion of `State Director', removing “FmHA or its successor agency under Public Law 103-354” and adding “Rural Development” in its place.

§§ 1940.956, 1940.957, 1940.960, and 1940.969 [Amended]

150. Remove “FmHA or its successor agency under Public Law 103-354” wherever it occurs and add “Rural Development” in its place in the following places:

a. Section 1940.956;

b. Section 1940.957(d);

c. Section 1940.960(a); and

d. Section 1940.969.

§ 1940.961 [Amended]

151. Amend § 1940.961 by:

a. In paragraph (a)(1), removing “FmHA Instruction” and adding “RD Instruction” in its place and removing “FmHA or its successor agency under Public Law 103-354 State” and adding “RD State” in its place;

b. In paragraph (a)(2), removing “FmHA or its successor agency under Public Law 103-354” and adding “Rural Development” in its place; and

c. In paragraph (d)(1), removing “FmHA Instruction” and adding “RD Instruction” in its place.

§ 1940.965 [Amended]

152. Amend § 1940.965 by removing “FmHA or its successor agency under Public Law 103-354” wherever it occurs and adding “Rural Development” in its place.

§ 1940.968 [Amended]

153. Amend § 1940.968 by:

a. In paragraph (a), removing “FmHA or its successor agency under Public Law 103-354's” and adding “Rural Development's” in its place;

b. In paragraphs (c) and (d), removing “FmHA or its successor agency under Public Law 103-354” and adding “Rural Development” in its place;

c. In paragraph (h)(4), removing “FmHA Instruction” and adding “RD Instruction” in its place and removing “FmHA or its successor agency under Public Law 103-354 office” and adding “Rural Development office” in its place;

d. In paragraph (i)(2)(vii), removing “FmHA or its successor agency under Public Law 103-354” and adding “Rural Development” in its place;

e. In paragraph (i)(3)(i), removing “FmHA or its successor agency under Public Law 103-354” and adding “RD” in its place;

f. In paragraph (i)(3)(ii), removing “FmHA or its successor agency under Public Law 103-354” and adding “Rural Development” in its place;

g. In paragraph (i)(3)(iii), removing “FmHA or its successor agency under Public Law 103-354” and adding “RD” in its place;

h. In paragraph (i)(3)(iv), removing “FmHA Instruction” and adding “RD Instruction” in its place and removing “FmHA or its successor agency under Public Law 103-354 office” and adding “Rural Development office” in its place;

i. In paragraph (j)(2):

i. Removing “Exhibit A (available from any FmHA or its successor agency under Public Law 103-354RD State Office), shall be attached to and become a permanent part of Form FmHA or its successor agency under Public Law 103-354 1940-A and the following paragraphs will appear in the comment section of that form:” and adding “Exhibit A of this subpart (available from any Rural Development State Office) shall be attached to and become a permanent part of Form RD 1940-1 and the following paragraphs will appear in the comment section of that form:” in its place;

ii. Removing “FmHA or its successor agency under Public Law 103-354 7 CFR part 1940” and adding “7 CFR part 1940” in its place; and

iii. Removing “approved by FmHA or its successor agency under Public Law 103-354” and adding “approved by Rural Development” in its place;

j. In paragraph (j)(4), removing “Form FmHA or its successor agency under Public Law 103-354” wherever it occurs and adding “Form RD” in its place and removing “FmHA or its successor agency under Public Law 103-354 will retain” and adding “Rural Development will retain” in its place;

k. In paragraph (j)(6), removing “FmHA or its successor agency under Public Law 103-354” and adding “RD” in its place; and

l. In paragraphs (j)(7) and (l), removing “FmHA or its successor agency under Public Law 103-354” and adding “Rural Development” in its place.

PART 1942—ASSOCIATIONS

154. The authority citation for part 1942 continues to read as follows:

Authority: 5 U.S.C. 301; 7 U.S.C. 1989.

Subpart A—Community Facility Loan

§ 1942.1 [Amended]

155. Amend § 1942.1 by:

a. In paragraph (b), removing “FmHA or its successor agency under Public Law 103-354's” and adding “Agency's” in its place;

b. In paragraph (c), removing “FmHA or its successor agency under Public Law 103-354” and adding “RD” in its place; and

c. In pragraph (d), removing “FmHA or its successor agency under Public Law 103-354” wherever it occurs and adding “Agency” in its place.

§ 1942.2 [Amended]

156. Amend § 1942.2:

a. In paragraph (a)(1), removing “FmHA or its successor agency under Public Law 103-354” wherever it occurs and adding “RD's” in its place;

b. In paragraph (a)(2)(iv), removing “by FmHA or its successor agency under Public Law 103-354” and adding “by RD” in its place;

c. In paragraph (a)(3), removing “FmHA or its successor agency under Public Law 103-354 funding” and adding “Agency funding” in its place and removing “FmHA or its successor agency under Public Law 103-354 will issue” and adding “the Agency will issue” in its place;

d. In paragraph (a)(4), removing “FmHA or its successor agency under Public Law 103-354” and “Farmers Home Administration (FmHA) or its successor agency under Public Law 103-354” and adding “Rural Development” in their place;

e. In paragraph (c)(3), removing “FmHA or its successor agency under Public Law 103-354” wherever it occurs and adding “RD” in its place; and

f. In paragraphs (d) and (e), removing “FmHA or its successor agency under Public Law 103-354” wherever it occurs and adding “Rural Development” in its place.

§ 1942.3 [Amended]

157. Amend § 1942.3 by:

a. Removing “Form FmHA or its successor agency under Public Law 103-354” and adding “Form RD” in its place;

b. Removing “422-10” and adding “442-10” in its place; and

c. Removing “by the FmHA or its successor agency under Public Law 103-354” and adding “by the RD” in its place.

§ 1942.5 [Amended]

158. Amend § 1942.5 by:

a. In paragraph (a) introductory text, removing “Ordinarily FmHA or its successor agency under Public Law 103-354” and adding “The Rural Development” in its place and removing “by the FmHA or its successor agency under Public Law 103-354” and adding “by the Rural Development” in its place;

b. In paragraph (a)(1)(i), removing “FmHA or its successor agency under Public Law 103-354” wherever it occurs and adding “RD” in its place and removing “(Public Resolution)” and adding “(Public Bodies)” in its place;

c. In paragraph (a)(1)(ii):

i. Removing “approved by FmHA or its successor agency under Public Law 103-354 by written” and adding “approved by written” in its place;

ii. Removing “approved by FmHA or its successor agency under Public Law 103-354 shall” and adding “approved by RD shall” in its place;

iii. Removing “If FmHA or its successor agency under Public Law 103-354 makes the loan” and adding “If (insert agency name) makes the loan” in its place;

iv. Removing “Form FmHA or its successor agency under Public Law 103-354” wherever it occurs and adding “Form RD” in its place;

v. Removing “submitted to FmHA or its successor agency under Public Law 103-354” and adding “submitted to RD” in its place; and

vi. Removing “FmHA or its successor agency under Public Law 103-354 reserves” and adding “Rural Development reserves” in its place;

d. In paragraphs (b)(1)(ii)(E) and (c)(2), removing “FmHA or its successor agency under Public Law 103-354” and adding “RD” in its place;

e. In paragraph (d) introductory text, removing “FmHA or its successor agency under Public Law 103-354 office” and adding “Rural Development office” in its place and removing “Form FmHA or its successor agency under Public Law 103-354” and adding “Form RD” in its place;

f. In paragraphs (d)(1) and (d)(2), removing “Form FmHA or its successor agency under Public Law 103-354” wherever it occurs and adding “Form RD” in its place;

g. In paragraph (d)(3), removing “FmHA or its successor agency under Public Law 103-354 Field Office terminal” and adding “automated terminal” in its place and removing “Form FmHA or its successor agency under Public Law 103-354” wherever it occurs and adding “Form RD” in its place;

h. In paragraph (d)(5):

i. Removing “FmHA or its successor agency under Public Law 103-354 Field” and adding “Rural Development Field” in its place;

ii. Removing “the Legislative Affairs and Public Information Staff in the National Office” and adding “the Legislative and Public Affairs Staff in the Rural Development National Office” in its place; and

iii. Removing “FmHA Instruction” and adding “RD Instruction” in its place;

i. In paragraph (d)(6), removing “Form FmHA or its successor agency under Public Law 103-354” wherever it occurs and adding “Form RD” in its place;

j. In paragraph (d)(7) introductory text, removing “Form FmHA or its successor agency under Public Law 103-354” and adding “Form RD” in its place and removing “FmHA or its successor agency under Public Law 103-354 Field” and adding “Rural Development Field” in its place; and

k. In paragraph (d)(7)(iii), removing “FmHA or its successor agency under Public Law 103-354” and adding “Rural Development” in its place.

§ 1942.6 [Amended]

159. Amend § 1942.6 by removing “FmHA or its successor agency under Public Law 103-354” wherever it occurs and adding “Rural Development” in its place.

§ 1942.8 [Amended]

160. Amend § 1942.8:

a. In paragraph (d), removing “Form FmHA or its successor agency under Public Law 103-354” and adding “Form RD” in its place;

b. In paragraph (g), removing “review of FmHA or its successor agency under Public Law 103-354's” and adding “review of Rural Developments's” in its place; and

c. In paragraph (h), removing “FmHA or its successor agency under Public Law 103-354 personnel” and adding “Rural Development personnel” in its place and removing “FmHA or its successor agency under Public Law 103-354 Instruction” and adding “RD Instruction” in its place.

§ 1942.16 [Amended]

161. Amend § 1942.16 introductory text by removing “FmHA Instruction” and adding “RD Instruction” in its place and removing “FmHA or its successor agency under Public Law 103-354 office” and adding “Rural Development office” in its place.

§ 1942.17 [Amended]

162. Amend § 1942.17 by:

a. Removing “FmHA or its successor agency under Public Law 103-354” and adding “Rural Development” in its place wherever it occurs in the following places:

i. Paragraph (a);

ii. Paragraphs (b)(2)(i), (b)(3), and (b)(4);

iii. Paragraphs (c)(1), (c)(2) introductory text, and (c)(2)(iv) introductory text;

iv. Paragraphs (d)(1)(iv)(B), (d)(1)(iv)(G) introductory text, (d)(1)(iv)(G)(2)(ii), (d)(1)(v) introductory text, (d)(1)(v)(C), and (d)(1)(v)(D);

v. Paragraphs (e)(1) introductory text, (e)(1)(ii), and (e)(4);

vi. Paragraph (f)(6);

vii. Paragraph (f)(7) introductory text and (f)(7)(i)(D);

viii. Paragraph (g) introductory text;

ix. Paragraphs (h) introductory text, (h)(1)(ii)(B), (h)(2)(ii)(A)(2), (h)(2)(ii)(B), (h)(2)(iii) introductory text, (h)(2)(iii)(C), and (h)(3) introductory text;

x. Paragraphs (j)(3)(i)(A) through (D), (j)(3)(ii)(A), (j)(4) introductory text, (j)(4)(iii)(C), (j)(5), (j)(7), (j)(9), (j)(10)(ii), (j)(10)(iv), and (j)(11);

xi. Paragraphs (k) introductory text, (k)(1)(iv), (k)(4), and (k)(5);

xii. Paragraphs (m)(3) through (m)(6);

xiii. Paragraphs (n)(1), (n)(2)(xiii), (n)(3)(ii), and (n)(6);

xiv. Paragraph (o)(3);

xv. Paragraphs (p)(2) introductory text, (p)(2)(iii), and (p)(3)(i) through (iii);

b. Revising paragraphs (b)(1)(i)(A), (b)(1)(i)(B), (b)(2)(iii), and (b)(2)(iv);

c. In paragraph (b)(5), removing in the paragraph heading “FmHA or its successor agency under Public Law 103-354”; and removing “FmHA or its successor agency under Public Law 103-354 shall” and adding “The Government shall” in its place;

d. In paragraph (c)(2)(iii)(E), removing “FmHA or its successor agency under Public Law 103-354 funds” and adding “Rural Devleopment funds” in its place and removing “between FmHA or its successor agency under Public Law 103-354's” and adding “between Rural Development's” in its place;

e. In paragraph (d)(1)(v)(E):

i. Removing “FmHA or its successor agency under Public Law 103-354 may” and adding “Rural Development may” in its place;

ii. Removing “FmHA or its successor agency under Public Law 103-354's authorization” and adding “Rural Development's authorization” in its place;

iii. Removing “FmHA or its successor agency under Public Law 103-354 authorization” and adding “Rural Development authorization” in its place; and

iv. Removing “FmHA or its successor agency under Public Law 103-354 approval” and adding “Rural Development approval” in its place;

f. In paragraph (f)(5), removing “FmHA Instruction” and adding “RD Instruction” in its place and removing “FmHA or its successor agency under Public Law 103-354 office” and adding “Rural Development office” in its place;

g. In paragraph (f)(6), revising the third, fourth, and fifth sentences;

h. In paragraphs (g)(1) introductory text and (g)(1)(i), removing “FmHA or its successor agency under Public Law 103-354” wherever it occurs and adding “the United States” in its place;

i. In paragraph (g)(1)(ii) introductory text:

i. Removing “acceptable to FmHA or its successor agency under Public Law 103-354” and adding “acceptable to the United States” in its place;

ii. Removing “FmHA or its successor agency under Public Law 103-354 portion” and adding “United States portion” in its place;

iii. Removing “include FmHA or its successor agency under Public Law 103-354” and adding “include United States” in its place;

iv. Removing “the FmHA or its successor agency under Public Law 103-354 State Director” and adding “the State Director” in its place; and

v. Removing “FmHA or its successor agency under Public Law 103-354 must” and adding “The United States must” in its place;

j. In paragraph (g)(1)(iv), removing “FmHA or its successor agency under Public Law 103-354”;

k. In paragraph (g)(2)(iii)(A)(7):

i. Removing “Farmers Home Adminstration or its successor agency under Public Law 103-354” and adding “Rural Development” in its place;

ii. Removing “FmHA Instruction” and adding “RD Instruction” in its place; and

iii. Removing “FmHA or its successor agency under Public Law 103-354 office” and adding “Rural Development office” in its place;

l. In paragraph (g)(3)(i) introductory text, removing “FmHA or its successor agency under Public Law 103-354” and adding “Rural Development” in its place;

m. In paragraphs (g)(3)(i)(B) and (D), removing “FmHA or its successor agency under Public Law 103-354” wherever it occurs and adding “the United States” in its place;

n. In paragraph (g)(3)(iii)(A)(3):

i. Removing “Farmers Home Adminstration or its successor agency under Public Law 103-354” and adding “Rural Development” in its place;

ii. Removing “FmHA Instruction” and adding “RD Instruction” in its place; and

iii. Removing “FmHA or its successor agency under Public Law 103-354 office” and adding “Rural Development office” in its place;

o. In paragraph (h)(2)(i)(B)(2), removing “the Farmers Home Administration or its successor agency under Public Law 103-354” and adding “Rural Development” in its place;

p. In paragraph (j)(3) introductory text, removing “FmHA or its successor agency under Public Law 103-354's” and adding “RD's” in its place;

q. In paragraph (j)(3)(ii)(B):

i. Removing “Form FmHA or its successor agency under Public Law 103-354” and adding “Form RD” in its place;

ii. Removing “acceptable to FmHA or its successor agency under Public Law 103-354” and adding “acceptable to Rural Development” in its place; and

iii. Removing “determined by FmHA or its successor agency under Public Law 103-354” and adding “determined by Rural Development” in its place;

r. Revising paragraph (j)(3)(iii);

s. In paragraph (j)(4)(i) introductory text, removing “FmHA or its successor agency under Public Law 103-354” wherever it occurs and adding “RD” in its place;

t. In paragraph (j)(4)(i)(A), removing “Form FmHA or its successor agency under Public Law 103-354” and adding “Form RD” in its place and removing “give FmHA or its successor agency under Public Law 103-354” and adding “give Rural Development” in its place;

u. In paragraph (j)(4)(i)(B) introductory text, removing “Form FmHA or its successor agency under Public Law 103-354” wherever it occurs and adding “Form RD” in its place and removing “by FmHA or its successor agency under Public Law 103-354” and adding “by Rural Development” in its place;

v. In paragraph (j)(4)(i)(B)(1), removing “FmHA or its successor agency under Public Law 103-354” wherever it occurs and adding “Rural Development” in its place and removing “FmHA or its successor agency under Public Law 103-354's” and adding “Rural Development's” in its place;

w. In paragraph (j)(6)(i), removing “FmHA or its successor agency under Public Law 103-354” and adding “RD” in its place;

x. In paragraph (k)(7), removing “FmHA or its successor agency under Public Law 103-354 financial” and adding “Agency financial” in its place and removing “The FmHA or its successor agency under Public Law 103-354 State Director” and adding “The State Director” in its place;

y. In paragraph (k)(8), removing “FmHA or its successor agency under Public Law 103-354” and adding “Agency” in its place;

z. In paragraph (l)(1):

i. Removing “FmHA or its successor agency under Public Law 103-354 concurrence” and adding “Agency concurrence” in its place;

ii. Removing “Form FmHA or its successor agency under Public Law 103-354” and adding “Form RD” in its place;

iii. Removing “FmHA or its successor agency under Public Law 103-354/EPA” and adding “Agency/EPA” in its place; and

iv. Removing “FmHA or its successor agency under Public Law 103-354 and EPA” and adding “RD and EPA” in its place;

aa. In paragraph (l)(3), removing “FmHA or its successor agency under Public Law 103-354” and adding “the Agency” in its place;

bb. In paragraphs (l)(4) and (m)(1), removing “FmHA or its successor agency under Public Law 103-354” and adding “Agency” in its place;

cc. In paragraph (m)(2):

i. Removing “FmHA or its successor agency under Public Law 103-354 will tentatively” and adding “RD will tentatively” in its place;

ii. Removing “FmHA or its successor agency under Public Law 103-354 loan” and adding “agency loan” in its place;

iii. Removing “from FmHA or its successor agency under Public Law 103-354” and adding “from Rural Development” in its place;

iv. Removing “where FmHA or its successor agency under Public Law 103-354” and adding “where Rural Development” in its place;

v. Removing “FmHA or its successor agency under Public Law 103-354 will notify” and adding “Rural Development will notify” in its place; and

vi. Removing “FmHA or its successor agency under Public Law 103-354 loans” and adding “Rural Development loans” in its place;

dd. In paragraph (n)(2) introductory text, removing “FmHA or its successor agency under Public Law 103-354” wherever it occurs and adding “RD” in its place;

ee. In paragraph (n)(2)(vii), removing “FmHA or its successor agency under Public Law 103-354's” and adding “Rural Development's” in its place;

ff. In paragraph (n)(2)(x), removing “FmHA or its successor agency under Public Law 103-354” wherever it occurs and adding “RD” in its place;

gg. In paragraph (n)(3) introductory text:

i. Removing “FmHA or its successor agency under Public Law 103-354 funds” and adding “Rural Development funds” in its place;

ii. Removing “FmHA or its successor agency under Public Law 103-354's commitment” and adding “Rural Development's commitment” in its place;

iii. Removing “FmHA or its successor agency under Public Law 103-354 loan” and adding “Rural Development loan” in its place;

iv. Removing “When an FmHA or its successor agency under Public Law 103-354” and adding “When a Rural Development” in its place; and

v. Removing “provide FmHA or its successor agency under Public Law 103-354” and adding “provide Rural Development” in its place;

hh. In paragraph (p)(2)(ii), removing “FmHA or its successor agency under Public Law 103-354” and adding “RD” in its place;

ii. In paragraph (p)(4):

i. Removing “FmHA or its successor agency under Public Law 103-354 funds” and adding “Rural Development funds” in its place;

ii. Removing “benefit of FmHA or its successor agency under Public Law 103-354” and adding “benefit of Rural Development” in its place; and

iii. Removing “Form FmHA or its successor agency under Public Law 103-354” wherever it occurs and adding “Form RD” in its place;

jj. In paragraph (p)(5), removing “Form FmHA or its successor agency under Public Law 103-354 funds” wherever it occurs and adding “Form RD” in its place and removing “by FmHA or its successor agency under Public Law 103-354” and adding “by the Agency” in its place;

kk. In paragraph (p)(6)(i)(A):

i. Removing “FmHA or its successor agency under Public Law 103-354 loan” and adding “agency loan” in its place;

ii. Removing “FmHA or its successor agency under Public Law 103-354 grant” and adding “agency grant” in its place; and

iii. Removing “FmHA or its successor agency under Public Law 103-354 indebtedness” and adding “RD indebtedness” in its place; and

11. In paragraph (p)(6)(i)(B), removing “FmHA or its successor agency under Public Law 103-354” wherever it occurs and adding “agency” in its place.

The revisions read as follows:

§ 1942.17 Community facilities.

* * * * *

(b) * * *

(1) * * *

(i) * * *

(A) Loans for water or waste disposal facilities will not be made to a city or town with a population in excess of 10,000 inhabitants. The population figure is obtained from the most recent decennial Census of the United States (decennial Census). If the applicable population figure cannot be obtained from the most recent decennial Census, RD will determine the applicable population figure based on available population data.

(B) Loans for essential community facilities will not be made to a city or town with a population in excess of 20,000 inhabitants according to the most recent decennial Census.

* * * * *

(2) * * *

(iii) For water or waste disposal facilities, the terms rural and rural area will not include any area in any city or town with a population in excess of 10,000 inhabitants. The population figure is obtained from the most recent decennial Census. If the applicable population figure cannot be obtained from the most recent decennial Census, RD will determine the applicable population figure based on available population data.

(iv) For essential community facilities, the terms rural and rural area will not include any area in any city or town with a population in excess of 20,000 inhabitants. The population figure is obtained from the most recent decennial Census. If the applicable population figure cannot be obtained from the most recent decennial Census, RD will determine the applicable population figure based on available population data.

* * * * *

(f) * * *

(6) Income determination. * * * The median household income of the service area and the nonmetropolitan median household income of the State will be determined from 5-year income data from the American Community Survey (ACS) or, if needed, other Census Bureau data. If there is reason to believe that the ACS or other Census Bureau data does not accurately represent the median household income within the area to be served, the reasons will be documented and the applicant may furnish, or Rural Development may obtain, additional information regarding such median household income data. Information must consist of reliable data from local, regional, State or Federal sources or from a survey conducted by a reliable impartial source. * * *

(j) * * *

(3) * * *

(iii) Insurance. The following types of coverage must be maintained if appropriate for the type of project and entity involved. Insurance must be in amounts acceptable to the Agency and at least equivalent to coverage for real property and equipment acquired without Federal funds.

(A) Property insurance. Fire and extended coverage will normally be maintained on all structures except as noted in paragraphs (j)(3)(iii)(A)(1) and (2) of this section. Ordinarily, Rural Development should be listed as mortgagee on the policy when Rural Development has a lien on the property. Normally, major items of equipment or machinery located in the insured structures must also be covered. Exceptions:

(1) Reservoirs, standpipes, elevated tanks, and other structures built entirely of noncombustible materials if such structures are not normally insured.

(2) Subsurface lift stations except for the value of electrical and pumping equipment therein.

(B) Liability and property damage insurance, including vehicular coverage.

(C) Malpractice insurance. The need and requirements for malpractice insurance will be carefully and thoroughly considered in connection with each health care facility financed.

(D) Flood insurance. Facilities located in special flood- and mudslide-prone areas must comply with the eligibility and insurance requirements of subpart B of part 1806 of this chapter (RD Instruction 426.2).

(E) Worker's compensation. The borrower will carry worker's compensation insurance for employees in accordance with State laws.

* * * * *

§ 1942.18 [Amended]

163. Amend § 1942.18 by:

a. Removing “FmHA or its successor agency under Public Law 103-354” and adding “Rural Development” in its place wherever it occurs in the following places:

i. Paragraph (b);

ii. Paragraph (c);

iii. Paragraphs (d) introductory text, (d)(4), and (d)(11);

iv. Paragraph(e)(2);

v. Paragraphs(f)(1) introductory text, (f)(1)(iii)(C), (f)(5), and (f)(6);

vi. Paragraph (g);

vii. Paragraph (h);

viii. Paragraphs (j)(1) introductory text, (j)(2), and (j)(5)(iv);

ix. Paragraph (k)(5);

x. Paragraphs (m) introductory text, (m)(1) introductory text, (m)(2), and (m)(4);

xi. Paragraphs (n) introductory text, (n)(5), (n)(6), (n)(8), (n)(9), and (n)(11); and

xii. Paragraphs (o)(2) introductory text, (o)(2)(iii) introductory text, (o)(2)(iii)(B), (o)(4)(iv), (o)(6), (o)(7)(i) introductory text, and (o)(7)(iii) introductory text;

b. In paragraph (d)(1) introductory text, removing “FmHA or its successor agency under Public Law 103-354's” and adding “Rural Development's” in its place;

c. In paragraph (d)(1)(i):

i. Removing “FmHA or its successor agency under Public Law 103-354 offices” and adding “Rural Development offices” in its place;

ii. Removing “FmHA or its successor agency under Public Law 103-354's eligibility” and adding “the Rural Development's eligibility” in its place; and

iii. Removing “FmHA Instruction” and adding “RD Instruction” in its place;

d. In paragraph (d)(16), removing “FmHA or its successor agency under Public Law 103-354 will” and adding “Rural Development will” in its place and removing “FmHA or its successor agency under Public Law 103-354's State” and adding “Rural Development's State” in its place;

e. In paragraph (e)(1):

i. Removing “from FmHA or its successor agency under Public Law 103-354” and adding “from Rural Development” in its place;

ii. Removing “FmHA or its successor agency under Public Law 103-354's” and adding “Rural Development's” in its place; and

iii. Removing “by FmHA or its successor agency under Public Law 103-354” and adding “by Rural Development” in its place;

f. In paragraph (f) introductory text:

i. Removing “FmHA or its successor agency under Public Law 103-354 State” and adding “Rural Development State” in its place;

ii. Removing “FmHA or its successor agency under Public Law 103-354 review” and adding “Rural Development review” in its place;

iii. Removing “Form FmHA or its successor agency under Public Law 103-354” and adding “Form RD” in its place;

iv. Removing “FmHA or its successor agency under Public Law 103-354 loan” and adding “Rural Development loan” in its place; and

v. Removing “pledged to FmHA or its successor agency under Public Law 103-354” and adding “pledged to Rural Development” in its place;

g. In paragraphs (f)(1)(iii)(B)(2) and(3), removing “Form FmHA or its successor agency under Public Law 103-354” and adding “Form RD” in its place;

h. In paragraph (n)(3):

i. Removing “Form FmHA or its successor agency under Public Law 103-354” wherever it occurs and adding “Form RD” in its place;

ii. Removing “FmHA or its successor agency under Public Law 103-354 office” and adding “Rural Development office” in its place; and

iii. Removing “acting through the Farmers Home Administration or its successor agency under Public Law 103-354” and adding “acting through Rural Development” in its place;

i. In paragraph (o)(1), removing “where FmHA or its successor agency under Public Law 103-354” and adding “where Rural Development” in its place and removing “Form FmHA or its successor agency under Public Law 103-354” wherever it occurs and adding “Form RD” in its place;

j. In paragraph (o)(3):

i. Removing “made by FmHA or its successor agency under Public Law 103-354” and adding “made by Rural Development” in its place;

ii. Removing “FmHA or its successor agency under Public Law 103-354 for acceptance” wherever it occurs and adding “Rural Development for acceptance” in its place;

iii. Removing “Form FmHA or its successor agency under Public Law 103-354” and adding “Form RD” in its place; and

iv. Removing “from FmHA or its successor agency under Public Law 103-354” and adding “from Rural Development” in its place;

k. In paragraph (o)(5), removing “FmHA or its successor agency under Public Law 103-354 State” wherever it occurs and adding “Rural Development State” in its place and removing “Form FmHA or its successor agency under Public Law 103-354” and adding “Form RD” in its place;

l. In paragraph (o)(7)(i)(C), removing “FmHA or its successor agency under Public Law 103-354's” and adding “Rural Development's” in its place; and

m. In paragraph (o)(7)(ii), removing “Form FmHA or its successor agency under Public Law 103-354” and adding “Form RD” in its place and removing “FmHA or its successor agency under Public Law 103-354 State” and adding “the Rural Development State” in its place.

§ 1942.19 [Amended]

164. Amend § 1942.19 by:

a. In the following paragraphs, removing “FmHA or its successor agency under Public Law 103-354” wherever it occurs and adding “Rural Development” in its place:

i. Paragraphs (b)(1), (b)(2) introductory text, (b)(2)(iv), and (b)(2)(vi);

ii. Paragraph (c)(11);

iii. Paragraph (d);

iv. Paragraphs (e) introductory text and (e)(2)(i) through (e)(2)(iii);

v. Paragraph (f);

vi. Paragraph (g) introductory text; and

vii. Paragraphs (h)(1), (h)(4), (h)(7), (h)(9), (h)(10)(ii), and (h)(10)(iii).

b. In paragraph (c) introductory text, removing “FmHA or its successor agency under Public Law 103-354” wherever it occurs and adding “Rural Development” in its place and removing “discusesd” and adding “discussed” in its place;

c. In paragraph (e)(1), removing “Form FmHA or its successor agency under Public Law 103-354” and adding “Form RD” in its place;

d. In paragraph (e)(2), removing “Form FmHA or its successor agency under Public Law 103-354” wherever it occurs and adding “Form RD” in its place and removing “FmHA or its successor agency under Public Law 103-354 advance” and adding “Rural Development advance” in its place;

e. In paragraph (h)(2):

i. Removing “purchased by FmHA or its successor agency under Public Law 103-354” and adding “purchased by Rural Development” in its place;

ii. Removing “Farmers Home Administration or its successor agency under Public Law 103-354” and adding “Rural Development” in its place;

iii. Removing “address of FmHA or its successor agency under Public Law 103-354” and adding “address of Rural Development” in its place; and

iv. Removing “FmHA or its successor agency under Public Law 103-354 State Office” and adding “Rural Development State Office” in its place;

f. In paragraph (h)(10)(iv), removing “FmHA” and adding “RD” in its place;

g. In paragraph (h)(11)(iii), removing “Form FmHA or its successor agency under Public Law 103-354” and adding “Form RD” in its place; and

h. In paragraph (i):

i. Removing “Bidding by FmHA or its successor agency under Public Law 103-354” and adding “Bidding by Rural Development” in its place;

ii. Removing “FmHA or its successor agency under Public Law 103-354 will not” and adding “Rural Development will not” in its place;

iii. Removing “FmHA or its successor agency under Public Law 103-354's rates” and adding “Rural Development's rates” in its place; and

iv. Removing “FmHA or its successor agency under Public Law 103-354 will negotiate” and adding “Rural Development will negotiate” in its place.

§ 1942.20 [Amended]

165. Amend § 1942.20 by:

a. In paragraph (a) introductory text, removing “FmHA or its successor agency under Public Law 103-354”;

b. In paragraph (a)(1), removing “FmHA or its successor agency under Public Law 103-354's” and adding “Agency's” in its place;

c. In paragraph (a)(12), removing “Farmers Home Administration or its successor agency under Public Law 103-354—Department of Agriculture Pertaining to EDA Public Works Projects Assisted by an FmHA or its successor agency under Public Law 103-354 Loan” and adding “Department of Agriculture Pertaining to EDA Public Works Projects Assisted by an Agency Loan” in its place;

d. In paragraph (a)(13), removing “Farmers Home Administration or its successor agency under Public Law 103-354-”;

e. In paragraphs (a)(18) and (a)(20), removing “FmHA or its successor agency under Public Law 103-354” and adding “Agency” in its place;

f. In paragraph (a)(25), removing “EPA and FmHA or its successor agency under Public Law 103-354” and adding “Environmental Protection Agency and the Agency” in its place; and

g. In paragraph (b), removing “FmHA or its successor agency under Public Law 103-354” wherever it occurs and adding “Agency” in its place.

Subpart C—Fire and Rescue and Other Small Community Facilities Projects

§ 1942.102 [Amended]

166. Amend § 1942.102 by:

a. In paragraph (a), removing “Farmers Home Administration (FmHA) or its successor agency under Public Law 103-354” and adding “Agency” in its place; and

b. In paragraph (b), removing “FmHA or its successor agency under Public Law 103-354's” and adding “RD's” in its place.

§ 1942.105 [Amended]

167. Amend § 1942.105 by removing “FmHA or its successor agency under Public Law 103-354” and adding “RD” in its place.

§ 1942.107 [Amended]

168. Amend § 1942.107(c) by removing “FmHA or its successor agency under Public Law 103-354 funds” and adding “Agency funds” in its place and by removing “by Farmers Home Administration (FmHA) or its successor agency under Public Law 103-354” and adding “by RD” in its place.

§ 1942.108 [Amended]

169. Amend § 1942.108(c) by removing “FmHA or its successor agency under Public Law 103-354” wherever it occurs and adding “RD” in its place.

§ 1942.112 [Amended]

170. Amend § 1942.112 by:

a. In paragraph (a)(2)(ii), removing “FmHA or its successor agency under Public Law 103-354” and adding “RD” in its place;

b. In paragraph (a)(3) introductory text, removing “FmHA or its successor agency under Public Law 103-354 approval” and adding “Agency approval” in its place and removing “FmHA or its successor agency under Public Law 103-354 determines” and adding “RD determines” in its place;

c. In paragraphs (a)(3)(iii) and (a)(3)(iv), removing “FmHA or its successor agency under Public Law 103-354” and adding “RD” in its place; and

d. In paragraph (a)(3)(v):

i. Removing “FmHA or its successor agency under Public Law 103-354 may authorize” and adding “RD may authorize” in its place;

ii. Removing “FmHA or its successor agency under Public Law 103-354's authorization” and adding “RD's authorization” in its place;

iii. Removing “and FmHA or its successor agency under Public Law 103-354 authorization” and adding “and Agency authorization” in its place; and

iv. Removing “without FmHA or its successor agency under Public Law 103-354 approval” and adding “without Agency approval” in its place.

§ 1942.114 [Amended]

171. Amend § 1942.114 by:

a. In the introductory text, removing “FmHA or its successor agency under Public Law 103-354” and adding “RD” in its place; and

b. In paragraph (a)(1), removing “FmHA or its successor agency under Public Law 103-354” and adding “Agency” in its place.

§ 1942.115 [Amended]

172. Amend § 1942.115 by removing “FmHA or its successor agency under Public Law 103-354 may require” and adding “RD may require” in its place and by removing “FmHA or its successor agency under Public Law 103-354 employee” and adding “Agency employee” in its place.

§ 1942.116 [Amended]

173. Amend § 1942.116 by:

a. In the introductory text, removing “FmHA or its successor agency under Public Law 103-354” and adding “Agency” in its place; and

b. In paragraphs (a) and (b), removing “FmHA or its successor agency under Public Law 103-354” and adding “RD” in its place.

§ 1942.122 [Amended]

174. Amend § 1942.122 by:

a. In the heading of paragraph (a), removing “FmHA or its successor agency under Public Law 103-354” and adding “Agency” in its place; and

b. In paragraph (f), removing “FmHA or its successor agency under Public Law 103-354” and adding “RD” in its place.

§ 1942.123 [Amended]

175. Amend § 1942.123 by:

a. In paragraphs (a)(1) and (i), removing “FmHA or its successor agency under Public Law 103-354” and adding “RD” in its place; and

b. In paragraph (k):

i. Removing “FmHA or its successor agency under Public Law 103-354 personnel” and adding “Agency personnel” in its place;

ii. Removing “FmHA Instruction” and adding “RD Instruction” in its place; and

iii. Removing “FmHA or its successor agency under Public Law 103-354 office” and adding “RD office” in its place.

§ 1942.126 [Amended]

176. Amend § 1942.126 by:

a. In paragraph (b) introductory text, removing “FmHA or its successor agency under Public Law 103-354” and adding “Agency” in its place;

b. In paragraph (b)(1), removing “FmHA or its successor agency under Public Law 103-354 may” and adding “RD may” in its place and removing “FmHA or its successor agency under Public Law 103-354 office” and adding “RD office” in its place;

c. In paragraph (b)(2), removing “FmHA or its successor agency under Public Law 103-354 concurrence” and adding “Agency concurrence” in its place and removing “FmHA or its successor agency under Public Law 103-354 may” and adding “RD may” in its place;

d. In paragraphs (b)(3), (c), and (d)(1), removing “FmHA or its successor agency under Public Law 103-354” wherever it occurs and adding “RD” in its place;

e. In paragraph (d)(2):

i. Removing “FmHA or its successor agency under Public Law 103-354 for approval” and adding “RD for approval” in its place;

ii. Removing “approved by FmHA or its successor agency under Public Law 103-354” and adding “approved by RD” in its place; and

iii. Removing “FmHA or its successor agency under Public Law 103-354 District” and adding “Agency District” in its place;

f. In paragraph (h) introductory text, removing “FmHA or its successor agency under Public Law 103-354” and adding “Agency” in its place;

g. In paragraph (k), removing “FmHA or its successor agency under Public Law 103-354” wherever it occurs and adding “RD” in its place;

h. In paragraph (l)(1), removing “FmHA or its successor agency under Public Law 103-354 will” and adding “RD will” in its place and removing “Form FmHA or its successor agency under Public Law 103-354” wherever it occurs and adding “Form RD” in its place;

i. In paragraph (l)(2), removing “to FmHA or its successor agency under Public Law 103-354” and adding “to RD” in its place and removing “FmHA or its successor agency under Public Law 103-354 funds” and adding “Agency funds” in its place;

j. In paragraph (l)(2)(iii) introductory text, removing “FmHA or its successor agency under Public Law 103-354” and adding “RD” in its place;

k. In paragraph (l)(2)(iii)(B), removing “FmHA or its successor agency under Public Law 103-354” and adding “Agency” in its place;

l. In paragraph (l)(3) introductory text:

i. Removing “or FmHA or its successor agency under Public Law 103-354” and adding “or RD” in its place;

ii. Removing “inspector to FmHA or its successor agency under Public Law 103-354” and adding “inspector to RD” in its place;

iii. Removing “FmHA or its successor agency under Public Law 103-354 District” and adding “Agency District” in its place;

iv. Removing “guide 11” and adding “Guide 11” in its place;

v. Removing “FmHA or its successor agency under Public Law 103-354 office” and adding “Rural Development office” in its place; and

vi. Removing “Inspections by FmHA or its successor agency under Public Law 103-354” and adding “Inspections by RD” in its place;

m. In paragraph (l)(4), removing “Form FmHA or its successor agency under Public Law 103-354” and adding “Form RD” in its place and removing “FmHA or its successor agency under Public Law 103-354 State Director” and adding “Agency State Director” in its place;

n. In paragraphs (l)(5) and (l)(6)(i) introductory text, removing “FmHA or its successor agency under Public Law 103-354” wherever it occurs and adding “RD” in its place;

o. In paragraph (l)(6)(i)(C), removing “FmHA or its successor agency under Public Law 103-354's” and adding “RD's” in its place; and

p. In paragraph (l)(6)(ii), removing “Form FmHA or its successor agency under Public Law 103-354” and adding “Form RD” in its place and removing “FmHA or its successor agency under Public Law 103-354 District” and adding “Agency District” in its place; and

q. In paragraph (l)(6)(iii) introductory text, removing “FmHA or its successor agency under Public Law 103-354” and adding “Agency” in its place.

§ 1942.127 [Amended]

177. Amend § 1942.127 by:

a. In paragraph (e)(1), removing “Form FmHA or its successor agency under Public Law 103-354” wherever it occurs and adding “Form RD” in its place and removing “by FmHA or its successor agency under Public Law 103-354” and adding “by RD” in its place; and

b. In paragraph (e)(2), removing “FmHA or its successor agency under Public Law 103-354 loan” and adding “Agency loan” in its place and removing “FmHA or its successor agency under Public Law 103-354 may” and adding “RD may” in its place.

§ 1942.128 [Amended]

178. Amend § 1942.128(b) by removing “FmHA or its successor agency under Public Law 103-354” wherever it occurs and adding “RD” in its place.

§ 1942.134 [Amended]

179. Amend § 1942.134 introductory text by removing “FmHA Instruction” and adding “RD Instruction” in its place and by removing “FmHA or its successor agency under Public Law 103-354 Office” and adding “Rural Development office” in its place.

Subpart G—Rural Business Enterprise Grants and Television Demonstration Grants

§ 1942.301 [Amended]

180. Amend § 1942.301 by removing “Farmers Home Administration (FmHA) or its successor agency under Public Law 103-354” and “FmHA or its successor agency under Public Law 103-354” wherever they occur and adding “Agency” in their place.

§§ 1942.302. 1942.303, and 1942.304 [Amended]

181. Amend §§ 1942.302, 1942.303, and 1942.304 by removing “FmHA or its successor agency under Public Law 103-354” wherever it occurs and adding “Agency” in its place.

182. In addition to the amendments set forth above, in § 1942.304, revise the definition of “Rural and Rural Area” to read as follows:

§ 1942.304 Definitions.

* * * * *

Rural and Rural Area. Any area other than a city or town that has a population of greater than 50,000 inhabitants and the urbanized area contiguous and adjacent to such a city or town. The population figure is obtained from the most recent decennial Census. If the applicable population figure cannot be obtained from the most recent decennial Census, RD will determine the applicable population figure based on available population data.

* * * * *

§ 1942.305 [Amended]

183. Amend § 1942.305 by:

a. In paragraph (b) introductory text, removing “FmHA or its successor agency under Public Law 103-354” and adding “Agency” in its place; and

b. In paragraphs (b)(3)(iv)(A), (b)(3)(iv)(C), (b)(3)(iv)(E), and (b)(3)(v), removing “FmHA or its successor agency under Public Law 103-354” and adding “RD” in its place.

§ 1942.306 [Amended]

184. Amend § 1942.306(c) by:

a. Removing “FmHA or its successor agency under Public Law 103-354 grant” and adding “Agency grant” in its place;

b. Removing “FmHA or its successor agency under Public Law 103-354 loan” and adding “Agency loan” in its place; and

c. Removing “with FmHA or its successor agency under Public Law 103-354” and adding “with RD” in its place.

§ 1942.308 [Amended]

185. Amend § 1942.308 by:

a. In paragraph (a):

i. Removing “FmHA or its successor agency under Public Law 103-354 assistance” and adding “Agency assistance” in its place;

ii. Removing “FmHA or its successor agency under Public Law 103-354 has” and adding “RD has” in its place; and

iii. Removing “FmHA or its successor agency under Public Law 103-354 regulations” and adding “Agency regulations” in its place;

b. In paragraph (b), removing “FmHA or its successor agency under Public Law 103-354” wherever it occurs and adding “RD” in its place; and

c. In paragraph (d):

i. Removing “FmHA or its successor agency under Public Law 103-354 for” and adding “RD for” in its place;

ii. Removing “by FmHA or its successor agency under Public Law 103-354” and adding “by RD” in its place; and

iii. Removing “FmHA or its successor agency under Public Law 103-354 State” and adding “Agency State” in its place.

§ 1942.310 [Amended]

186. Amend § 1942.310 by:

a. In paragraph (a):

i. Removing “When FmHA or its successor agency under Public Law 103-354” and adding “When RD” in its place;

ii. Removing “no FmHA or its successor agency under Public Law 103-354” and adding “no Agency” in its place;

iii. Removing “unless FmHA or its successor agency under Public Law 103-354” and adding “unless RD” in its place; and

iv. Removing “FmHA or its successor agency under Public Law 103-354 shall” and adding “RD shall” in its place;

b. In paragraph (b)(1), removing “FmHA or its successor agency under Public Law 103-354 will” and adding “RD will” in its place;

c. In paragraph (b)(2), removing “FmHA or its successor agency under Public Law 103-354's” and adding “RD's” in its place;

d. In paragraph (b)(4):

i. Removing “Form FmHA or its successor agency under Public Law 103-354” and adding “Form RD” in its place;

ii. Removing “FmHA or its successor agency under Public Law 103-354 will” and adding “RD will” in its place;

iii. Removing “Forms FmHA” and adding “Forms RD” in its place;

iv. Removing “FmHA or its successor agency under Public Law 103-354's” wherever it occurs and adding “RD's” in its place;

v. Removing “prior to FmHA or its successor agency under Public Law 103-354” and adding “prior to RD” in its place; and

vi. Removing “FmHA or its successor agency under Public Law 103-354 may” and adding “RD may” in its place;

e. In paragraph (c)(1) introductory text, removing “FmHA or its successor agency under Public Law 103-354” wherever it occurs and adding “RD” in its place;

f. In paragraph (c)(1)(ii), removing “FmHA or its successor agency under Public Law 103-354” and adding “RD” in its place;

g. In paragraph (c)(3):

i. Removing “applicant to FmHA or its successor agency under Public Law 103-354” and adding “applicant to RD” in its place;

ii. Removing “FmHA or its successor agency under Public Law 103-354 National” and adding “Agency National” in its place; and

iii. Removing “provided FmHA or its successor agency under Public Law 103-354” and adding “provided RD” in its place;

h. In paragraph (c)(4):

i. Removing “FmHA or its successor agency under Public Law 103-354 grant” and adding “Agency grant” in its place;

ii. Removing “to FmHA or its successor agency under Public Law 103-354” and adding “to RD” in its place; and

iii. Removing “from FmHA or its successor agency under Public Law 103-354” and adding “from RD” in its place.

§§ 1942.311 and 1942.313 [Amended]

187. Amend §§ 1942.311(b) and 1942.313(b) by removing “FmHA or its successor agency under Public Law 103-354” and adding “RD” in its place.

§ 1942.315 [Amended]

188. Amend § 1942.315(b) by removing “Form FmHA or its successor agency under Public Law 103-354” and adding “Form RD” in its place.

§ 1942.316 [Amended]

189. Amend § 1942.316(a) by removing “FmHA or its successor agency under Public Law 103-354” and adding “RD” in its place.

PART 1944—HOUSING

190. The authority citation for part 1944 continues to read as follows:

Authority: 5 U.S.C. 301; 42 U.S.C. 1480.

Subpart B—Housing Application Packaging Grants

§ 1944.51 [Amended]

191. Amend § 1944.51 by removing “Farmers Home Administration (FmHA) or its successor agency under Public Law 103-354” and “FmHA or its successor agency under Public Law 103-354” and adding “Rural Development” in their place.

§§ 1944.52 and 1944.53 [Amended]

192. Amend §§ 1944.52 and 1944.53 by removing “FmHA or its successor agency under Public Law 103-354” wherever it occurs and adding “Rural Development” in its place.

193. In addition to the amendments set forth above, in § 1944.52, revise the definition of “Designated counties” to read as follows:

§ 1944.52 Definitions.

* * * * *

Designated counties. These counties are listed in exhibit D of this subpart. The counties meet the following criteria:

(1) Twenty percent or more of the county population is at or below the poverty level based on the most recent 5-year survey of the American Community Survey of the Census Bureau or other Census Bureau data if needed; and

(2) Ten percent or more of the occupied housing units are substandard based on the most recent decennial Census of the United States.

* * * * *

§ 1944.71 [Amended]

194. Amend § 1944.71(b) by removing “FmHA or its successor agency under Public Law 103-354's” and adding “Rural Development's” in its place.

§ 1944.73 [Amended]

195. Amend § 1944.73 by:

a. In paragraph (a) introductory text:

i. Removing “an FmHA or its successor agency under Public Law 103-354 office” and adding “a Rural Development office” in its place;

ii. Removing “the FmHA or its successor agency under Public Law 103-354 office” and adding “the Rural Development office” in its place;

iii. Removing “FmHA Instruction” and adding “RD Instruction” in its place; and

iv. Removing “any FmHA or its successor agency under Public Law 103-354 office” and adding “any Rural Development office” in its place;

b. In paragraph (a)(1), removing “FmHA or its successor agency under Public Law 103-354” and adding “Rural Development” in its place;

c. In paragraph (a)(2), removing “FmHA” wherever it occurs and adding “RD” in its place; and

d. In paragraphs (b) and (d), removing “FmHA or its successor agency under Public Law 103-354” and adding “Rural Development” in its place.

Subpart I—Self-Help Technical Assistance Grants

§ 1944.401 [Amended]

196. Amend § 1944.401 by removing “to FmHA or its successor agency under Public Law 103-354” and adding “to Rural Development” in its place and by removing “an FmHA or its successor agency under Public Law 103-354” and adding “a Rural Development” in its place.

§ 1944.402 [Amended]

197. Amend § 1944.402 introductory text by removing “Farmers Home Administration (FmHA) or its successor agency under Public Law 103-354” and adding “Rural Development” in its place.

§ 1944.403, 1944.404, 1944.415, 1944.416, 1944.419, 1944.422, and 1944.426 [Amended]

198. Remove “FmHA or its successor agency under Public Law 103-354” wherever it occurs and add “Rural Development” in its place in the following places:

a. Section 1944.403;

b. Section 1944.404;

c. Section 1944.415;

d. Section 1944.416;

e. Section 1944.419;

f. Section 1944.422; and

g. Section 1944.426.

§ 1944.410 [Amended]

199. Amend § 1944.410 by:

a. In paragraphs (b)(1)(ii) and (c)(1), removing “FmHA or its successor agency under Public Law 103-354” and adding “RD” in its place;

b. In paragraph (c)(3), removing “FmHA or its successor agency under Public Law 103-354” and adding “Rural Development” in its place; and

c. In paragraph (e)(6), removing “FmHA or its successor agency under Public Law 103-354” and adding “Rural Development” in its place.

§ 1944.411 [Amended]

200. Amend § 1944.411 by:

a. In paragraph (d), removing “FmHA or its successor agency under Public Law 103-354” and adding “RD” in its place; and

b. In paragraph (g), removing “FmHA or its successor agency under Public Law 103-354” and adding “Rural Development” in its place.

§ 1944.412 [Amended]

201. Amend § 1944.412 by removing “FmHA” wherever it occurs and adding “RD” in its place.

§ 1944.413 [Amended]

202. Amend § 1944.413 by removing “FmHA or its successor agency under Public Law 103-354” wherever it occurs and adding “RD” in its place.

§ 1944.417 [Amended]

203. Amend § 1944.417 by:

a. In the introductory text to the section, removing “FmHA or its successor agency under Public Law 103-354” wherever it occurs and adding “Rural Development” in its place;

b. In paragraphs (a)(1), (a)(2)(i), and (a)(2)(ii), removing “FmHA or its successor agency under Public Law 103-354” and adding “RD” in its place; and

c. In paragraphs (b) introductory text, (b)(1)(ii), and (b)(2), removing “FmHA or its successor agency under Public Law 103-354” wherever it occurs and adding “Rural Development” in its place.

§ 1944.423 [Amended]

204. Amend § 1944.423 by:

a. Removing “FmHA or its successor agency under Public Law 103-354's” wherever it occurs and adding “Rural Development's” in its place;

b. Removing “only FmHA or its successor agency under Public Law 103-354 can” and adding “only Rural Development can” in its place; and

c. Removing “with FmHA or its successor agency under Public Law 103-354 in the” and adding “with Rural Development in the” in its place.

§ 1944.425 [Amended]

205. Amend § 1944.425 by removing “FmHA or its successor agency under Public Law 103-354's” and adding “Rural Development's” in its place.

Subpart K—Technical and Supervisory Assistance Grants

§ 1944.501 [Amended]

206. Amend § 1944.501 by:

a. In paragraph (a), removing “FmHA or its successor agency under Public Law 103-354 employee” and adding “Rural Development employee” in its place and removing “an FmHA or its successor agency under Public Law 103-354 employee” and adding “a Rural Development employee” in its place; and

b. In paragraph (b), removing “The Farmers Home Administration (FmHA) or its successor agency under Public Law 103-354” and adding “Rural Development” in its place.

§ 1944.502 [Amended]

207. Amend § 1944.502 by:

a. In paragraphs (a) introductory text, (a)(1), and (b), removing “FmHA or its successor agency under Public Law 103-354” and adding “Rural Development” in its place;

b. In paragraph (c), removing “FmHA or its successor agency under Public Law 103-354's” and adding “Rural Development's” in its place and removing “FmHA or its successor agency under Public Law 103-354 resources” and adding “Rural Development resources” in its place; and

c. In paragraph (d), removing “FmHA or its successor agency under Public Law 103-354” and adding “Rural Development” in its place.

§§ 1944.506, 1944.510, 1944.512, 1944.514, 1944.516, 1944.520, 1944.525, 1944.529, 1944.538, 1944.541, 1944.543, 1944.547, and 1944.549 [Amended]

208. Remove “FmHA or its successor agency under Public Law 103-354” wherever it occurs and add “Rural Development” in its place in the following places:

a. Section 1944.506;

b. Section 1944.510;

c. Section 1944.512;

d. Section 1944.514;

e. Section 1944.516;

f. Section 1944.520;

g. Section 1944.525;

h. Section 1944.529;

i. Section 1944.538;

j. Section 1944.541;

k. Section 1944.543;

l. Section 1944.547; and

m. Section 1944.549.

§ 1944.526 [Amended]

209. Amend § 1944.526 by:

a. In paragraph (a)(2)(i)(E), removing “FmHA or its successor agency under Public Law 103-354” and adding “Rural Development” in its place; and

b. In paragraphs (a)(5) and (c)(1)(i), removing “Form FmHA or its successor agency under Public Law 103-354” wherever it occurs and adding “Form RD” in its place.

§ 1944.531 [Amended]

210. Amend § 1944.531 by removing “Form FmHA or its successor agency under Public Law 103-354” wherever it occurs and adding “Form RD” in its place and by removing “by FmHA or its successor agency under Public Law 103-354” from paragraph (c)(13) and adding “by Rural Development” in its place.

§ 1944.533 [Amended]

211. Amend § 1944.533 by:

a. In paragraphs (c), (d), (f)(1), (f)(2) introductory text, (f)(2)(iii), (f)(2)(iv), (f)(4) introductory text, (f)(4)(i), and (f)(6), removing “Form FmHA or its successor agency under Public Law 103-354” wherever its occurs and adding “Form RD” in its place;

b. In paragraph (e) introductory text, removing “FmHA Instruction” and adding “RD Instruction” in its place and removing “Director of Information in the National Office” and adding “Director, Legislative and Public Affairs Staff (LAPAS), in the Rural Development National Office” in its place;

c. In paragraph (f)(4)(ii), removing “FmHA or its successor agency under Public Law 103-354” and adding “Rural Development” in its place; and

d. In paragraph (f)(5), removing “LAPIS” wherever it occurs and adding “LAPAS” in its place and removing “Form FmHA or its successor agency under Public Law 103-354” and adding “Form RD” in its place.

§ 1944.535 [Amended]

212. Amend § 1944.535 by:

a. In paragraphs (a) and (b), removing “Form FmHA or its successor agency under Public Law 103-354” wherever it occurs and adding “Form RD” in its place; and

b. In paragraph (c), removing “FmHA or its successor agency under Public Law 103-354 Appeal” and adding “Rural Development Appeal” in its place.

§ 1944.536 [Amended]

213. Amend § 1944.536 by removing “FmHA or its successor agency under Public Law 103-354 determines” and adding “Rural Development determines” in its place and by removing “Form FmHA or its successor agency under Public Law 103-354” and adding “Form RD” in its place.

§ 1944.540 [Amended]

214. Amend § 1944.540 by:

a. In paragraph (b), removing “FmHA or its successor agency under Public Law 103-354” and adding “RD” in its place; and

b. In paragraph (c), removing “FmHA or its successor agency under Public Law 103-354” and adding “Rural Development” in its place.

§ 1944.545 [Amended]

215. Amend § 1944.545 by removing “FmHA or its successor agency under Public Law 103-354 440-1” and adding “RD 1940-1” in its place.

§ 1944.548 [Amended]

216. Amend § 1944.548 by:

a. In the section heading, in paragraph (a), and in paragraph (b) introductory text, removing “FmHA or its successor agency under Public Law 103-354” and adding “Rural Development” in its place; and

b. In paragraph (b)(3), removing “FmHA Instruction” and adding “RD Instruction” in its place.

Subpart N—Housing Preservation Grants

§ 1944.654 [Amended]

217. Amend § 1944.654 by:

a. In paragraph (a), removing “FmHA Instruction” wherever it occurs and adding “RD Instruction” in its place; and

b. In paragraph (b), removing “FmHA Instruction” and adding “RD Instruction” in its place and removing “any Agency office” and adding “any Rural Development office” in its place.

§ 1944.657 [Amended]

218. Amend § 1944.657 by removing “FmHA Instruction” and adding “RD Instruction” in its place and by removing “FmHA or its successor agency under Public Law 103-354 office” and adding “Rural Development office” in its place.

§ 1944.658 [Amended]

219. Amend § 1944.658(a)(3) by removing “or its successor agency under Public Law 103-354” wherever it occurs.

§§ 1944.660, 1944.663, 1944.664, 1944.666, 1944.668, 1944.671, 1944.674, 1944.678, 1944.679, 1944.681, 1944.683, 1944.684, and 1944.689 [Amended]

220. Remove “FmHA or its successor agency under Public Law 103-354” wherever it occurs and add “Rural Development” in its place in the following places:

a. Section 1944.660 section heading and paragraph (a);

b. Section 1944.663(a)(7) and (a)(8);

c. Section 1944.664(c)(10)(ii);

d. Section 1944.666(a)(2), (b)(5), and (c);

e. Section 1944.668;

f. Section 1944.671(b) introductory text and paragraphs (b)(2) and (c);

g. Section 1944.674(b) and (c);

h. Section 1944.678;

i. Section 1944.679(b) introductory text and paragraph (b)(4);

j. Section 1944.681;

k. Section 1944.683(a), (b) introductory text, (c), and (d);

l. Section 1944.684 (a), (b) introductory text, (b)(2), (c), and (d); and

m. Section 1944.689(b).

§ 1944.672 [Amended]

221. Amend § 1944.672 by:

a. In paragraphs (c) and (e) introductory text, removing “FmHA or its successor agency under Public Law 103-354” and adding “Rural Development” in its place;

b. In paragraph (e)(3):

i. Removing “FmHA or its successor agency under Public Law 103-354's environmental” and adding “Rural Development's environmental” in its place; and

ii. Removing “an FmHA or its successor agency under Public Law 103-354 environmental” and adding “a Rural Development environmental” in its place; and

c. In paragraph (g), removing “FmHA or its successor agency under Public Law 103-354” wherever it occurs and adding “Rural Development” in its place.

§ 1944.673 [Amended]

222. Amend § 1944.673 by:

a. In paragraph (a):

i. Removing “FmHA or its successor agency under Public Law 103-354 has” and adding “Rural Development has” in its place;

ii. Removing “FmHA Instruction” and adding “RD Instruction” in its place; and

iii. Removing “FmHA or its successor agency under Public Law 103-354 office” wherever it occurs and adding “Rural Development office” in its place; and

b. In paragraph (c), removing “FmHA or its successor agency under Public Law 103-354” wherever it occurs and adding “Rural Development” in its place.

§ 1944.676 [Amended]

223. Amend § 1944.676 by:

a. In paragraph (a), removing “appropriate FmHA or its successor agency under Public Law 103-354” and adding “appropriate Rural Development” in its place and removing “any FmHA or its successor agency under Public Law 103-354 Office” and adding “any Rural Development office” in its place;

b. In paragraphs (b) introductory text, (b)(1)(iv), and (b)(1)(xii), removing “FmHA or its successor agency under Public Law 103-354” and adding “Rural Development” in its place;

c. In paragraph (b)(1)(iii):

i. Removing “FmHA Instruction” and adding “RD Instruction” in its place;

ii. Removing “FmHA or its successor agency under Public Law 103-354 office” wherever it occurs and adding “Rural Development office” in its place; and

iii. Removing “to FmHA or its successor agency under Public Law 103-354” and adding “to Rural Development” in its place;

d. In paragraph (b)(1)(x), removing “Rural Development or its successor agency under Public Law 103-354”;

e. In paragraph (c), removing “Form FmHA or its successor agency under Public Law 103-354” and adding “Form RD” in its place and removing “FmHA or its successor agency under Public Law 103-354 office” and adding “Rural Development office” in its place;

f. In paragraph (d)(4), removing “FmHA Instruction” and adding “RD Instruction” in its place and removing “FmHA or its successor agency under Public Law 103-354 office” and adding “Rural Development office” in its place;

g. In paragraph (d)(5), removing “FmHA or its successor agency under Public Law 103-354 office” and adding “Rural Development office” in its place and removing “to FmHA or its successor agency under Public Law 103-354” and adding “to Rural Development” in its place;

h. In paragraph (g), removing “FmHA or its successor agency under Public Law 103-354” and adding “Rural Development” in its place; and

i. In paragraph (h), removing “FmHA or its successor agency under Public Law 103-354” wherever it occurs and adding “RD” in its place.

§ 1944.682 [Amended]

224. Amend § 1944.682 by:

a. In the introductory text, removing “FmHA or its successor agency under Public Law 103-354” wherever it occurs and adding “Rural Development” in its place;

b. In paragraph (a):

i. Removing “FmHA or its successor agency under Public Law 103-354 determines” and adding “Rural Development determines” in its place;

ii. Removing “Form FmHA or its successor agency under Public Law 103-354” wherever it occurs and adding “Form RD” in its place; and

iii. Removing “FmHA or its successor agency under Public Law 103-354 office” and adding “Rural Development office” in its place; and

c. In paragraph (b), removing “FmHA or its successor agency under Public Law 103-354” and adding “Rural Development” in its place;

d. In paragraph (c):

i. Removing “Form FmHA or its successor agency under Public Law 103-354” and adding “Form RD” in its place;

ii. Removing “FmHA or its successor agency under Public Law 103-354 will” and adding “Rural Development will” in its place;

iii. Removing “FmHA or its successor agency under Public Law 103-354 office” and adding “Rural Development office” in its place; and

iv. Removing “by FmHA or its successor agency under Public Law 103-354” wherever it occurs and adding “by Rural Development” in its place; and

e. In paragraph (d), removing “FmHA or its successor agency under Public Law 103-354” and adding “Rural Development” in its place.

§ 1944.688 [Amended]

225. Amend § 1944.688 by:

a. In paragraphs (a) and (b), removing “FmHA or its successor agency under Public Law 103-354” wherever it occurs and adding “Rural Development” in its place; and

b. In paragraph (c), removing “FmHA or its successor agency under Public Law 103-354's appeal” and adding “Rural Development's appeal” in its place.

§ 1944.690 [Amended]

226. Amend § 1944.690 by removing “Administrator of FmHA or its successor agency under Public Law 103-354” and adding “Under Secretary for Rural Development (or designee)” in its place.

PART 1948—RURAL DEVELOPMENT

227. The authority citation for part 1948 continues to read as follows:

Authority: 5 U.S.C. 301; 7 U.S.C. 1932 note.

Subpart B—Section 601 Energy Impacted Area Development Assistance

§ 1948.51 [Amended]

228. Amend § 1948.51 by:

a. Removing “Farmers Home Administration (FmHA) or its successor agency under Public Law 103-354” and adding “Rural Development” in its place;

b. Removing “to FmHA or its successor agency under Public Law 103-354” and adding “to Rural Development” in its place; and

c. Removing “an FmHA or its successor agency under Public Law 103-354” and adding “a Rural Development” in its place.

§§ 1948.53, 1948.56, 1948.60, 1948.62, 1948.68, 1948.70, 1948.81, 1948.86, 1948.88, 1948.91, 1948.94, and 1948.95 [Amended]

229. Remove “FmHA or its successor agency under Public Law 103-354” wherever it occurs and add “Rural Development” in its place in the following places:

a. Section 1948.53;

b. Section 1948.56;

c. Section 1948.60;

d. Section 1948.62(b);

e. Section 1948.68(g);

f. Section 1948.70(b);

g. Section 1948.81(a) and (b);

h. Section 1948.86(a)(1) and (a)(2);

i. Section 1948.88;

j. Section 1948.91;

k. Section 1948.94(a) introductory text and (b); and

l. Section 1948.95.

230. Revise § 1948.61 introductory text to read as follows:

§ 1948.61 State supplements and guides.

Rural Development State Directors will obtain National Office clearance for all State supplements and guides in accordance with paragraph VIII of RD Instruction 2006-B, (available in any Rural Development office).

* * * * *

§ 1948.70 [Amended]

231. Amend § 1948.70(c) by removing “Administrator of FmHA or its successor agency under Public Law 103-354” and adding “Under Secretary for Rural Development” in its place.

§ 1948.79 [Amended]

232. Amend § 1948.79 by:

a. Removing “FmHA or its successor agency under Public Law 103-354” wherever it occurs and adding “Rural Development” in its place in the following places:

i. Paragraph (a);

ii. Paragraph (c) introductory text;

iii. Paragraph (e) introductory text;

iv. Paragraph (f);

v. Paragraph (g);

vi. Paragraph (h) introductory text;

vii. Paragraph (i);

viii. Paragraph (j);

ix. Paragraphs (k) introductory text and (k)(12);

b. In paragraph (c)(4), removing “Forms FmHA” and adding “Form RD” in its place and removing “Form FmHA or its successor agency under Public Law 103-354” and adding “Form RD” in its place;

c. In paragraph (k)(8), removing “FmHA or its successor agency under Public Law 103-354 440-1” and adding “RD 1940-1” in its place; and

d. In paragraphs (k)(9) and (k)(10), removing “FmHA or its successor agency under Public Law 103-354” and adding “RD” in its place.

§ 1948.81 [Amended]

233. Amend § 1948.81(d) by removing “FmHA or its successor agency under Public Law 103-354 State” and adding “Rural Development State” in its place and by removing “Administrator, FmHA or its successor agency under Public Law 103-354” and adding “Under Secretary for Rural Development” in its place.

§ 1948.82 [Amended]

234. Amend § 1948.82 by:

a. Removing “FmHA or its successor agency under Public Law 103-354” wherever it occurs and adding “Rural Development” in its place in the following places:

i. Paragraphs (a) introductory text and (a)(10);

ii. Paragraph (c);

iii. Paragraph (d);

iv. Paragraph (e);

v. Paragraphs (f) introductory text, (f)(1), and (f)(2);

vi. Paragraph (g);

vii. Paragraph (h); and

viii. Paragraph (m).

b. In paragraph (i), removing “FmHA or its successor agency under Public Law 103-354 National” and adding “Rural Development State” in its place and removing “Administrator” and adding “Under Secretary for Rural Development” in its place;

c. In paragraph (j), removing “Administrator, FmHA or its successor agency under Public Law 103-354, the FmHA or its successor agency under Public Law 103-354 State” and adding “Under Secretrary for Rural Development, the Rural Development State” in its place;

d. In paragraph (k), removing “FmHA or its successor agency under Public Law 103-354 Stae” and adding “Rural Development State” in its place and removing “Administrator, FmHA or its successor agency under Public Law 103-354” and adding “Under Secretrary for Rural Development” in its place; and

e. In paragraph (l), removing “Administrator of FmHA or its successor agency under Public Law 103-354” and adding “Under Secretary for Rural Development” in its place.

§§ 1948.83 and 1948.97 [Amended]

235. Amend §§ 1948.83 and 1948.97 by removing “FmHA” and adding “RD” in its place.

§ 1948.84 [Amended]

236. Amend § 1948.84 by:

a. Removing “FmHA or its successor agency under Public Law 103-354” and adding “Rural Development” in its place in the following places:

i. Paragraph (a);

ii. Paragraph (d) introductory text;

iii. Paragraphs (e) introductory text and (e)(1);

iv. Paragraph (f);

v. Paragraph (g);

vi. Paragraph (h) introductory text;

vii. Paragraph (i) introductory text; and

viii. Paragraphs (i)(14) and (i)(17).

b. In paragraph (b):

i. Removing “FmHA or its successor agency under Public Law 103-354 office” and adding “The Rural Development office” in its place;

ii. Removing “FmHA or its successor agency under Public Law 103-354 District” and adding “Rural Development District” in its place;

iii. Removing “FmHA or its successor agency under Public Law 103-354 State” and adding “the Rural Development State” in its place; and

iv. Removing “the time the AD-622” and adding “the time the Form AD-622” in its place;

c. In paragraphs (d)(2) and (d)(8), removing “FmHA or its successor agency under Public Law 103-354” and adding “RD” in its place;

d. In paragraph (d)(9), removing “Forms FmHA or its successor agency under Public Law 103-354 400-1 and Form FmHA or its successor agency under Public Law 103-354 400-4” and adding “Form RD 400-1 and Form RD 400-4” in its place;

e. In paragraph (i)(10), removing “FmHA or its successor agency under Public Law 103-354 440-1” and adding “RD 1940-1” in its place;

f. In paragraph (i)(11), removing “FmHA or its successor agency under Public Law 103-354” and adding “RD” in its place;

g. In paragraph (i)(12), removing “FmHA or its successor agency under Public Law 103-354 400” and adding “RD 400-4” in its place; and

h. In paragraph (i)(13), removing “FmHA or its successor agency under Public Law 103-354” and adding “RD” in its place.

§ 1948.89 [Amended]

237. Amend § 1948.89 by:

a. In the heading of the section and in paragraph (a) introductory text, removing “FmHA or its successor agency under Public Law 103-354” wherever it occurs and adding “Rural Development” in its place;

b. In paragraph (a)(1):

i. Removing “FmHA or its successor agency under Public Law 103-354 State” wherever it occurs and adding “the Rural Development State” in its place;

ii. Removing “Administrator, FmHA or its successor agency under Public Law 103-354” and adding “Under Secretary for Rural Development” in its place; and

iii. Removing “for FmHA or its successor agency under Public Law 103-354” and adding “for Rural Development” in its place;

c. In paragraph (a)(2), removing “Administrator” and adding “Under Secretary for Rural Development” in its place;

d. In paragraph (a)(3), removing “Administrator, FmHA or its successor agency under Public Law 103-354” and adding “Under Secretary for Rural Development” in its place; and

e. In paragraphs (a)(4), (a)(5), and (b), removing “FmHA or its successor agency under Public Law 103-354” and adding “Rural Development” in its place.

§ 1948.90 [Amended]

238. Amend § 1948.90 by:

a. In paragraphs (a) introductory text and (a)(1), removing “FmHA or its successor agency under Public Law 103-354” wherever it occurs and adding “Rural Development” in its place;

b. In paragraph (a)(2):

i. Removing “Administrator, FmHA or its successor agency under Public Law 103-354” and adding “Under Secretary for Rural Development” in its place;

ii. Removing “by FmHA or its successor agency under Public Law 103-354” and adding “by Rural Development” in its place;

iii. Removing “to FmHA or its successor agency under Public Law 103-354” and adding “to Rural Development” in its place; and

iv. Removing “by the FmHA or its successor agency under Public Law 103-354” and adding “by the Rural Development” in its place; and

c. In paragraphs (a)(3), (b)(2), (b)(3), and (b)(5), removing “FmHA or its successor agency under Public Law 103-354” wherever it occurs and adding “Rural Development” in its place.

§ 1948.92 [Amended]

239. Amend § 1948.92 by:

a. In paragraphs (a) and (b), removing “FmHA or its successor agency under Public Law 103-354” and adding “Rural Development” in its place;

b. In paragraph (c):

i. Removing “FmHA or its successor agency under Public Law 103-354 State” and adding “Rural Development State” in its place;

ii. Removing “by FmHA or its successor agency under Public Law 103-354” and adding “by Rural Development” in its place; and

iii. Removing “FmHA Instruction” and adding “RD Instruction” in its place;

c. In paragraphs (d) and (e), removing “FmHA or its successor agency under Public Law 103-354 440-1” and adding “RD 1940-1” in its place;

d. In paragraph (f):

i. Removing “FmHA Instruction” and adding “RD Instruction” in its place;

ii. Removing “FmHA or its successor agency under Public Law 103-354 Office” and adding “Rural Development office” in its place; and

iii. Removing “Director of Information, Farmers Home Administration or its successor agency under Public Law 103-354” and adding “Director, Legislative and Public Affairs Staff (LAPAS), in the Rural Development National Office” in its place;

e. In paragraph (g)(3), removing “FmHA or its successor agency under Public Law 103-354” wherever it occurs and adding “Rural Development” in its place;

f. In paragraph (g)(4), removing “Form FmHA or its successor agency under Public Law 103-354” wherever it occurs and adding “Form RD” in its place and removing “FmHA or its successor agency under Public Law 103-354 State” and adding “Rural Development State” in its place;

g. In paragraph (g)(6), removing “Form FmHA or its successor agency under Public Law 103-354 440-1” and adding “Form RD 1940-1” in its place and removing “FmHA or its successor agency under Public Law 103-354 National” and adding “Rural Development National” in its place;

h. In paragraph (g)(7), removing “Director of Information in the FmHA or its successor agency under Public Law 103-354 National Office” and adding “Director, LAPAS, in the Rural Development National Office” in its place;

i. In paragraph (g)(10), removing “FmHA or its successor agency under Public Law 103-354” wherever it occurs and adding “Rural Development” in its place; and

j. In paragraph (g)(11):

i. Removing “FmHA or its successor agency under Public Law 103-354 State” and adding “Rural Development State” in its place;

ii. Removing “Director, Legislative Affairs and Public Information Staff (LAPIS)” and adding “Director, LAPAS” in its place;

iii. Removing “LAPIS” wherever it occurs and adding “LAPAS” in its place; and

iv. Removing “Form FmHA or its successor agency under Public Law 103-354” and adding “Form RD” in its place.

§ 1948.93 [Amended]

240. Amend § 1948.93 by removing “FmHA or its successor agency under Public Law 103-354” wherever it occurs and adding “Rural Development” in its place and by removing “FmHA Instruction” and adding “RD Instruction” in its place.

§ 1948.94 [Amended]

241. Amend § 1948.94 by:

a. In paragraph (a) introductory text, removing “FmHA or its successor agency under Public Law 103-354” wherever it occurs and adding “Rural Development” in its place; and

b. In paragraph (b), removing “FmHA Instruction 402.1 (available in any FmHA or its successor agency under Public Law 103-354 office)” and adding “RD Instruction 1902-A (available in any Rural Development office)” in its place and removing “to FmHA or its successor agency under Public Law 103-354” and adding “to Rural Development” in its place.

§ 1948.96 [Amended]

242. Amend § 1948.96 by:

a. In paragraph (a), removing “FmHA” and adding “RD” in its place; and

b. In paragraph (b), removing “FmHA or its successor agency under Public Law 103-354” and adding “Rural Development” in its place.

PART 1950—GENERAL

Subpart C—Servicing Accounts of Borrowers Entering the Armed Forces

243. The authority citation for subpart C of part 1950 continues to read as follows:

Authority: 5 U.S.C. 301; 7 U.S.C. 1989; and 42 U.S.C. 1480.

§ 1950.101 [Amended]

244. Amend § 1950.101 by removing “Farmers Home Administration or its successor agency under Public Law 103-354 (FmHA or its successor agency under Public Law 103-354)” and adding “Rural Development” in its place and by removing “FmHA or its successor agency under Public Law 103-354 regulations” and adding “Rural Development regulations” in its place.

§ 1950.102 [Amended]

245. Amend § 1950.102(a) by removing “FmHA or its successor agency under Public Law 103-354 will” and adding “Rural Development will” in its place and by removing “policy FmHA or its successor agency under Public Law 103-354” and adding “policy of Rural Development” in its place.

§ 1950.103 [Amended]

246. Amend § 1950.103 by:

a. In the section heading, removing “FmHA or its successor agency under Public Law 103-354” and adding “Rural Development” in its place;

b. In paragraph (a)(1), removing “FmHA or its successor agency under Public Law 103-354 loan” and adding “government loan” in its place and removing “borrower and FmHA or its successor agency under Public Law 103-354” and adding “borrower and Rural Development” in its place; and

c. In paragraph (c), removing “FmHA or its successor agency under Public Law 103-354” wherever it occurs and adding “RD” in its place and removing “Address or Name” and adding “Address, Name, Case Number, or Loan Number” in its place.

§ 1950.104 [Amended]

247. Amend § 1950.104 by:

a. In the section heading, introductory text, and paragraph (a), removing “FmHA or its successor agency under Public Law 103-354” and adding “Rural Development” in its place;

b. In paragraph (b) introductory text, removing “FmHA or its successor agency under Public Law 103-354” and adding “Rural Development” in its place;

c. In paragraph (b)(1), removing “FmHA or its successor agency under Public Law 103-354” and adding “Rural Development” in its place; and

d. In paragraph (e), removing “FmHA or its successor agency under Public Law 103-354” and adding “RD” in its place.

§ 1950.105 [Amended]

248. Amend § 1950.105(b) by removing “FmHA or its successor agency under Public Law 103-354” and adding “Rural Development” in its place.

PART 1951—SERVICING AND COLLECTIONS

249. The authority citation for part 1951 continues to read as follows:

Authority: 5 U.S.C. 301; 7 U.S.C. 1932 note; 7 U.S.C. 1989; 31 U.S.C. 3716; 42 U.S.C. 1480.

Subpart A—Account Servicing Policies

§ 1951.2 [Amended]

250. Amend § 1951.2 by removing “Farmers Home Administration or its successor agency under Public Law 103-354 (FmHA or its successor agency under Public Law 103-354)” and adding “Agency” in its place.

§ 1951.3 [Amended]

251. Amend § 1951.3 by removing “FmHA or its successor agency under Public Law 103-354” and adding “Agency” in its place.

§ 1951.7 [Amended]

252. Amend § 1951.7 by:

a. In paragraph (b)(1), removing “FmHA or its successor agency under Public Law 103-354” and adding “the Agency” in its place;

b. In paragraphs (b)(4)(i), (c), and (d)(2), removing “FmHA or its successor agency under Public Law 103-354” wherever it occurs and adding “RD” in its place;

c. In paragraph (e), removing “FmHA or its successor agency under Public Law 103-354 borrowers will be maintained in the County Office on Forms FmHA or its successor agency under Public Law 103-354 1905-1, FmHA or its successor agency under Public Law 103-354 1905-5, FmHA or its successor agency under Public Law 103-354 1905-10, “Management System Card-Association,” as provided in FmHA or its successor agency under Public Law 103-354 Instruction 1905-A (available in any FmHA or its successor agency under Public Law 103-354 office)” and adding “Agency borrowers will be maintained in the County Office as provided in RD Instruction 1905-A (available in any Agency office)” in its place;

d. In paragraph (h) introductory text, removing “FmHA or its successor agency under Public Law 103-354” and adding “the Agency” in its place;

e. In paragraphs (h)(1) and (h)(2), removing “FmHA or its successor agency under Public Law 103-354” wherever it occurs and adding “RD” in its place; and

f. In paragraph (h)(3):

i. Removing “Forms FmHA or its successor agency under Public Law 103-354” and adding “Forms RD” in its place;

ii. Removing “copy(ies) of Form FmHA or its successor agency under Public Law 103-354” and adding “copy(ies) of Form RD” in its place; and

iii. Removing “; a copy of Form FmHA or its successor agency under Public Law 103-354 1951-58, “Basis for Loan Account Payment Application for Farmer Program Loans;”.

§ 1951.8 [Amended]

253. Amend § 1951.8(b)(3) by removing “FmHA or its successor agency under Public Law 103-354” and adding “RD” in its place.

§ 1951.9 [Amended]

254. Amend § 1951.9 by:

a. In the section heading, removing “FmHA or its successor agency under Public Law 103-354” and adding “Agency” in its place;

b. In the introductory text, removing “Form FmHA or its successor agency under Public Law 103-354” wherever it occurs and adding “Form RD” in its place;

c. In paragraph (a)(1) introductory text, removing “FmHA or its successor agency under Public Law 103-354” and adding “Agency” in its place;

d. In paragraph (a)(1)(i), removing “FmHA or its successor agency under Public Law 103-354” and adding “RD” in its place; and

e. In paragraphs (a)(1)(ii), (a)(1)(iii), (a)(1)(iv), (a)(2), and (b), removing “FmHA or its successor agency under Public Law 103-354” wherever it occurs and adding “Agency” in its place.

§ 1951.10 [Amended]

255. Amend § 1951.10 by:

a. In the introductory text, removing “FmHA or its successor agency under Public Law 103-354” wherever it occurs and adding “RD” in its place; and

b. In paragraph (a)(6), removing “FmHA or its successor agency under Public Law 103-354” and adding “Agency” in its place.

§ 1951.11 [Amended]

256. Amend § 1951.11 by:

a. In paragraph (d)(1)(i), removing “FmHA or its successor agency under Public Law 103-354 office” and adding “Rural Development office” in its place; and

b. Removing “Form FmHA or its successor agency under Public Law 103-354” wherever it occurs and adding “Form RD” in its place.

§ 1951.12 [Amended]

257. Amend § 1951.12 by:

a. In paragraph (a), removing “FmHA or its successor agency under Public Law 103-354 loan” and adding “Agency loan” in its place;

b. In paragraph (b), removing “Form FmHA or its successor agency under Public Law 103-354” wherever it occurs and adding “Form RD” in its place; and

c. In paragraphs (c)(1) and (c)(2), removing “Form FmHA or its successor agency under Public Law 103-354” wherever it occurs and adding “Form RD” in its place.

§ 1951.14 [Amended]

258. Amend § 1951.14(b) by removing “FmHA or its successor agency under Public Law 103-354” and adding “RD” in its place.

§ 1951.25 [Amended]

259. Amend § 1951.25(b)(2)(ii) by removing “FmHA or its successor agency under Public Law 103-354” and adding “RD” in its place.

260. Revise Exhibit A to subpart A of 7 CFR part 1951 to read as follows:

Exhibit A to Subpart A of Part 1951—Notice to Agency Borrowers

Agency borrowers with community program loan types made under the Consolidated Farm and Rural Development Act may request a loan summary statement which shows the calendar year account activity for each loan. Interested borrowers may request these statements through their local Rural Development office.

Subpart D—Final Payment of Loans

§ 1951.153 [Amended]

261. Amend § 1951.153(b) by removing “FmHA or its successor agency under Public Law 103-354” and adding “RD” in its place.

§ 1951.154 [Amended]

262. Amend § 1951.154 by removing in paragraph (a) “FmHA or its successor agency under Public Law 103-354” and adding “RD” in its place and by removing in paragraph (c) “FmHA or its successor agency under Public Law 103-354” and adding “RD” in its place.

§ 1951.155 [Amended]

263. Amend § 1951.155 by:

a. In paragraph (b):

i. Removing “FmHA or its successor agency under Public Law 103-354 will” and adding “RD will” in its place;

ii. Removing “by FmHA or its successor agency under Public Law 103-354” and adding “by RD” in its place; and

iii. Removing “FmHA or its successor agency under Public Law 103-354 office” and adding “Rural Development office” in its place;

b. In paragraph (c) introductory text and paragraph (c)(1), removing “FmHA or its successor agency under Public Law 103-354” wherever it occurs and adding “RD” in its place;

c. In paragraph (c)(2):

i. Removing “by FmHA or its successor agency under Public Law 103-354” and adding “by RD” in its place;

ii. Removing “FmHA or its successor agency under Public Law 103-354 will” wherever it occurs and adding “RD will” in its place;

iii. Removing “FmHA or its successor agency under Public Law 103-354 is” and adding “RD is” in its place; and

iv. Removing “FmHA or its successor agency under Public Law 103-354 can” and adding “RD can” in its place;

d. In paragraph (g), removing “FmHA or its successor agency under Public Law 103-354 may” and adding “RD may” in its place and removing “FmHA or its successor agency under Public Law 103-354 Instruction” and adding “RD Instruction” in its place; and

e. In paragraph (i), removing “FmHA or its successor agency under Public Law 103-354 will” and adding “RD will” in its place and removing “by FmHA or its successor agency under Public Law 103-354” and adding “by RD” in its place.

Subpart E—Servicing of Community and Direct Business Programs Loans and Grants

§ 1951.201 [Amended]

264. Amend § 1951.201 by removing “loans for Grazing and other shift-in-land-use projects;” and “Association Irrigation and Drainage loans;” and by removing “and the Farm Service Agency” and adding “and the Rural Housing Service” in its place.

§ 1951.202 [Amended]

265. Amend § 1951.202 by removing “FmHA or its successor agency under Public Law 103-354's” and adding “Rural Development's” in its place and by removing “by FmHA or its successor agency under Public Law 103-354” and adding “by Rural Development” in its place.

§ 1951.203 [Amended]

266. Amend § 1951.203(h) by removing “FmHA or its successor agency under Public Law 103-354” and adding “Rural Development” in its place.

§ 1951.207 [Amended]

267. Amend § 1951.207 by removing “FmHA or its successor agency under Public Law 103-354” and adding “Rural Development” in its place.

§§ 1951.211, 1951.215, and 1951.216 [Amended]

268. Remove “FmHA or its successor agency under Public Law 103-354” wherever it occurs and add “Rural Development” in its place in the following places:

a. Section 1951.211;

b. Section 1951.215 introductory text and (a)(2); and

c. Section 1951.216.

§ 1951.220 [Amended]

269. Amend § 1951.220 by:

a. In paragraph (a)(2), removing “FmHA or its successor agency under Public Law 103-354 Instruction” and adding “RD Instruction” in its place and removing “FmHA or its successor agency under Public Law 103-354's” and adding “Rural Development's” in its place;

b. In paragraph (a)(3), removing “FmHA or its successor agency under Public Law 103-354's” and adding “Rural Development's” in its place;

c. In paragraph (b) introductory text, removing “FmHA or its successor agency under Public Law 103-354” and adding “Rural Development” in its place;

d. In paragraph (b)(1), removing “FmHA or its successor agency under Public Law 103-354” and adding “RD” in its place;

e. In paragraph (b)(2), removing “Forms FmHA or its successor agency under Public Law 103-354 1951-9” and “Form FmHA or its successor agency under Public Law 103-354 1951-9” and adding “Form RD 1951-9” in their place;

f. In paragraph (b)(3), removing “FmHA or its successor agency under Public Law 103-354” and adding “RD” in its place;

g. In paragraph (c) introductory text, removing “FmHA or its successor agency under Public Law 103-354” and adding “Rural Development” in its place;

h. In paragraph (c)(2), removing “FmHA or its successor agency under Public Law 103-354 Instruction” and adding “RD Instruction” in its place;

i. In paragraph (d), removing “FmHA or its successor agency under Public Law 103-354's” and adding “Rural Development's” in its place;

j. In paragraph (e)(2)(v), removing “FmHA or its successor agency under Public Law 103-354” and adding “Rural Development” in its place;

k. In paragraph (f), removing “FmHA or its successor agency under Public Law 103-354's” and adding “Rural Development's” in its place and removing “FmHA or its successor agency under Public Law 103-354 as” and adding “Rural Development as” in its place; and

l. In paragraphs (g) and (h)(3), removing “FmHA or its successor agency under Public Law 103-354” and adding “Rural Development” in its place.

§ 1951.221 [Amended]

270. Amend § 1951.221 by:

a. In paragraph (a)(2) introductory text, removing “FmHA or its successor agency under Public Law 103-354's” and adding “Rural Development's” in its place;

b. In paragraphs (a)(2)(i)(A), (a)(2)(i)(B), and (a)(2)(i)(C), removing “FmHA or its successor agency under Public Law 103-354” and adding “Rural Development” in its place;

c. In paragraph (a)(3) introductory text, removing “FmHA or its successor agency under Public Law 103-354” and adding “RD” in its place; and

d. In paragraph (a)(3)(i), removing “FmHA or its successor agency under Public Law 103-354” and adding “Rural Development” in its place.

§ 1951.222 [Amended]

271. Amend § 1951.222 by:

a. In the introductory text and in paragraphs (a)(2), (a)(3), (a)(7), and (a)(9), removing “FmHA or its successor agency under Public Law 103-354” wherver it occurs and adding “Rural Development” in its place;

b. In paragraphs (c)(1) and (c)(3), removing “Form FmHA or its successor agency under Public Law 103-354” wherever it occurs and adding “Form RD” in its place;

c. In paragraph (c)(7), removing “FmHA or its successor agency under Public Law 103-354” and adding “Rural Development” in its place; and

d. In paragraph (d), removing “FmHA or its successor agency under Public Law 103-354's” and adding “Rural Development's” in its place and removing “Form FmHA or its successor agency under Public Law 103-354” wherever it occurs and adding “Form RD” in its place.

§ 1951.223 [Amended]

272. Amend § 1951.223 by:

a. In paragraph (b)(1), removing “FmHA or its successor agency under Public Law 103-354” and adding “RD” in its place;

b. In paragraph (c)(2), removing “FmHA or its successor agency under Public Law 103-354's security” and adding “Rural Development's security” in its place and removing “FmHA or its successor agency under Public Law 103-354 approval” and adding “Rural Development approval” in its place; and

c. In paragraphs (c)(3), (c)(4) introductory text, (c)(4)(i), (c)(4)(ii), and (c)(4)(iv), removing “FmHA or its successor agency under Public Law 103-354” wherever it occurs and adding “Rural Development” in its place.

§ 1951.224 [Amended]

273. Amend § 1951.224 by:

a. In paragraphs (a)(1)(iii), (a)(1)(v), and (a)(2)(v), removing “FmHA or its successor agency under Public Law 103-354” wherever it occurs and adding “Rural Development” in its place;

b. In paragraphs (b)(1) and (b)(2), removing “to FmHA or its successor agency under Public Law 103-354” and adding “to Rural Development” in its place and removing “Form FmHA or its successor agency under Public Law 103-354” and adding “Form RD” in its place;

c. In paragraph (b)(3), removing “FmHA or its successor agency under Public Law 103-354” and adding “RD” in its place; and

d. In paragraph (b)(6), removing “FmHA or its successor agency under Public Law 103-354 consent” and adding “Rural Development consent” in its place and removing “Form FmHA or its successor agency under Public Law 103-354” and adding “Form RD” in its place;

e. In paragraph (c), removing “FmHA or its successor agency under Public Law 103-354” and adding “Rural Development” in its place; and

f. In paragraph (e)(2), removing “FmHA or its successor agency under Public Law 103-354” and adding “Rural Development” in its place.

§ 1951.225 [Amended]

274. Amend § 1951.225 by removing “FmHA or its successor agency under Public Law 103-354” wherever it occurs and adding “Rural Development” in its place.

§ 1951.226 [Amended]

275. Amend § 1951.226 by:

a. In paragraph (a)(3), removing “FmHA or its successor agency under Public Law 103-354” and adding “Rural Development” in its place;

b. In paragraph (b)(3), removing “FmHA or its successor agency under Public Law 103-354's” and adding “Rural Development's” in its place;

c. In paragraph (b)(4)(i), removing “Form FmHA or its successor agency under Public Law 103-354” and adding “Form RD” in its place;

d. In paragraph (b)(4)(ii), removing “FmHA or its successor agency under Public Law 103-354” and adding “Rural Development” in its place;

e. In paragraph (b)(5)(i), removing “on FmHA or its successor agency under Public Law 103-354” and adding “on Rural Development” in its place and removing “FmHA or its successor agency under Public Law 103-354's advantage” and adding “Rural Development's advantage” in its place;

f. In paragraphs (b)(5)(ii) and (b)(6), removing “FmHA or its successor agency under Public Law 103-354” and adding “Rural Development” in its place;

g. In paragraph (c)(1)(i), removing “FmHA or its successor agency under Public Law 103-354” and adding “Rural Development” in its place;

h. In paragraphs (c)(1)(iv) through (vii), (c)(2)(i), and (c)(2)(ii), removing “Form FmHA or its successor agency under Public Law 103-354” wherever it occurs and adding “Form RD” in its place;

i. In paragraph (c)(3), removing “FmHA or its successor agency under Public Law 103-354” and adding “Rural Development” in its place;

j. In paragraph (d)(1) “an FmHA or its successor agency under Public Law 103-354” and adding “a Rural Development” in its place and removing “Form FmHA or its successor agency under Public Law 103-354” and adding “Form RD” in its place;

k. In paragraph (d)(2) introductory text, removing “FmHA or its successor agency under Public Law 103-354” and adding “Rural Development” in its place; and

l. In paragraph (d)(2)(ii), removing “Form FmHA or its successor agency under Public Law 103-354” and adding “Form RD” in its place.

§ 1951.227 [Amended]

276. Amend § 1951.227 by:

a. In the introductory text, removing “FmHA or its successor agency under Public Law 103-354” wherever it occurs and adding “Rural Development” in its place; and

b. In paragraph (c):

i. Removing “FmHA or its successor agency under Public Law 103-354 Instruction” and adding “RD Instruction” in its place; and

ii. Removing “FmHA or its successor agency under Public Law 103-354 office” and adding “Rural Development office” in its place.

§ 1951.230 [Amended]

277. Amend § 1951.230 by:

a. In paragraph (a) introductory text, removing “FmHA or its successor agency under Public Law 103-354” and adding “Rural Development” in its place;

b. In paragraph (a)(2), removing “FmHA or its successor agency under Public Law 103-354's security” and adding “Rural Development's security” in its place and removing “FmHA or its successor agency under Public Law 103-354 program” and adding “Rural Development program” in its place;

c. In paragraphs (a)(3), (a)(4), and (a)(6), removing “FmHA or its successor agency under Public Law 103-354” and adding “Rural Development” in its place;

d. In paragraph (a)(7), removing “Form FmHA or its successor agency under Public Law 103-354” and adding “Form RD” in its place and removing “to FmHA or its successor agency under Public Law 103-354” and adding “to Rural Development” in its place;

e. In paragraph (a)(8), removing “FmHA or its successor agency under Public Law 103-354” wherever it occurs and adding “Rural Development” in its place;

f. In paragraph (a)(9), removing “FmHA or its successor agency under Public Law 103-354 debt” and adding “Rural Development debt” in its place and removing “Form FmHA or its successor agency under Public Law 103-354” wherever it occurs and adding “Form RD” in its place;

g. In paragraph (a)(12), removing “FmHA or its successor agency under Public Law 103-354” wherever it occurs and adding “Rural Development” in its place;

h. In paragraphs (b) introductory text and (b)(5), removing “FmHA or its successor agency under Public Law 103-354” and adding “Rural Development” in its place;

i. In paragraph (c) introductory text, removing “FmHA or its successor agency under Public Law 103-354” and adding “Rural Development” in its place;

j. In paragraph (c)(1), removing “Form FmHA or its successor agency under Public Law 103-354” and adding “Form RD” in its place;

k. In paragraph (c)(5), removing “FmHA or its successor agency under Public Law 103-354” and adding “Rural Development” in its place;

l. In paragraph (d) introductory text, removing “FmHA or its successor agency under Public Law 103-354” and adding “Rural Development” in its place;

m. In paragraph (d)(1)(i):

i. Removing “non-FmHA or its successor agency under Public Law 103-354 personnel” and adding “non-Rural Development personnel” in its place;

ii. Removing “FmHA or its successor agency under Public Law 103-354 Instruction” and adding “RD Instruction” in its place; and

iii. Removing “FmHA or its successor agency under Public Law 103-354 office” and adding “Rural Development office” in its place;

n. In paragraph (d)(1)(ii), removing “Form FmHA or its successor agency under Public Law 103-354” and adding “Form RD” in its place;

o. In paragraph (d)(2), removing “FmHA or its successor agency under Public Law 103-354” and adding “Rural Development” in its place;

p. In paragraph (d)(5), removing “Form FmHA or its successor agency under Public Law 103-354” and adding “Form RD” in its place;

q. In paragraphs (e)(1) and (e)(2)(ii), removing “Form FmHA or its successor agency under Public Law 103-354” and adding “Form RD” in its place;

r. In paragraph (f)(1), removing “FmHA or its successor agency under Public Law 103-354 Instruction” and adding “RD Instruction” in its place and removing “FmHA or its successor agency under Public Law 103-354 office” wherever it occurs and adding “Rural Development office” in its place;

s. In paragraph (f)(5), removing “Form FmHA or its successor agency under Public Law 103-354” and adding “Form RD” in its place and removing “approval by FmHA or its successor agency under Public Law 103-354” and adding “approval by Rural Development” in its place;

t. In paragraphs (f)(6), (f)(7)(i), and (f)(7)(ii), removing “Form FmHA or its successor agency under Public Law 103-354” and adding “Form RD” in its place;

u. In paragraph (f)(8), removing “an FmHA or its successor agency under Public Law 103-354” and adding “a Rural Development” in its place;

v. In paragraph (f)(9), removing “FmHA or its successor agency under Public Law 103-354” and adding “Rural Development” in its place;

w. In paragraph (f)(11), removing “Form FmHA or its successor agency under Public Law 103-354” and adding “Form RD” in its place;

x. In paragraphs (f)(12) and (f)(14), removing “FmHA or its successor agency under Public Law 103-354” and adding “Rural Development” in its place; and

y. In paragraph (f)(15), removing “Form FmHA or its successor agency under Public Law 103-354” and adding “Form RD” in its place.

§ 1951.231 [Amended]

278. Amend § 1951.231 by:

a. In paragraphs (a)(1)(i), (v), and (vii), removing “FmHA or its successor agency under Public Law 103-354” wherever it occurs and adding “RD” in its place;

b. In paragraph (a)(1)(vi), removing “FmHA or its successor agency under Public Law 103-354 office” and adding “Rural Development office” in its place;

c. In paragraphs (a)(2), (3), and (4), removing “FmHA or its successor agency under Public Law 103-354” wherever it occurs and adding “RD” in its place;

d. In paragraph (b)(2), removing “FmHA or its successor agency under Public Law 103-354” wherever it occurs and adding “Rural Development” in its place; and

e. In paragraphs (c)(3) and (4), removing “FmHA or its successor agency under Public Law 103-354” wherever it occurs and adding “RD” in its place;

f. In paragraph (d) introductory text, removing “FmHA or its successor agency under Public Law 103-354” wherever it occurs and adding “RD” in its place; and

g. In paragraph (d)(1), removing “FmHA or its successor agency under Public Law 103-354's” and adding “Rural Development's” in its place and removing “debt to FmHA or its successor agency under Public Law 103-354” and adding “debt to Rural Development” in its place.

§§ 1951.232, 1951.240, and 1951.241 [Amended]

279. Remove “FmHA or its successor agency under Public Law 103-354” wherever it occurs and adding “Rural Development” in its place in the following places:

a. Section 1951.232;

b. Section 1951.240; and

c. Section 1951.241.

Subpart F—Analyzing Credit Needs and Graduation of Borrowers

§ 1951.264 [Amended]

280. Amend § 1951.264(a)(2) by removing “1951-F-5” and adding “1951-5” in its place.

Exhibit B to Subpart F [Amended]

281. In Exhibit B to subpart F, paragraph 15, removing “Form FmHA or its successor agency under Public Law 103-354” and adding “Form RD” in its place and removing “by FmHA or its successor agency under Public Law 103-354” and adding “by Rural Development” in its place.

Subpart R—Rural Development Loan Servicing

§ 1951.851 [Amended]

282. Amend § 1951.851 by:

a. In paragraph (a), removing “Farmers Home Administration or its successor agency under Public Law 103-354 (FmHA or its successor agency under Public Law 103-354)” and adding “Rural Development” in its place; and

b. In paragraph (d), removing “FmHA or its successor agency under Public Law 103-354” and adding “Rural Development” in its place.

§ 1951.852 [Amended]

283. Amend § 1951.852(a)(1), (a)(2), and (a)(9) by removing “FmHA or its successor agency under Public Law 103-354” wherever it occurs and adding “Rural Development loan” in its place.

§§ 1951.866, 1951.883, and 1951.896 [Amended]

284. Remove “FmHA or its successor agency under Public Law 103-354” wherever it occurs and adding “Rural Development” in its place in the following places:

a. Section 1951.866;

b. Section 1951.883; and

c. Section 1951.896.

§ 1951.881 [Amended]

285. Amend § 1951.881 by:

a. In paragraph (b), removing “FmHA or its successor agency under Public Law 103-354” and adding “Rural Development” in its place;

b. In paragraph (d):

i. Removing “by the FmHA or its successor agency under Public Law 103-354” and adding “by the Rural Development” in its place;

ii. Removing “the FmHA or its successor agency under Public Law 103-354 Administrator” and adding “the Rural Development Under Secretary” in its place; and

c. In paragraph (e)(1), removing “FmHA or its successor agency under Public Law 103-354” and adding “Rural Development” in its place.

§ 1951.884 [Amended]

286. Amend § 1951.884 by removing “FmHA or its successor agency under Public Law 103-354” and adding “Rural Development” in its place.

§ 1951.885 [Amended]

287. Amend § 1951.885 by:

a. In the introductory text and in paragraphs (a)(2), and (b), removing “FmHA or its successor agency under Public Law 103-354” wherever it occurs and adding “Rural Development” in its place;

b. In paragraph (c):

i. Removing “expose FmHA or its successor agency under Public Law 103-354” and adding “expose Rural Development” in its place;

ii. Removing “FmHA or its successor agency under Public Law 103-354's” and adding “Rural Development's” in its place; and

iii. Removing “which FmHA or its successor agency under Public Law 103-354” and adding “which Rural Development” in its place; and

c. In paragraph (d), removing “FmHA or its successor agency under Public Law 103-354” and adding “Rural Development” in its place.

§ 1951.889 [Amended]

288. Amend § 1951.889 by:

a. In paragraph (a), removing “FmHA or its successor agency under Public Law 103-354” and adding “Rural Development” in its place;

b. In paragraph (c), removing “FmHA or its successor agency under Public Law 103-354's” and adding “Rural Development's” in its place;

c. In paragraph (d), removing “FmHA or its successor agency under Public Law 103-354” wherever it occurs and adding “Rural Development” in its place; and

d. In paragraph (e), removing “FmHA or its successor agency under Public Law 103-354 case nunber” and adding “Rural Development case number” in its place.

§ 1951.890 [Amended]

289. Amend § 1951.890 by:

a. Removing “FmHA or its successor agency under Public Law 103-354 will” and adding “Rural Development will” in its place;

b. Removing “FmHA or its successor agency under Public Law 103-354 Instruction” and adding “RD Instruction” in its place;

c. Removing “FmHA or its successor agency under Public Law 103-354 office” and adding “Rural Development office” in its place;

d. Removing “FmHA or its successor agency under Public Law 103-354 and” and adding “Rural Development and” in its place; and

e. Removing “FmHA or its successor agency under Public Law 103-354 staff” and adding “Rural Development staff” in its place.

§ 1951.891 [Amended]

290. Amend § 1951.891 by:

a. In paragraph (a) introductory text:

i. Removing “that FmHA or its successor agency under Public Law 103-354” and adding “that Rural Development” in its place;

ii. Removing “Should the FmHA or its successor agency under Public Law 103-354” and adding “Should Rural Development” in its place;

iii. Removing “interests of FmHA or its successor agency under Public Law 103-354” and adding “interests of Rural Development” in its place; and

iv. Removing “FmHA or its successor agency under Public Law 103-354 may” and adding “Rural Development may” in its place;

b. in paragraph (a)(2), removing “as FmHA or its successor agency under Public Law 103-354” and adding “as Rural Development” in its place and removing “by the FmHA or its successor agency under Public Law 103-354” and adding “by Rural Development” in its place; and

c. In paragraphs (a)(3), (e), and (f), removing “FmHA or its successor agency under Public Law 103-354” wherever it occurs and adding “Rural Development” in its place.

PART 1955—PROPERTY MANAGEMENT

291. The authority citation for part 1955 continues to read as follows:

Authority: 5 U.S.C. 301; 7 U.S.C. 1989; 42 U.S.C. 1480.

Subpart A—Liquidation of Loans Secured by Real Estate and Acquisition of Real and Chattel Property

§ 1955.2 [Amended]

292. Amend § 1955.2 by removing “property to FmHA or its successor agency under Public Law 103-354” and adding “property to Rural Development” in its place and removing “conveyance to FmHA or its successor agency under Public Law 103-354” and adding “conveyance to Rural Development and” in its place.

§ 1955.3 [Amended]

293. Amend § 1955.3 by:

a. In the definition of `CONACT or CONACT property', removing “FmHA or its successor agency under Public Law 103-354” and adding “the government” in its place;

b. In the definition of `Government', removing “Farmers Home Administration or its successor agency under Public Law 103-354 (FmHA or its successor agency under Public Law 103-354),” and adding “RBS, RHS, and RUS of the” in its place and removing “used interchangeably herein with “FmHA or its successor agency under Public Law 103-354.”; and

c. In the definition of `Prior lien', removing “FmHA or its successor agency under Public Law 103-354 security” and adding “Rural Development security” in its place and removing “FmHA or its successor agency under Public Law 103-354's `” and adding “Rural Development's” in its place.

§ 1955.5 [Amended]

294. Amend § 1955.5 by:

a. In paragraphs (a) and (c)(2), removing “FmHA or its successor agency under Public Law 103-354” and adding “Rural Development” in its place; and

b. In paragraph (d), removing “(available in any FmHA or its successor agency under Public Law 103-354 office)” and removing “FmHA or its successor agency under Public Law 103-354” and adding “RD” in its place.

§ 1955.10 [Amended]

295. Amend § 1955.10 by:

a. Removing “FmHA or its successor agency under Public Law 103-354” wherever it occurs and adding “Rural Development” in its place in the following places:

i. The introductory text;

ii. The heading of paragraph (c);

iii. Paragraph (f) introductory text;

iv. Paragraphs (f)(1) introductory text, (f)(1)(i)(A), (f)(1)(i)(B), (f)(1)(ii), and (f)(1)(iii);

v. Paragraph (g)(1); and

vi. Paragraphs (h)(1), (h)(2), and (h)(5);

b. In paragraph (a)(2)(ii), removing “FmHA or its successor agency under Public Law 103-354 Instruction” and adding “RD Instruction” in its place and removing “FmHA or its successor agency under Public Law 103-354 office” and adding “Rural Development office” in its place;

c. In paragraph (c)(2):

i. Removing “FmHA or its successor agency under Public Law 103-354 liens” and adding “Rural Development liens” in its place;

ii. Removing “made by FmHA or its successor agency under Public Law 103-354” and adding “made by Rural Development” in its place;

iii. Removing “An FmHA or its successor agency under Public Law 103-354 official” and adding “A Rural Development official” in its place;

d. In paragraphs (d)(1), (d)(2), and (d)(3), removing “FmHA or its successor agency under Public Law 103-354” wherever it occurs and adding “RD” in its place;

e. In paragraph (e):

i. Removing “by FmHA or its successor agency under Public Law 103-354” and adding “by Rural Development” in its place;

ii. Removing “qualified FmHA or its successor agency under Public Law 103-354” and adding “qualified Rural Development” in its place;

iii. Removing “outside FmHA or its successor agency under Public Law 103-354” wherever it occurs and adding “outside Rural Development” in its place; and

iv. Removing “FmHA or its successor agency under Public Law 103-354 Instruction” and adding “RD Instruction” in its place; and

f. In paragraphs (h)(4)(i) and (h)(4)(ii), removing “FmHA or its successor agency under Public Law 103-354” wherever it occurs and adding “RD” in its place.

§§ 1955.11 and 1955.12 [Amended]

296. Amend §§ 1955.11 and 1955.12 by removing in their section headings and wherever else it occurs “FmHA or its successor agency under Public Law 103-354” and adding “Rural Development” in its place.

§ 1955.15 [Amended]

297. Amend § 1955.15 by:

a. Removing “FmHA or its successor agency under Public Law 103-354” wherever it occurs and adding “Rural Development” in its place in the following places:

i. The introductory text;

ii. Paragraph (a)(2)(i);

iii. Paragraph (d)(2)(v);

iv. Paragraph (d)(3)(i)(A);

v. Paragraph (d)(6)(i) introductory text;

vi. Paragraphs (f)(1)(i)(C) and (D),

vii. Paragraphs (f)(5)(i)(A) and (B);

viii. Paragraph (f)(5)(ii); and

ix. Paragraphs (f)(7)(i) and (ii).

b. In paragraph (b) introductory text:

i. Removing “Form FmHA or its successor agency under Public Law 103-354” and adding “Form RD” in its place;

ii. Removing “FmHA or its successor agency under Public Law 103-354 Instruction” and adding “RD Instruction” in its place;

iii. Removing “FmHA or its successor agency under Public Law 103-354 office” and adding “Rural Development office” in its place;

iv. Removing “Forms FmHA or its successor agency under Public Law 103-354” and adding “Forms RD” in its place; and

v. Removing “FmHA or its successor agency under Public Law 103-354 loan servicing” and adding “Rural Development loan servicing” in its place;

c. In paragraph (b)(3), removing “FmHA or its successor agency under Public Law 103-354” and adding “the government” in its place;

d. In paragraph (d)(1):

i. Removing “whether FmHA or its successor agency under Public Law 103-354” wherever it occurs and adding “whether Rural Development” in its place;

ii. Removing “FmHA or its successor agency under Public Law 103-354 loan(s)” and adding “Rural Development loan(s)” in its place; and

iii. Removing “FmHA or its successor agency under Public Law 103-354's position” and adding “Rural Development's position” in its place;

e. In paragraph (d)(2) introductory text, removing “FmHA or its successor agency under Public Law 103-354 Guide Letters” and adding “Guide Letters” in its place and removing “FmHA or its successor agency under Public Law 103-354 Office” wherever it occurs and adding “Rural Development office” in its place;

f. In paragraphs (d)(4), (e)(2), and (f)(1)(ii), removing “FmHA or its successor agency under Public Law 103-354” and adding “RD” in its place;

g. In paragraph (f)(3), removing “FmHA or its successor agency under Public Law 103-354 Instruction” and adding “RD Instruction” in its place and removing “FmHA or its successor agency under Public Law 103-354 office” and adding “Rural Development office” in its place;

h. In paragraph (f)(4), removing “FmHA or its successor agency under Public Law 103-354” and adding “RD” in its place;

i. In paragraph (f)(6):

i. Removing “FmHA or its successor agency under Public Law 103-354's” wherever it occurs and adding “Rural Development's” in its place;

ii. Removing “an FmHA or its successor agency under Public Law 103-354 borrower” and adding “a Rural Development borrower” in its place;

iii. Removing “FmHA or its successor agency under Public Law 103-354 debt” and adding “Rural Development debt” in its place;

iv. Removing “FmHA or its successor agency under Public Law 103-354 determines” and adding “Rural Development determines” in its place;

v. Removing “an FmHA or its successor agency under Public Law 103-354 appraiser” and adding “a Rural Development appraiser” in its place;

vi. Removing “outside FmHA or its successor agency under Public Law 103-354” and adding “outside Rural Development” in its place;

vii. Removing “FmHA or its successor agency under Public Law 103-354 Instruction” and adding “RD Instruction” in its place; and

viii. Removing “FmHA or its successor agency under Public Law 103-354 office” and adding “Rural Development office” in its place; and

j. In paragraph (f)(7) introductory text, removing “an FmHA or its successor agency under Public Law 103-354 employee” wherever it occurs and adding “a Rural Development employee” in its place.

§ 1955.18 [Amended]

298. Amend § 1955.18 by:

a. In paragraph (e)(1) introductory text, removing “FmHA or its successor agency under Public Law 103-354” and adding “Rural Development” in its place;

b. In paragraph (e)(1)(ii), removing “FmHA or its successor agency under Public Law 103-354's” and adding “Rural Development's” in its place.

c. In paragraph (e)(2) introductory text, removing “FmHA or its successor agency under Public Law 103-354” and adding “Rural Development” in its place;

d. In paragraph (e)(2)(ii), removing “FmHA or its successor agency under Public Law 103-354's” and adding “Rural Development's” in its place;

e. In paragraph (e)(3), removing “FmHA or its successor agency under Public Law 103-354” wherever it occurs and adding “Rural Development” in its place; and

f. In paragraph (e)(4) introductory text, removing “FmHA or its successor agency under Public Law 103-354” and adding “Rural Development” in its place.

§ 1955.20 [Amended]

299. Amend § 1955.20 by:

a. In the introductory text, removing “FmHA or its successor agency under Public Law 103-354” and adding “Rural Development” in its place;

b. In paragraph (a)(2), removing “FmHA or its successor agency under Public Law 103-354” and adding “Rural Development” in its place;

c. In paragraph (a)(5), removing “FmHA or its successor agency under Public Law 103-354” and adding “RD” in its place;

d. In paragraph (b) introductory text, removing “FmHA or its successor agency under Public Law 103-354” and adding “Rural Development” in its place;

e. In paragraph (b)(1), removing “FmHA or its successor agency under Public Law 103-354” and adding “RD” in its place;

f. In paragraph (b)(2):

i. Removing “chattels to FmHA or its successor agency under Public Law 103-354” and adding “chattels to Rural Development” in its place;

ii. Removing “FmHA or its successor agency under Public Law 103-354 office” and adding “Rural Development office” in its place; and

iii. Removing “Form FmHA or its successor agency under Public Law 103-354” wherever it occurs and adding “Form RD” in its place;

g. In paragraph (b)(4), removing “FmHA or its successor agency under Public Law 103-354” and adding “RD” in its place;

h. In paragraph (c)(1), removing “FmHA or its successor agency under Public Law 103-354” and adding “Rural Development” in its place;

i. In paragraph (d):

i. Removing “Form FmHA or its successor agency under Public Law 103-354” and adding “Form RD” in its place;

ii. Removing “outside FmHA or its successor agency under Public Law 103-354” and adding “outside Rural Development” in its place;

iii. Removing “FmHA or its successor agency under Public Law 103-354 Instruction” and adding “RD Instruction” in its place; and

iv. Removing “FmHA or its successor agency under Public Law 103-354 office” and adding “Rural Development office” in its place; and

j. In paragraph (f)(1) introductory text, removing “an FmHA or its successor agency under Public Law 103-354” and adding “a Rural Development” in its place;

k. In paragraphs (f)(1)(ii), and (f)(2)(i), (ii), and (iii), removing “FmHA or its successor agency under Public Law 103-354” and adding “Rural Development” in its place;

l. In paragraph (f)(2)(v), removing “FmHA or its successor agency under Public Law 103-354” and adding “RD” in its place;

m. In paragraph (g), removing “FmHA or its successor agency under Public Law 103-354” and adding “Rural Development” in its place; and

n. In paragraph (h), removing “FmHA or its successor agency under Public Law 103-354” and adding “RD” in its place;

§ 1955.22 [Amended]

300. Amend § 1955.22 by:

a. Removing “FmHA or its successor agency under Public Law 103-354 officials” and adding “Rural Development officials” in its place;

b. Removing “FmHA or its successor agency under Public Law 103-354 Instruction” and adding “RD instruction” in its place; and

c. Removing “FmHA or its successor agency under Public Law 103-354 office” and adding “Rural Development office” in its place.

Subpart B—Management of Property

§ 1955.52 [Amended]

301. Amend § 1955.52 by removing “by FmHA or its successor agency under Public Law 103-354” and adding “by the respective Agency” in its place and by removing “Generally, FmHA or its successor agency under Public Law 103-354” and adding “Generally, RHS” in its place.

§ 1955.53 [Amended]

302. Amend § 1955.53 as follows:

a. In the definition of `CONACT or CONACT property', remove “FmHA or its successor agency under Public Law 103-354” and add “the respective Agency” in its place;

b. In the definition of `Custodial property', remove “an FmHA or its successor agency under Public Law 103-354 loan” and add “a Rural Development loan” in its place and remove “FmHA or its successor agency under Public Law 103-354 loan has taken” and add “the respective Agency has taken” in its place; and

c. In the definition of `Government', remove “FmHA or its successor agency under Public Law 103-354” and add “the respective Agency” in its place.

§ 1955.55 [Amended]

303. Amend § 1955.55 by:

a. Removing “FmHA or its successor agency under Public Law 103-354” wherevre it occurs and adding “Rural Development” in its place in the following places:

i. Paragraph (b) introductory text;

ii. Paragraph (b)(2) introductory text;

iii. Paragraphs (c) introductory text and (c)(1);

iv. Paragraphs (f)(2)(i) and (ii), and (f)(3);

b. In paragraph (b)(2)(iii), removing “FmHA or its successor agency under Public Law 103-354 Instruction” and adding “RD Instruction” in its place and removing “FmHA or its successor agency under Public Law 103-354 office” and adding “Rural Development office” in its place; and

c. In paragraph (f) introductory text:

i. Removing “by FmHA or its successor agency under Public Law 103-354” and adding “by Rural Development” in its place;

ii. Removing “through FmHA or its successor agency under Public Law 103-354” and adding “through Rural Development” in its place;

iii. Removing “if FmHA or its successor agency under Public Law 103-354” and adding “if Rural Development” in its place;

iv. Removing “FmHA or its successor agency under Public Law 103-354 Instruction” and adding “RD Instruction” in its place; and

v. Removing “FmHA or its successor agency under Public Law 103-354 office” and adding “Rural Development office” in its place.

§§ 1955.57, 1955.60, 1955.61, and 1955.82 [Amended]

304. Remove “FmHA or its successor agency under Public Law 103-354” wherever it occurs and adding “Rural Development” in its place in the following places:

a. Section 1955.57;

b. Section 1955.60;

c. Section 1955.61; and

d. Section 1955.82.

§ 1955.62 [Amended]

305. Amend § 1955.62 by:

a. In the introductory text, removing “an FmHA or its successor agency under Public Law 103-354 lien” and adding “a Rural Development lien” in its place and removing “FmHA or its successor agency under Public Law 103-354 official” and adding “Rural Development official” in its place;

b. In paragraphs (a)(1) and (a)(2), removing “FmHA or its successor agency under Public Law 103-354” wherever it occurs and adding “RD” in its place;

c. In paragraph (b)(1)(ii), removing “FmHA or its successor agency under Public Law 103-354” and adding “RD” in its place;

d. In paragraph (b)(2), removing “FmHA or its successor agency under Public Law 103-354 Instruction” and adding “RD Instruction” in its place and removing “FmHA or its successor agency under Public Law 103-354 office” and adding “Rural Development office” in its place; and

e. In paragraph (c), removing “FmHA or its successor agency under Public Law 103-354” and adding “RD” in its place;

§ 1955.65 [Amended]

306. Amend § 1955.65 by:

a. In paragraph (b), removing “FmHA or its successor agency under Public Law 103-354”;

b. In paragraph (c) introductory text, removing “FmHA or its successor agency under Public Law 103-354 Instruction” and adding “RD Instruction” in its place and removing “FmHA or its successor agency under Public Law 103-354 office” and adding “Rural Development office” in its place;

c. In paragraph (c)(1):

i. Removing “which FmHA or its successor agency under Public Law 103-354” and adding “which Rural Development” in its place;

ii. Removing “FmHA or its successor agency under Public Law 103-354's approval” and adding “Rural Development's approval” in its place;

iii. Removing “FmHA or its successor agency under Public Law 103-354 Instruction” and adding “RD Instruction” in its place; and

iv. Removing “FmHA or its successor agency under Public Law 103-354 office” and adding “Rural Development office” in its place; and

d. In paragraphs (c)(2)(i), (ii), and (iii), removing “FmHA or its successor agency under Public Law 103-354 Instruction” and adding “RD Instruction” in its place and removing “FmHA or its successor agency under Public Law 103-354 office” and adding “Rural Development office” in its place; and

e. In paragraph (c)(4):

i. Removing “FmHA or its successor agency under Public Law 103-354 Instruction” wherever it occurs and adding “RD Instruction” in its place; and

ii. Removing “FmHA or its successor agency under Public Law 103-354 office” and “FmHA or its successor agency under Public Law 103-354 Office” and adding “Rural Development office” in their place.

§ 1955.72 [Amended]

307. Amend § 1955.72(a) and (b) by removing “(available in any FmHA or its successor agency under Public Law 103-354 office)”.

308. Amend Exhibit A to subpart B of Part 1955 by revising the heading to read as follows:

Exhibit A to Subpart B of Part 1955—Memorandum of Understanding Between the Federal Emergency Management Agency and Rural Development

* * * * *

Subpart C—Disposal of Inventory Property

§ 1955.102 [Amended]

309. Amend § 1955.102 by removing “Farmers Home Administration or its successor agency under Public Law 103-354s (FmHA or its successor agency under Public Law 103-354's)” and adding “the applicable” in its place.

§ 1955.103 [Amended]

310. Amend § 1955.103 by:

a. Removing “FmHA or its successor agency under Public Law 103-354” wherever it occurs and adding “Rural Development” in its place in the following definitions:

i. `Approval official';

ii. `Borrower';

iii. `Decent, safe, and sanitary (DSS) housing';

iv. `Eligible terms';

v. `Participating broker';

vi. `Program terms'; and

vii. `Regular sale';

b. In the definition of `CONACT or CONACT property', removing “FmHA or its successor agency under Public Law 103-354” and adding “the respective Agency” in its place;

c. In the definitions of `Ineligible terms' and `Nonprogram (NP) terms', removing “FmHA or its successor agency under Public Law 103-354's” and adding “Rural Development's” in its place;

d. In the definition of `Inventory property', removing “an FmHA or its successor agency under Public Law 103-354 loan” and adding “a Rural Development loan” in its place;

e. In the definition of `Nonprogram (NP) property', removing “FmHA or its successor agency under Public Law 103-354”; and

f. Removing the definition of “Regular FmHA or its successor agency under Public Law 103-354 sale”, adding a definition for `Regular Agency sale' in alphabetical order, and revising the definitions of `Suitable property' and `Surplus property'. The revisions read as follows:

§ 1955.103 Definitions.

* * * * *

Regular Agency sale. Sale made by Rural Deveopment employees or real estate brokers other than by sealed bid, auction, or negotiation.

* * * * *

Suitable property. Real property that could be used to carry out the objectives of Rural Development's loan programs with financing provided through that program.

Surplus property. Property that cannot be used to carry out the objectives of financing available through the applicable loan program.

§§ 1955.104, 1955.112, 1955.113, 1955.121, 1955.128, 1955.132, 1955.134, 1955.136, and 1955.150 [Amended]

311. Remove “FmHA or its successor agency under Public Law 103-354” wherever it occurs and adding “Rural Development” in its place in the following places:

a. Section 1955.104;

b. Section 1955.112;

c. Section 1955.113;

d. Section 1955.121;

e. Section 1955.128;

f. Section 1955.132;

g. Section 1955.134;

h. Section 1955.136(a)(2); and

i. Section 1955.150.

§ 1955.105 [Amended]

312. Amend § 1955.105 by:

a. In paragraph (b):

i. Removing “FmHA or its successor agency under Public Law 103-354 office” and adding “Rural Development office” in its place;

ii. Removing “Form FmHA or its successor agency under Public Law 103-354” and adding “Form RD” in its place; and

iii. Removing “FmHA or its successor agency under Public Law 103-354 Services” and adding “RD Services” in its place; and

b. In paragraphs (c) introductory text, (c)(1), (c)(3), and (d), removing “FmHA or its successor agency under Public Law 103-354” and adding “Rural Development” in its place.

§ 1955.109 [Amended]

313. Amend § 1955.109 by:

a. In paragraph (a), removing the second and third sentences; and

b. In paragraphs (g) and (j), removing “FmHA or its successor agency under Public Law 103-354” wherever it occurs and adding “RD” in its place.

§ 1955.114 [Amended]

314. Amend § 1955.114 by:

a. In paragraphs (a) introductory text and (a)(1)(v), removing “FmHA or its successor agency under Public Law 103-354” and adding “Rural Development” in its place;

b. In paragraph (a)(2), removing “Form FmHA or its successor agency under Public Law 103-354” and adding “Form RD” in its place and removing “unless FmHA or its successor agency under Public Law 103-354” and adding “unless Rural Development” in its place;

c. In paragraph (a)(3)(ii), removing “FmHA or its successor agency under Public Law 103-354 Instruction” and adding “RD Instruction” in its place and removing “FmHA or its successor agency under Public Law 103-354 office” and adding “Rural Development office” in its place;

d. In paragraph (a)(4), removing “FmHA or its successor agency under Public Law 103-354” and adding Rural Development” in its place

e. In paragraph (b):

i. Removing “by FmHA or its successor agency under Public Law 103-354” and adding “by Rural Development” in its place;

ii. Removing “FmHA or its successor agency under Public Law 103-354 employee” and adding “Rural Development employee” in its place; and

iii. Removing “Form FmHA or its successor agency under Public Law 103-354” and adding “Form RD” in its place; and

f. In paragraphs (c) introductroy text and (d), removing “FmHA or its successor agency under Public Law 103-354” and adding “Rural Development” in its place.

§ 1955.115 [Amended]

315. Amend § 1955.115 by:

a. In the introductory text:

i. Removing “FmHA or its successor agency under Public Law 103-354 office” and adding “Rural Development office” in its place;

ii. Removing “Form FmHA or its successor agency under Public Law 103-354” and adding “Form RD” in its place; and

iii. Removing “FmHA or its successor agency under Public Law 103-354 DSS” and adding “Rural Development DSS” in its place;

b. In paragraph (a) introductory text, removing “FmHA or its successor agency under Public Law 103-35” and adding “Rural Development” in its place;

c. In paragraph (a)(2):

i. Removing “FmHA or its successor agency under Public Law 103-354 will” and adding “Rural Development will” in its place;

ii. Removing “FmHA or its successor agency under Public Law 103-354 Instruction” and adding “RD Instruction” in its place; and

iii. Removing “FmHA or its successor agency under Public Law 103-354 office” and adding “Rural Development office” in its place; and

d. In paragraphs (a)(3), and (b), removing “FmHA or its successor agency under Public Law 103-35” and adding “Rural Development” in its place.

§ 1955.116 [Amended]

316. Amend § 1955.116 by:

a. In paragraph (a):

i. Removing “Form FmHA or its successor agency under Public Law 103-354” and adding “Form RD” in its place;

ii. Removing “which FmHA or its successor agency under Public Law 103-354 has” and adding “which Rural Development has” in its place; and

iii. Removing “Contact FmHA or its successor agency under Public Law 103-354” and adding “Contact Rural Development” in its place;

b. In paragraph (b), removing “FmHA or its successor agency under Public Law 103-354” wherever it occurs and adding “RD” in its place;

c. In paragraph (c):

i. Removing “Form FmHA or its successor agency under Public Law 103-354” and adding “Form RD” in its place;

ii. Removing “through Farmers Home Administration or its successor agency under Public Law 103-354” and adding “through Rural Development” in its place; and

iii. Removing “the Farmers Home Administration or its successor agency under Public Law 103-354” wherever it occurs and adding “Rural Development” in its place; and

d. In paragraph (d), removing “FmHA or its successor agency under Public Law 103-354” and adding “Rural Development” in its place.

§ 1955.117 [Amended]

317. Amend § 1955.117 by:

a. In paragraph (a), removing “Form FmHA or its successor agency under Public Law 103-354” wherever it occurs and adding “Form RD” in its place and removing “FmHA or its successor agency under Public Law 103-354 sales” and adding “Rural Development sales” in its place;

b. In paragraph (b), removing “The FmHA or its successor agency under Public Law 103-354” and adding “Rural Development” in its place;

c. In paragraph (c), removing “FmHA or its successor agency under Public Law 103-354” and adding “RD” in its place; and

d. In paragraphs (e) and (f), removing “FmHA or its successor agency under Public Law 103-354” and adding “Rural Development” in its place.

§ 1955.118 [Amended]

318. Amend § 1955.118 by:

a. In paragraphs (b)(1) and (b)(11), removing “FmHA or its successor agency under Public Law 103-354” wherever it occurs and adding “RD” in its place;

b. In paragraph (b)(5), removing “FmHA or its successor agency under Public Law 103-354 Instruction” and adding “RD Instruction” in its place and removing “FmHA or its successor agency under Public Law 103-354 office” and adding “Rural Development office” in its place; and

c. In paragraphs (b)(7) and (b)(8)(ii), removing “FmHA or its successor agency under Public Law 103-354” and adding “Rural Development” in its place.

§ 1955.119 [Amended]

319. Amend § 1955.119 by:

a. In paragraph (a), removing “FmHA or its successor agency under Public Law 103-354 will” wherever it occurs and adding “Rural Development will” in its place and removing “Form FmHA or its successor agency under Public Law 103-354” and adding “Form RD” in its place; and

b. In paragraph (c):

i. Removing “FmHA or its successor agency under Public Law 103-354 will” and adding “Rural Development will” in its place;

ii. Removing “FmHA or its successor agency under Public Law 103-354 determines” and adding “Rural Development determines” in its place;

iii. Removing “Form FmHA or its successor agency under Public Law 103-354” wherever it occurs and adding “Form RD” in its place; and

iv. Removing “FmHA or its successor agency under Public Law 103-354's” and adding “Rural Development's” in its place.

§ 1955.120 [Amended]

320. Amend § 1955.120 by:

a. Removing “non-FmHA or its successor agency under Public Law 103-354” and adding “non-Rural Development” in its place;

b. Removing “by FmHA or its successor agency under Public Law 103-354” wherever it occurs and adding “by Rural Development” in its place;

c. Removing “Form FmHA or its successor agency under Public Law 103-354” and adding “Form RD” in its place; and

d. Removing “FmHA or its successor agency under Public Law 103-354 official” and adding “Rural Development official'' in its place.

§ 1955.122 [Amended]

321. Amend § 1955.122 by:

a. In paragraph (a):

i. Removing “of the FmHA or its successor agency under Public Law 103-354” and adding “of the Rural Development” in its place;

ii. Removing “by FmHA or its successor agency under Public Law 103-354” and adding “by Rural Development” in its place;

iii. Removing “FmHA or its successor agency under Public Law 103-354 Form” and adding “Rural Development Form” in its place; and

iv. Removing “in FmHA or its successor agency under Public Law 103-354” and adding “in Rural Development” in its place;

b. In paragraph (b), removing “by FmHA or its successor agency under Public Law 103-354” and adding “by Rural Development” in its place and removing “Form FmHA or its successor agency under Public Law 103-354” and adding “Form RD” in its place;

c. In paragraph (c)(2), removing “FmHA or its successor agency under Public Law 103-354” and adding “Rural Development” in its place;

d. In paragraph (d), removing “FmHA or its successor agency under Public Law 103-354 Instruction” and adding “RD Instruction” in its place and removing “FmHA or its successor agency under Public Law 103-354 office” and adding “Rural Development office” in its place; and

e. In paragraph (f), removing “to FmHA or its successor agency under Public Law 103-354” and adding “to Rural Development” in its place;

f. In the undesignated paragraph following paragraph (f):

i. Removing “Form FmHA or its successor agency under Public Law 103-354” and adding “Form RD” in its place;

ii. Removing “FmHA or its successor agency under Public Law 103-354 Instruction” and adding “RD Instruction” in its place; and

iii. Removing “FmHA or its successor agency under Public Law 103-354 office” and adding “Rural Development office” in its place.

322. Revise § 1955.123(a) to read as follows:

§ 1955.123 Sale procedures (chattel).

(a) Credit sales. Although cash sales are preferred in the sale of chattel, credit sales may be used advantageously in the sale of chattels to eligible purchasers and to facilitate sales of high-priced chattels. Credit sales to eligible purchasers will be in accordance with the provisions of this chapter for the appropriate program for which a loan would otherwise be made including eligibility determinations. Preference will be given to a cash offer that is at least * percent of the higher offer requiring credit. [*Refer to exhibit B of RD Instruction 440.1 (available in any Rural Development office) for the current percentage.] Credit sales made to ineligible purchasers will require not less than a 10 percent downpayment with the remaining balance amortized over a period not to exceed 5 years. The interest rate for ineligible purchasers of C&BP chattel will be the current ineligible interest rate for C&BP property set forth in Exhibit B of RD Instruction 440.1 (available in any Rural Development office). District Directors and State Directors are authorized to approve or disapprove sale of C&BP chattel on ineligible terms in accordance with the respective type of program approval authorities in Exhibit E of Subpart A of Part 1901 of this chapter (available in any Rural Development office). For other than C&BP, credit sales to NP purchasers will be handled in accordance with Subpart J of Part 1951 of this chapter.

* * * * *

§ 1955.124 [Amended]

323. Amend §§ 1955.124 by removing “FmHA or its successor agency under Public Law 103-354” wherever it occurs and adding “RD” in its place.

§ 1955.127 [Amended]

324. Amend § 1955.127 by removing “FmHA or its successor agency under Public Law 103-354 Instruction” and adding “RD Instruction” in its place and by removing “FmHA or its successor agency under Public Law 103-354 office” and adding “Rural Development office” in its place.

§ 1955.130 [Amended]

325. Amend § 1955.130 by:

a. In the introductory text, removing “FmHA or its successor agency under Public Law 103-354 Instruction” and adding “RD Instruction” in its place and removing “FmHA or its successor agency under Public Law 103-354 office” and adding “Rural Development office” in its place;

b. In paragraph (a)(1), removing “FmHA or its successor agency under Public Law 103-354” wherever it occurs and “Rural Development” in its place;

c. In paragraph (a)(2), removing “Form FmHA or its successor agency under Public Law 103-354” and adding “Form RD” in its place and removing “FmHA or its successor agency under Public Law 103-354 office” wherever it occurs and adding “Rural Development office” in its place;

d. In paragraph (b), removing “FmHA or its successor agency under Public Law 103-354” wherever it occurs and adding “RD” in its place;

e. In paragraph (c) introductory text, removing “FmHA or its successor agency under Public Law 103-354” and adding “Rural Development” in its place;

f. In paragraph (e) introductory text, removing “FmHA or its successor agency under Public Law 103-354” wherever it occurs and “Rural Development” in its place;

g. In paragraph (e)(1)(ii), removing “FmHA or its successor agency under Public Law 103-354” and adding “RD” in its place.

h. In paragraph (f)(1)(i), removing “FmHA or its successor agency under Public Law 103-354” and adding “Rural Development” in its place;

i. In paragraph (f)(3):

i. Removing “receiving FmHA or its successor agency under Public Law 103-354” wherever it occurs and adding “receiving Rural Development” in its place;

ii. Removing “appropriate FmHA or its successor agency under Public Law 103-354” and adding “appropriate Rural Development” in its place; and

iii. Removing “Form FmHA or its successor agency under Public Law 103-354” and adding “Form RD” in its place; and

j. In paragraph (g), removing “FmHA or its successor agency under Public Law 103-354 shall” and adding “Rural Development shall” in its place and removing “Form FmHA or its successor agency under Public Law 103-354” wherever it occurs and adding “Form RD” in its place.

§ 1955.131 [Amended]

326. Amend § 1955.131 by:

a. In the introductory text, removing “FmHA or its successor agency under Public Law 103-354 Instruction” and adding “RD Instruction” in its place and removing “FmHA or its successor agency under Public Law 103-354 office” and adding “Rural Development office” in its place; and

b. In paragraph (b):

i. Removing “FmHA or its successor agency under Public Law 103-354 may not” and adding “Rural Development may not” in its place;

ii. Removing “FmHA or its successor agency under Public Law 103-354 official” and adding “Rural Development official” in its place; and

iii. Removing “Form FmHA or its successor agency under Public Law 103-354” and adding “Form RD” in its place.

§ 1955.133 [Amended]

327. Amend § 1955.133 by:

a. In paragraph (a), removing “if FmHA or its successor agency under Public Law 103-354” and adding “if Rural Development” in its place and removing “Form FmHA or its successor agency under Public Law 103-354” and adding “Form RD” in its place; and

b. In paragraphs (b) and (c), removing “FmHA or its successor agency under Public Law 103-354” and adding “Rural Development” in its place.

§ 1955.135 [Amended]

328. Amend § 1955.135 by:

a. In the introductory text:

i. Removing “Where FmHA or its successor agency under Public Law 103-354” and adding “Where Rural Development” in its place;

ii. Removing “between FmHA or its successor agency under Public Law 103-354” and adding “between Rural Development” in its place;

iii. Removing “Forms FmHA or its successor agency under Public Law 103-354 1955-45 or FmHA or its successor agency under Public Law 103-354” and adding “Forms RD 1955-45 or RD” in its place;

iv. Removing “paid by FmHA or its successor agency under Public Law 103-354” wherever it occurs and adding “paid by Rural Development” in its place; and

v. Removing “proceeds FmHA or its successor agency under Public Law 103-354” and adding “proceeds Rural Development” in its place; and

b. In paragraph (a), removing “FmHA or its successor agency under Public Law 103-354 credit” and adding “Rural Development credit” in its place and removing “FmHA or its successor agency under Public Law 103-354's” and adding “Rural Development's” in its place.

§ 1955.138 [Amended]

329. Amend § 1955.138 by removing “FmHA or its successor agency under Public Law 103-354's” and adding “Rural Development's” in its place.

§ 1955.139 [Amended]

330. Amend § 1955.139 by:

a. In paragraph (a)(3)(iii), removing “the FmHA or its successor agency under Public Law 103-354” and adding “Rural Development's” in its place;

b. In paragraph (a)(3)(iv), removing “the FmHA or its successor agency under Public Law 103-354” wherever it occurs and adding “Rural Development” in its place; and

c. In paragraphs (a)(3)(v) and (vi), removing “FmHA or its successor agency under Public Law 103-354” and adding “Rural Development” in its place.

§ 1955.144 [Amended]

331. Amend § 1955.144(b) by removing “FmHA or its successor agency under Public Law 103-354” and “the Farmers Home Administration or its successor agency under Public Law 103-354” and adding “Rural Development” in their place.

§ 1955.146 [Amended]

332. Amend § 1955.146(a) by:

a. Removing “sold by FmHA or its successor agency under Public Law 103-354” and adding “sold by Rural Development” in its place;

b. Removing “FmHA or its successor agency under Public Law 103-354 Instruction” wherever it occurs and adding “RD Instruction” in its place;

c. Removing “FmHA or its successor agency under Public Law 103-354 office” wherever it occurs and adding “Rural Development office” in its place;

d. Removing “Form FmHA or its successor agency under Public Law 103-354” and adding “Form RD” in its place;

e. Removing “Forms FmHA or its successor agency under Public Law 103-354 1955-40 or FmHA or its successor agency under Public Law 103-354” and adding “Forms RD 1955-40 or RD” in its place;

f. Removing “FmHA or its successor agency under Public Law 103-354 personnel” and adding “Rural Development personnel” in its place; and

g. Removing “FmHA or its successor agency under Public Law 103-354 may contract” and adding “Rural Development may contract” in its place.

§ 1955.147 [Amended]

333. Amend § 1955.147 by:

a. In the introductory text:

i. Removing “all FmHA or its successor agency under Public Law 103-354” and adding “all Rural Development” in its place;

ii. Removing “FmHA or its successor agency under Public Law 103-354 will” wherever it occurs and adding “Rural Development will” in its place;

iii. Removing “Form FmHA or its successor agency under Public Law 103-354” and adding “Form RD” in its place;

iv. Removing “payable to FmHA or its successor agency under Public Law 103-354” and adding “payable to Rural Development” in its place; and

v. Removing “FmHA or its successor agency under Public Law 103-354 office” and adding “Rural Development office” in its place;

b. In paragraph (a), removing “FmHA or its successor agency under Public Law 103-354” wherever it occurs and adding “Rural Development” in its place;

c. In paragraph (b), removing “FmHA or its successor agency under Public Law 103-354 Instruction” and adding “RD Instruction” in its place and removing “FmHA or its successor agency under Public Law 103-354 office” and adding “Rural Development office” in its place; and

d. In paragraphs (d) and (e), removing “FmHA or its successor agency under Public Law 103-354” wherever it occurs and adding “Rural Development” in its place.

PART 1956—DEBT SETTLEMENT

334. The authority citation for part 1956 continues to read as follows:

Authority: 5 U.S.C. 301; 7 U.S.C. 1989; 31 U.S.C. 3711; 42 U.S.C. 1480.

Subpart C—Debt Settlement—Community and Business Programs

§ 1956.102 [Amended]

335. Amend § 1956.102(a) by removing “the Farmers Home Administration or its successor agency under Public Law 103-354 (FmHA or its successor agency under Public Law 103-354)” and adding “the government” in its place and removing “FmHA or its successor agency under Public Law 103-354 personnel” and adding “Rural Development personnel” in their place.

336. Revise § 1956.105(a), (f), (g), and (h) to read as follows:

§ 1956.105 Definitions.

(a) Settlement. The compromise, adjustment, cancellation, or chargeoff of a debt owed to Rural Development. The term “settlement” is used for convenience in referring to compromise, adjustment, cancellation, or chargeoff actions, individually or collectively.

* * * * *

(f) Debtor. The borrower of loan funds under any of Rural Development programs specified in § 1956.101.

(g) Security. All that serves as collateral for Rural Development loan(s), including, but not limited to, revenues, tax levies, municipal bonds, and real and chattel property.

(h) Servicing official. The Rural Development official who is primarily responsible for servicing the account.

* * * * *

§§ 1956.109, 1956.110, 1956.130, 1956.138, 1956.142, and 1956.148 [Amended]

337. Remove “FmHA or its successor agency under Public Law 103-354” wherever it occurs and adding “RD” in its place in the following places:

a. Section 1956.109(f);

b. Section 1956.110;

c. Section 1956.130;

d. Section 1956.138;

e. Section 1956.142(f); and

f. Section 1956.148.

§ 1956.111 [Amended]

338. Amend § 1956.111 introductory text and paragraph (a) by removing “FmHA or its successor agency under Public Law 103-354” and adding “Rural Development” in its place.

§ 1956.112 [Amended]

339. Amend § 1956.112(d) by removing “FmHA or its successor agency under Public Law 103-354” and adding “Rural Development” in its place.

§ 1956.139 [Amended]

340. Amend § 1956.139 by:

a. In paragraph (d) introductory text:

i. Removing “Form FmHA or its successor agency under Public Law 103-354” and adding “Form RD” in its place;

ii. Removing “Compromise Offer—FmHA or its successor agency under Public Law 103-354” and adding “Compromise Offer—Rural Development” in its place; and

iii. Removing “Adjustment Offer—FmHA or its successor agency under Public Law 103-354” and adding “Adjustment Offer—Rural Development” in its place; and

b. In paragraphs (d)(1) and (e), removing “FmHA or its successor agency under Public Law 103-354” and adding “RD” in its place.

§ 1956.143 [Amended]

341. Amend § 1956.143 by:

a. In paragraph (a),

i. Removing “FmHA or its successor agency under Public Law 103-354” wherever it occurs and adding “Rural Development” in its place in the following definitions:

A. `Debt writedown';

B. `Delinquent debtor';

C. `Eligibility'; and

D. `Operations review'; and

ii. Removing “FmHA or its successor agency under Public Law 103-354's” and adding “Rural Development's” in its place in the definition of `Net recovery value';

b. Removing “FmHA or its successor agency under Public Law 103-354 Office” wherever it occurs and adding “Rural Devleopment office” in its place in the following places:

i. Paragraph (b) introductory text;

ii. Paragraphs (c)(1), (c)(3)(ii)(B), and (c)(3)(iv)(E)(1);

iii. Paragraphs (e)(1) introductory text, (e)(1)(iii), (e)(2) introductory text, and (e)(2)(ii)(A);

iv. Paragraphs (f)(1) and (2);

v. Paragraph (g)(1) introductory text; and

vi. Paragraph (h).

c. Removing “FmHA or its successor agency under Public Law 103-354” wherever it occurs and adding “Rural Development” in its place in the following places:

i. Paragraphs (b)(3), (b)(6), and (b)(8);

ii. Paragraphs (c)(3)(i)(A) and (c)(3)(ii)(C);

iii. Paragraphs (e)(1)(i), (e)(2)(i), and (e)(2)(ii)(B); and

iv. Paragraph (g)(1)(ii);

d. In paragraphs (b)(7) and (c)(3)(iv)(B), removing “FmHA or its successor agency under Public Law 103-354's” and adding “Rural Development's” in its place;

e. In paragraph (c)(1), removing “FmHA or its successor agency under Public Law 103-354 Instruction” and adding “RD Instruction” in its place and removing “to FmHA or its successor agency under Public Law 103-354” and adding “to Rural Development” in its place;

f. In paragraphs (c)(3)(ii)(B) and (c)(3)(iv)(B)(1), removing “FmHA or its successor agency under Public Law 103-354 Instruction” and adding “RD Instruction” in its place;

g. In paragraph (c)(3)(iv)(G)(2), removing “Form FmHA or its successor agency under Public Law 103-354” and adding “Form RD” in its place and removing “FmHA or its successor agency under Public Law 103-354 approval” and adding “Rural Development approval” in its place;

h. In paragraphs (d)(2), (f)(2), and (g)(3), removing “Form FmHA or its successor agency under Public Law 103-354” and adding “Form RD” in its place;

i. In paragraph (e)(1)(ii), removing “FmHA or its successor agency under Public Law 103-354's approval” and adding “Rural Development's approval” in its place and removing “by FmHA or its successor agency under Public Law 103-354” and adding “by Rural Development” in its place;

j. In paragraph (e)(2)(ii)(A):

i. Removing “pay FmHA or its successor agency under Public Law 103-354” and adding “pay Rural Development” in its place;

ii. Removing “inform FmHA or its successor agency under Public Law 103-354” and adding “inform Rural Development” in its place; and

iii. Removing “pay off FmHA or its successor agency under Public Law 103-354” and adding “pay off Rural Development” in its place;

k. In paragraph (f)(1):

i. Removing “FmHA or its successor agency under Public Law 103-354's” and adding “Rural Development's” in its place;

ii. Removing “FmHA or its successor agency under Public Law 103-354 is” and adding “Rural Development is” in its place; and

iii. Removing “Form FmHA or its successor agency under Public Law 103-354” and adding “Form RD” in its place;

l. In paragraph (g)(1) introductory text:

i. Removing “FmHA or its successor agency under Public Law 103-354 becomes” and adding “Rural Development becomes” in its place; and

ii. Removing “FmHA or its successor agency under Public Law 103-354 will” and adding “Rural Development will” in its place; and

m. In paragraph (h), removing “FmHA or its successor agency under Public Law 103-354 determines” and adding “Rural Development determines” in its place.

342. Revise § 1956.145 to read as follows:

§ 1956.145 Disposition of essential Rural Development records.

RD Instruction 2033-A (available in any Rural Development office) identifies an “essential Rural Development record” as the original of any document or record which provides evidence of indebtedness or obligation to RD and includes, but is not limited to: promissory notes, assumption agreements and valuable documents, such as bonds fully registered as to principal and interest.

(a) Essential Rural Development records evidencing debts settled by compromise, completed adjustment or cancelled with application will be returned to the debtor or to the debtors' legal representative. The appropriate legend, such as “Satisfied by Approved Compromise,” and the date of the final action will be stamped or typed on the original document. This same information plus the date the original document is returned to the debtor will be shown on a copy to be placed in the debtor's case folder.

(b) Essential Rural Development records evidencing debts cancelled without application will be placed in the debtor's case folder and disposed of pursuant to RD Instruction 2033-A (available in any Rural Development office). However, if the debtor requests the document(s), they must be stamped “Satisfied by Approved Cancellation” and returned.

(c) Essential Rural Development records evidencing charged off debts will be retained in the servicing office and will not be stamped or returned to the debtor. They will be destroyed six years after chargeoff pursuant to RD Instruction 2033-A (available in any Rural Development office).

§ 1956.147 [Amended]

343. Amend § 1956.147 by:

a. In paragraph (a)(1), removing “Form FmHA or its successor agency under Public Law 103-354” wherever it occurs and adding “Form RD” in its place;

b. In paragraph (a)(4), removing “FmHA or its successor agency under Public Law 103-354”;

c. In paragraph (b), removing “Form FmHA or its successor agency under Public Law 103-354” and adding “Form RD” in its place and removing “owed FmHA or its successor agency under Public Law 103-354” and adding “owed Rural Development” in its place; and

d. In paragraph (c), removing “FmHA or its successor agency under Public Law 103-354” and adding “Rural Development” in its place.

PART 1957—ASSET SALES

344. The authority citation for part 1957 continues to read as follows:

Authority: Pub. L. 99-509, sec 2001(b)(1).

Subpart A—Rural Housing Asset Sales

§ 1957.1 [Amended]

345. Amend § 1957.1 by:

a. Removing “Farmers Home Administration or its successor agency under Public Law 103-354” and adding “Rural Housing Service (RHS)” in its place;

b. Removing “FmHA or its successor agency under Public Law 103-354” wherever it occurs and adding “RHS” in its place; and

c. Removing “FmHA or its successor agency under Public Law 103-354's” and adding “RHS's” in its place.

§§ 1957.2 and 1957.6 [Amended]

346. Amend §§ 1957.2 and 1957.6 by removing “FmHA or its successor agency under Public Law 103-354” wherever it occurs and adding “RHS” in its place.

PART 1962—PERSONAL PROPERTY

347. The authority citation for part 1962 continues to read as follows:

Authority: 5 U.S.C. 301; 7 U.S.C. 1989; 42 U.S.C. 1480.

Subpart A—Servicing and Liquidation of Chattel Security

§ 1962.1 [Amended]

348. Amend § 1962.1 by removing “Farmers Home Administration or its successor agency under Public Law 103-354 (FmHA or its successor agency under Public Law 103-354)” and adding “Rural Development” in its place.

§ 1962.2 [Amended]

349. Amend § 1962.2 by removing “FmHA or its successor agency under Public Law 103-354's” and adding “Rural Development” in its place.

§ 1962.3 [Amended]

350. Amend § 1962.3 by removing “FmHA or its successor agency under Public Law 103-354” wherever it occurs and adding “Rural Development” in its place.

§ 1962.4 [Amended]

351. Amend § 1962.4 by:

a. In the definition of `Acquired chattel property,' removing “FmHA or its successor agency under Public Law 103-354” and adding “the government” in its place;

b. Removing “FmHA or its successor agency under Public Law 103-354” wherever it occurs and adding “Rural Development” in its place in the following definitions:

i. `Basic security';

ii. `Criminal action';

iii. 'Default'; and

iv. `Liquidation'.

c. Removing “FmHA or its successor agency under Public Law 103-354's” and adding “Rural Development's” in its place in the following definitions:

i. `Civil action' and

ii. `Repossed property'.

d. Removing “Farmers Home Administration or its successor agency under Public Law 103-354” wherever it occurs and adding “Rural Development” in its place in the definition of `Normal income security'.

§§ 1962.6, 1962.16, 1962.26, 1962.27, 1962.34, 1962.41, 1962.44, and 1962.46 [Amended]

352. Remove “Form FmHA” and “Form FmHA or its successor agency under Public Law 103-354” wherever they occur and adding “Form RD” in their place in the following places:

a. Section 1962.6;

b. Section 1962.16;

c. Section 1962.26;

d. Section 1962.27(c) introductory text and (d);

e. Section 1962.34(b)(3);

f. Section 1962.41;

g. Section 1962.44; and

h. Section 1962.46.

§ 1962.8 [Amended]

353. Amend § 1962.8 by removing “protect FmHA or its successor agency under Public Law 103-354” and adding “protect Rural Development” in its place and by removing “an FmHA or its successor agency under Public Law 103-354” and adding “a Rural Development” in its place.

§ 1962.17 [Amended]

354. Amend § 1962.17 by removing “Form FmHA” wherever it occurs and adding “Form RD” in its place and by removing “The FmHA has” in paragraph (d)(2)(ii) and adding “Rural Development has” in its place.

§ 1962.18 [Amended]

355. Amend § 1962.18 by:

a. In paragraph (a), removing “FmHA or its successor agency under Public Law 103-354 1962.1” and adding “the applicable Agency form” in its place; and

b. In paragraph (b)(1), by:

i. Removing “Form FmHA or its successor agency under Public Law 103-354 1962-1” and adding “the applicable Agency form” in its place;

ii. Removing “FmHA or its successor agency under Public Law 103-354 431-2” and adding “RD 431-2” in its place; and

iii. Removing “to FmHA or its successor agency under Public Law 103-354” and adding “to Rural Development” in its place.

§ 1962.19 [Amended]

356. Amend § 1962.19 by:

a. In the introductory text, removing “FmHA or its successor agency under Public Law 103-354” wherever it occurs and adding “Rural Development” in its place;

b. In paragraph (a)(1)(i), removing “FmHA or its successor agency under Public Law 103-354” and adding “RD” in its place;

c. In paragraph (a)(2), removing “FmHA or its successor agency under Public Law 103-354's” and adding “Rural Development's” in its place;

d. In paragraph (b)(1)(iii), removing “FmHA or its successor agency under Public Law 103-354 holds” and adding “Rural Development holds” in its place and removing “FmHA or its successor agency under Public Law 103-354's” and adding “Rural Development's” in its place; and

e. In paragraph (b)(3), removing “FmHA or its successor agency under Public Law 103-354” and adding “Rural Development” in its place.

§ 1962.27 [Amended]

357. Amend § 1962.27 by:

a. In paragraph (a)(4), removing “FmHA or its successor agency under Public Law 103-354 has” and adding “Rural Development has” in its place and removing “borrower non FmHA or its successor agency under Public Law 103-354” and adding “borrower nor Rural Development” in its place;

b. In paragraphs (c)(1) and (c)(2) “FmHA or its successor agency under Public Law 103-354” and adding “Rural Development” in its place;

c. In paragraph (d), removing “FmHA or its successor agency under Public Law 103-354” wherever it occurs and adding “RD” in its place; and

d. In paragraph (e), removing “to FmHA or its successor agency under Public Law 103-354” and adding “to Rural Development” in its place and removing “Form FmHA or its successor agency under Public Law 103-354” wherever it occurs and adding “Form RD” in its place.

§ 1962.29 [Amended]

358. Amend § 1962.29 by:

a. In paragraph (a)(1):

i. Removing “Form FmHA or its successor agency under Public Law 103-354” wherever it occurs and adding “Form RD” in its place;

ii. Removing “accepted by FmHA or its successor agency under Public Law 103-354” and adding “accepted by Rural Development” in its place; and

iii. Removing “paid by FmHA or its successor agency under Public Law 103-354, the County Supervisor may pay them as a petty purchase or as the bill of a creditor of FmHA or its successor agency under Public Law 103-354 in accordance with FmHA or its successor agency under Public Law 103-354 Instructions 2024-E, copies of which are available in any FmHA or its successor agency under Public Law 103-354 office.” and adding “paid by Rural Development, the field office may pay them in accordance to RD Instruction 2024-A, Exhibit D, Program Loan Cost Expenses.” in its place;

b. In paragraphs (a)(2) and (a)(3), removing “FmHA or its successor agency under Public Law 103-354” wherever it occurs and adding “Rural Development” in its place;

c. In paragraph (b) introductory text, removing “FmHA or its successor agency under Public Law 103-354 Instruction” and adding “RD Instruction” in its place and removing “FmHA or its successor agency under Public Law 103-354 Office” and adding “Rural Development office” in its place; and

d. In paragraph (b)(4), removing “FmHA or its successor agency under Public Law 103-354's” and adding “Rural Development's” in its place.

§ 1962.34 [Amended]

359. Amend § 1962.34 by:

a. In the introductory text, removing “FmHA or its successor agency under Public Law 103-354 office” and adding “Rural Development office” in its place and removing “Form FmHA or its successor agency under Public Law 103-354 410-1, “Application for FmHA or its successor agency under Public Law 103-354 Services,” and adding “Form RD 410-1, “Application for RD Services,” in its place;

b. In paragraph (a)(1), removing “FmHA or its successor agency under Public Law 103-354” and adding “Rural Development” in its place;

c. In paragraph (a)(2):

i. Removing “Form FmHA or its successor agency under Public Law 103-354” wherever it occurs and adding “Form RD” in its place;

ii. Removing “by FmHA or its successor agency under Public Law 103-354” and adding “by Rural Development” in its place;

iii. Removing “FmHA or its successor agency under Public Law 103-354 Instruction” and adding “RD Instruction” in its place; and

iv. Removing “FmHA or its successor agency under Public Law 103-354 office” and adding “RD office” in its place; and

§ 1962.40 [Amended]

360. Amend § 1962.40(e)(1)(ii) by removing “FmHA or its successor agency under Public Law 103-354's” and adding “Rural Development's” in its place.

§ 1962.41 [Amended]

361. Amend § 1962.41 by removing “Form FmHA or its successor agency under Public Law 103-354” and “Form FmHA” wherever they occur and adding “Form RD” in their place.

§ 1962.42 [Amended]

362. Amend § 1962.42 by:

a. In paragraphs (b)(2) and (b)(3), removing “FmHA or its successor agency under Public Law 103-354”;

b. In paragraph (c) introductory text, removing “by FmHA or its successor agency under Public Law 103-354” and adding “by Rural Development” in its place and removing “Form FmHA or its successor agency under Public Law 103-354” wherever it occurs and adding “Form RD” in its place;

c. In paragraph (c)(2), removing “FmHA or its successor agency under Public Law 103-354 employee” and adding “Rural Development employee” in its place;

d. In paragraph (c)(3), removing “Form FmHA or its successor agency under Public Law 103-354” wherever it occurs and adding “Form RD” in its place, and removing “FmHA or its successor agency under Public Law 103-354 will” wherever it occurs and adding “Rural Development” in its place;

e. In paragraphs (c)(4)(ii) and (c)(6)(i), removing “FmHA or its successor agency under Public Law 103-354” and adding “Rural Development” in its place;

f. Removing “FmHA or its successor agency under Public Law 103-354” wherever it occurs and adding “RD” in its place in the following places:

i. Paragraphs (c)(5)(i) introductory text, (c)(5)(i)(A), (c)(5)(i)(B), and (c)(5)(ii);

ii. Paragraph (c)(6)(ii) introductory text;

iii. Paragraph (c)(6)(ii)(A); and

iv. Paragraph (c)(7);

g. In paragraph (c)(8):

i. Removing “by FmHA or its successor agency under Public Law 103-354” and adding “by Rural Development” in its place;

ii. Removing “Form FmHA or its successor agency under Public Law 103-354” and adding “Form RD” in its place;

iii. Removing “and FmHA or its successor agency under Public Law 103-354” and adding “and Rural Development” in its place; and

h. In paragraph (d), removing “an FmHA or its successor agency under Public Law 103-354” and adding “a Rural Development” in its place.

§ 1962.45 [Amended]

363. Amend § 1962.45 by removing “Form FmHA or its successor agency under Public Law 103-354” and adding “Form RD” in its place and by removing “by FmHA or its successor agency under Public Law 103-354” and adding “by Rural Development” in its place.

§ 1962.49 [Amended]

364. Amend § 1962.49 by:

a. Removing “FmHA or its successor agency under Public Law 103-354” wherever it occurs and adding “Rural Development” in its place in the following places:

i. The introductory text;

ii. Paragraphs (b)(1)(v), (b)(2)(i), and (b)(2)(ii);

iii. Paragraphs (b)(3) introductory text and (b)(3)(i) through (b)(3)(iv);

iv. Paragraph (c) introductory text; and

v. Paragraphs (e)(2) introductory text, (e)(2)(i), and (e)(3) introductory text;

b. In paragraph (a):

i. Removing “FmHA or its successor agency under Public Law 103-354 Instruction” and adding “RD Instruction” in its place;

ii. Removing “FmHA or its successor agency under Public Law 103-354 office” and adding “Rural Development office” in its place; and

iii. Removing “FmHA or its successor agency under Public Law 103-354 staff” and adding “Rural Development staff” in its place;

c. In paragraph (b) introductory text:

i. Removing “FmHA or its successor agency under Public Law 103-354's” and adding “Rural Development's” in its place;

ii. Removing “Form FmHA or its successor agency under Public Law 103-354” and adding “Form RD” in its place; and

iii. Removing “interests of FmHA or its successor agency under Public Law 103-354” and adding “interests of Rural Development” in its place;

e. In paragraph (b)(1)(vi), removing “FmHA or its successor agency under Public Law 103-354's” and adding “Rural Development's” in its place;

f. In paragraph (c)(1), removing “FmHA or its successor agency under Public Law 103-354” wherever it occurs and adding “RD” in its place and removing “wh=n applicable” and adding “when applicable” in its place;

g. In paragraph (c)(3)(i):

i. Removing “FmHA or its successor agency under Public Law 103-354 455-1” and adding “RD 455-1” in its place;

ii. Removing “FmHA or its successor agency under Public Law 103-354 455-2” and adding “RD 455-2” in its place;

iii. Removing “Forms FmHA or its successor agency under Public Law 103-354” and adding “Form RD” in its place;

iv. Removing “FmHA or its successor agency under Public Law 103-354 employee” and adding “Rural Development employee” in its place; and

v. Removing “FmHA or its successor agency under Public Law 103-354 employees” and adding “Rural Development employees” in its place;

h. In paragraphs (c)(3)(ii) introductory text and (e)(2)(ii), removing “FmHA or its successor agency under Public Law 103-354” wherever it occurs and adding “RD” in its place;

i. In paragraph (c)(3)(ii)(A), removing “Form FmHA or its successor agency under Public Law 103-354” wherever it occurs and adding “Form RD” in its place and removing “by FmHA or its successor agency under Public Law 103-354” and adding “by Rural Development” in its place;

j. In paragraph (c)(3)(ii)(B), removing “FmHA or its successor agency under Public Law 103-354's” and adding “Rural Development's” in its place;

k. In paragraph (d), removing “Form FmHA or its successor agency under Public Law 103-354” and adding “Form RD” in its place and removing “FmHA or its successor agency under Public Law 103-354 field office” wherever it occurs and adding “Rural Development field office” in its place;

l. In paragraph (e) introductory text, removing “FmHA or its successor agency under Public Law 103-354 1951-9, Annual “Statement of Loan Account,” and adding “RD 1951-9, “Annual Statement of Loan Account,” in its place; and

m. In paragraph (e)(1), removing “Form FmHA or its successor agency under Public Law 103-354” and adding “Form RD” in its place and removing “FmHA or its successor agency under Public Law 103-354 field office” wherever it occurs and adding “Rural Development field office” in its place.

PART 1980—GENERAL

365. The authority citation for part 1980 continues to read as follows:

Authority: 5 U.S.C. 301; 7 U.S.C. 1989.

Subpart E also issued under 7 U.S.C. 1932(a).

Subpart E—Business and Industrial Loan Program

§ 1980.401 [Amended]

366. Amend § 1980.401(d) by removing “FmHA or its successor agency under Public Law 103-354” and adding “Rural Development” in its place.

367. Revise § 1980.405 to read as follows:

§ 1980.405 Rural areas.

The business financed with a B&I loan must be located in a rural area. Loans to borrowers with facilities located in both rural and non-rural areas will be limited to the amount necessary to finance the facility located in the eligible rural area. Cooperatives that are headquartered in a non-rural area may be eligible for a B&I loan if the loan is used for a project or venture that is located in a rural area. Rural areas are any areas other than a city or town that has a population of greater than 50,000 inhabitants; and the urbanized area contiguous and adjacent to such a city or town, as defined by the U.S. Bureau of the Census. For the purpose of this section:

(a) The population figure is obtained from the most recent decennial Census of the United States (decennial Census). If the applicable population figure cannot be obtained from the most recent decennial Census, RD will determine the applicable population figure based on available population data; and

(b) An urbanized area means a densely populated territory as defined in the most recent decennial Census or other Agency-accepted data source if not defined in the most recent decennial Census.

§ 1980.411 [Amended]

368. Amend § 1980.411 by:

a. In paragraphs (a)(7) and (a)(11) introductory text, removing “FmHA or its successor agency under Public Law 103-354” wherever it occurs and adding “Rural Development” in its place;

b. In paragraph (a)(12):

i. Removing “Form FmHA or its successor agency under Public Law 103-354” wherever it occurs and adding “Form RD” in its place;

ii. Removing “to FmHA or its successor agency under Public Law 103-354” wherever it occurs and adding “to Rural Development” in its place; and

iii. Removing “FmHA or its successor agency under Public Law 103-354 State” and adding “Rural Development State” in its place; and

c. In paragraph (a)(13), removing “FmHA or its successor agency under Public Law 103-354” and adding “Rural Development” in its place.

§ 1980.412 [Amended]

369. Amend § 1980.412 by removing in the Administrative text at the end of the section “FmHA or its successor agency under Public Law 103-354”.

§ 1980.413 [Amended]

370. Amend § 1980.413(a) introductory text by removing “FmHA or its successor agency under Public Law 103-354” and adding “the Agency” in its place.

§ 1980.414 [Amended]

371. Amend § 1980.414 by:

a. In paragraph (a), removing “Form FmHA or its successor agency under Public Law 103-354” and adding “Form RD” in its place and removing “to FmHA or its successor agency under Public Law 103-354” wherever it occurs and adding “to Rural Development” in its place; and

b. In paragraph (b), removing “to FmHA or its successor agency under Public Law 103-354” and adding “to Rural Development” in its place.

§ 1980.419 [Amended]

372. Amend § 1980.419 by removing from paragraph C. of the Admnistrative text “FmHA or its successor agency under Public Law 103-354 National Office” and adding “Rural Development National Office” in its place and by removing “Form FmHA or its successor agency under Public Law 103-354” and adding “Form RD” in its place.

§ 1980.420 [Amended]

373. Amend § 1980.420 by:

a. In the introductory text, removing “FmHA or its successor agency under Public Law 103-354” and adding “Rural Development” in its place; and

b. In paragraph (d) introductory text:

i. Removing “FmHA or its successor agency under Public Law 103-354 informs” and adding “Rural Development informs” in its place;

ii. Removing “Form FmHA or its successor agency under Public Law 103-354” and adding “Form RD” in its place; and

iii. Removing “FmHA or its successor agency under Public Law 103-354 determines” and adding “Rural Development determines” in its place.

§ 1980.423 [Amended]

374. Amend § 1980.423 by:

a. In paragraphs (a) introductory text and (a)(2), removing “FmHA or its successor agency under Public Law 103-354” wherever it occurs and adding “Rural Development review” in its place;

b. In paragraph (a)(3), removing “Form FmHA or its successor agency under Public Law 103-354 conditional Commitment For Guarantee,” and adding “Form RD 449-14, “Conditional Commitment for Guarantee,” in its place and removing “Form FmHA or its successor agency under Public Law 103-354 449-14” and adding “Form RD 449-14” in its place;

c. In paragraphs (a)(5), (a)(6) introductory text, and (b)(1), removing “FmHA or its successor agency under Public Law 103-354” wherever it occurs and adding “Rural Development review” in its place;

d. In paragraph (b)(2), removing “FmHA or its successor agency under Public Law 103-354 Instruction” and adding “RD Instruction” in its place and removing “FmHA or its successor agency under Public Law 103-354 Office” and adding “Rural Development office” in its place; and

e. In the Administrative text at the end of the section, removing “Form FmHA or its successor agency under Public Law 103-354” and adding “Form RD” in its place and removing “FmHA or its successor agency under Public Law 103-354 loan” and adding “Rural Development loan” in its place.

§ 1980.424 [Amended]

375. Amend § 1980.424 by:

a. In paragraphs (a) and (d), removing “FmHA or its successor agency under Public Law 103-354” and adding “Rural Development” in its place;

b. In paragraphs (b) and (c), removing “an FmHA or its successor agency under Public Law 103-354” and adding “a Rural Development” in its place; and

c. In the Administrative text at the end of the section, in its introductory text and paragraphs A.3 and 5, B.2 and 4, and C, removing “FmHA or its successor agency under Public Law 103-354” wherever it occurs and adding “RD” in its place.

§§ 1980.432 and 1980.433 [Amended]

376. Amend §§ 1980.432 and 1980.433 by removing in the Administrative text at the end of the sections “FmHA or its successor agency under Public Law 103-354” and adding “RD” in its place.

§ 1980.434 [Amended]

377. Amend § 1980.434 by removing in the Administrative text at the end of the section “FmHA or its successor agency under Public Law 103-354 Official” and adding “Rural Development official” in its place.

§ 1980.442 [Amended]

378. Amend § 1980.442 by removing “FmHA or its successor agency under Public Law 103-354” wherever it occurs and adding “and Rural Development” in its place.

§ 1980.443 [Amended]

379. Amend § 1980.443 by:

a. Removing “FmHA or its successor agency under Public Law 103-354” wherever it occurs and adding “Rural Development” in its place in the following places:

i. In paragraphs (a)(1), (a)(4)(i) introductory text, (a)(4)(i)(A)(4), (a)(4)(i)(B), (a)(4)(i)(C), and (a)(4)(ii); and

ii. In paragraphs (b)(1), (b)(2) introductory text, (b)(2)(i), (b)(5), (b)(6), and (b)(7)(iii); and

b. In the Administrative text at the end of the section:

i. Removing “FmHA or its successor agency under Public Law 103-354's” from paragraph A introductory text and adding “Rural Development's” in its place;

ii. Removing “FmHA or its successor agency under Public Law 103-354 at its” from paragraph A.3 and adding “Rural Development at its” in its place; and

iii. Removing “FmHA or its successor agency under Public Law 103-354 official” from paragraph A.3 and adding “Rural Development official” in its place.

§ 1980.444 [Amended]

380. Amend § 1980.444(b) and (e) by removing “FmHA or its successor agency under Public Law 103-354” and adding “Rural Development” in its place.

§ 1980.451 [Amended]

381. Amend § 1980.451 by:

a. In paragraph (a), removing “desiring FmHA or its successor agency under Public Law 103-354 assistance” and adding “desiring assistance” in its place; and removing “FmHA or its successor agency under Public Law 103-354 State” and adding “Rural Development State” in its place;

b. In paragraph (b):

i. Removing “FmHA or its successor agency under Public Law 103-354 Instruction” and adding “RD Instruction” in its place;

ii. Removing “FmHA or its successor agency under Public Law 103-354 office” and adding “Rural Development office” in its place; and

iii. Removing “between FmHA or its successor agency under Public Law 103-354” and adding “between Rural Development” in its place;

c. In paragraph (c):

i. Removing “by FmHA or its successor agency under Public Law 103-354” and adding “by Rural Development” in its place;

ii. Removing “FmHA or its successor agency under Public Law 103-354 Instruction” and adding “RD Instruction” in its place;

iii. Removing “FmHA or its successor agency under Public Law 103-354 office” and adding “Rural Development office” in its place; and

iv. Removing “SBA and FmHA or its successor agency under Public Law 103-354” and adding “the Small Business Administration and the U.S. Department of Agriculture Rural Development (Business and Industrial Loans)” in its place;

d. In paragraphs (d) introductory text, (d)(1), (d)(3) introductory text, (d)(3)(iii) introductory text, and (d)(3)(iv)(A), removing “FmHA or its successor agency under Public Law 103-354” wherever it occurs and adding “Rural Development” in its place;

e. In paragraph (d)(3)(v):

i. Removing “FmHA or its successor agency under Public Law 103-354-assisted” and adding “Rural Development-assisted” in its place;

ii. Removing “FmHA or its successor agency under Public Law 103-354 loans” and adding “Rural Development loans” in its place;

iii. Removing “FmHA or its successor agency under Public Law 103-354 funds” and adding “Rural Development funds” in its place; and

iv. Removing “FmHA or its successor agency under Public Law 103-354 will consider” and adding “Rural Development will consider” in its place;

f. Revising paragraph (d)(3)(vi);

g. In paragraph (e) introductory text, removing “FmHA or its successor agency under Public Law 103-354” and adding “Rural Development” in its place;

h. In paragraph (f)(2), removing “Form FmHA or its successor agency under Public Law 103-354” and adding “Form RD” in its place;

i. In paragraph (f)(3):

i. Removing “FmHA or its successor agency under Public Law 103-354 449-4” wherever it occurs and adding “RD 449-4” in its place;

ii. Removing “by FmHA or its successor agency under Public Law 103-354” and adding “by Rural Development” in its place; and

iii. Removing “result in FmHA or its successor agency under Public Law 103-354's” and adding “result in Rural Development” in its place;

j. In paragraph (g), removing “FmHA or its successor agency under Public Law 103-354” wherever it occurs and adding “Rural Development” in its place, and removing “FmHA or its successor agency under Public Law 103-354's” and adding “Rural Development's” in its place;

k. In paragraph (h), removing “FmHA or its successor agency under Public Law 103-354 will submit Form FmHA or its successor agency under Public Law 103-354 449-22” and adding “Rural Development will submit Form RD 449-22” in its place;

l. In paragraphs (i)(1), (i)(2), (i)(3), and (i)(10), removing “Form FmHA or its successor agency under Public Law 103-354” wherever it occurs and adding “Form RD” in its place;

m. In paragraphs (i)(7), (i)(9), (i)(13)(viii), (i)(13)(x), and (i)(15), removing “FmHA or its successor agency under Public Law 103-354” and adding “Rural Development” in its place;

n. In paragraph (i)(13) introductory text, removing “FmHA” wherever it occurs and adding “RD” in its place;

o. In paragraph (i)(18)(i), removing “FmHA or its successor agency under Public Law 103-354 solicits” and adding “Rural Development solicits” in its place and removing “Form FmHA or its successor agency under Public Law 103-354” and adding “Form RD” in its place;

p. In paragraph (i)(18)(ii):

i. Removing “If FmHA or its successor agency under Public Law 103-354” and adding “If Rural Development” in its place;

ii. Removing “FmHA or its successor agency under Public Law 103-354 will” and adding “Rural Development will” in its place; and

iii. Removing “Form FmHA or its successor agency under Public Law 103-354” and adding “Form RD” in its place;

q. In paragraph (i)(19), removing “FmHA or its successor agency under Public Law 103-354” and adding “Rural Development” in its place;

r. In paragraphs (j) and (k), removing “FmHA or its successor agency under Public Law 103-354” and adding “Rural Development” in its place; and

s. In the Administrative text at the end of the section:

i. Removing “Form FmHA or its successor agency under Public Law 103-354” wherever it occurs in paragraphs A.3 through 5, A.6(a) through (c), and B.3(b) and (c), and adding “Form RD” in its place;

ii. Removing “FmHA or its successor agency under Public Law 103-354 with” in paragraphs A.3 and 4 and adding “Rural Development with” in its place;

iii. Removing “whom FmHA or its successor agency under Public Law 103-354” in paragraph A.4 and adding “whom Rural Development” in its place;

iv. Removing “FmHA or its successor agency under Public Law 103-354 Instruction” wherever it occurs in paragraphs A.5 and B.5 and adding “RD Instruction” in its place;

v. Removing “FmHA or its successor agency under Public Law 103-354 449-4” in paragraph A.6(c) and the note to paragraph A.6 and adding “RD 449-4” in its place;

vi. Removing “Forms FmHA or its successor agency under Public Law 103-354” in the note to paragraph A.6 and adding “Forms RD” in its place;

vii. Removing “Form FmHA or its successor agency under Public Law 103-354 449-29, “Project Summary—Business Industrial Loan Division,” in paragraph B.3.(b) and adding “A Project Summary” in its place;

viii. Removing “Copy of FmHA or its successor agency under Public Law 103-354” in paragraph B.3.(d) and adding “Copy of Rural Development” in its place;

ix. Removing “FmHA or its successor agency under Public Law 103-354 office” in paragraph B.5 and adding “Rural Development office” in its place;

x. Removing “FmHA or its successor agency under Public Law 103-354 employees” in paragraph B.5 and adding “Rural Development employees” in its place;

xi. Removing “FmHA or its successor agency under Public Law 103-354's” in paragraph B.5 and adding “Rural Development's” in its place;

xii. Removing “FmHA or its successor agency under Public Law 103-354 position” in paragraph B.5 and adding “Rural Development position” in its place;

xiii. Removing “FmHA or its successor agency under Public Law 103-354 urges” in paragraph B.6 and adding “Rural Development urges” in its place;

xiv. Removing “FmHA or its successor agency under Public Law 103-354 audit” in paragraph B.6 and adding “Rural Development audit” in its place;

xv. Removing “FmHA or its successor agency under Public Law 103-354” wherever it occurs in the Description of Record or Form Number and Title table at the end of the Administrative text section and adding “RD” in its place; and

xvi. Removing “449-29” in the Description of Record or Form Number and Title table at the end of the Administrative text section and adding “449-29 (obsolete)” in its place.

The revision reads as follows:

§ 1980.451 Filing and processing applications.

* * * * *

(d) * * *

(3) * * *

(vi) Indexation. When current annual data are not available to determine a State's nonmetropolitan household income for purposes of the calculations described in paragraph (d)(3)(iii) of this section, indexation of census data is necessary. The State Director will use the figure from the 5-year data from the American Community Survey (ACS) or, if needed, other Census Bureau data, increased by a factor representing the increase since the year of that census in the Consumer Price Index (“CPI-U”). That factor shall be furnished annually by the National Office, Rural Development.

* * * * *

§ 1980.452 [Amended]

382. Amend § 1980.452 by:

a. Removing “FmHA or its successor agency under Public Law 103-354 evaluation” from the section heading and adding “Rural Development evaluation” in its place;

b. Removing “FmHA or its successor agency under Public Law 103-354 will” wherever it occurs in the introductory text and adding “Rural Development will” in its place;

c. Removing “If FmHA or its successor agency under Public Law 103-354” wherever it occurs in the introductory text and adding “If Rural Development” in its place;

d. Removing “Form FmHA or its successor agency under Public Law 103-354” wherever it occurs in the introductory text and adding “Form RD” in its place;

e. Removing “FmHA or its successor agency under Public Law 103-354 State” in the introductory text, and adding “Rural Development State” in its place; and

f. In the Administrative text at the end of the section:

i. Removing “an FmHA or its successor agency under Public Law 103-354 State” in paragraph D. introductory text, and adding “a Rural Development State” in its place;

ii. Removing “Form FmHA or its successor agency under Public Law 103-354” wherever it occurs in paragraphs D. introductory text, D.6 introductory text, D.6.a, b, and d, and d.7, and adding “Form RD” in its place;

iii. Removing “FmHA or its successor agency under Public Law 103-354 employees” in paragraph D. introductory text and adding “Rural Development employees” in its place;

iv. Removing “non-FmHA or its successor agency under Public Law 103-354” in paragraph D.2 and adding “non-Rural Development” in its place;

v. Removing “FmHA or its successor agency under Public Law 103-354 Instruction” in paragraphs D.2 and D.6.d and e, and adding “RD Instruction” in its place;

vi. Removing “FmHA or its successor agency under Public Law 103-354 Office” in paragraphs D.2 and D.6.d and e, and “FmHA or its successor agency under Public Law 103-354 office” and adding “Rural Development office” in their place;

vii. Removing “the FmHA or its successor agency under Public Law 103-354 State” in paragraphs D. introductory text and D.3 and adding “the Rural Development State” in its place;

viii. Removing “FmHA or its successor agency under Public Law 103-354 programs” wherever it occurs in paragraph D.3 and adding “Rural Development programs” in its place;

ix. Removing “FmHA or its successor agency under Public Law 103-354 as a” in paragraph D.3 and adding “Rural Development as a” in its place;

x. Removing “FmHA or its successor agency under Public Law 103-354 case” in paragraph D.6 introductory text and adding “Rural Development case” in its place; and

xi. Removing “Legislative Affairs and Public Information staff in the National Office” in paragraph D.6.d and adding “Legislative and Public Affairs Staff in the Rural Development National Office” in its place.

§ 1980.453 [Amended]

383. Amend § 1980.453 by:

a. In paragraph (a):

i. Removing “Form FmHA or its successor agency under Public Law 103-354” and adding “Form RD” in its place;

ii. Removing “FmHA or its successor agency under Public Law 103-354 State” and adding “Rural Development State” in its place; and

iii. Removing “to FmHA or its successor agency under Public Law 103-354” and adding “to Rural Development” in its place;

b. In paragraph (b), removing “FmHA or its successor agency under Public Law 103-354” and adding “Rural Development” in its place; and

c. In the Administrative text at the end of the section:

i. Removing “Form FmHA or its successor agency under Public Law 103-354 449-29” and adding “the Project Summary” in its place; and

ii. Removing “Form FmHA or its successor agency under Public Law 103-354” wherever it occurs and adding “Form RD” in its place;

iii. Removing “2. A copy of FmHA or its successor agency under Public Law 103-354 State Loan Review Board Minutes” and adding “3. A copy of Rural Development State Loan Review Board Minutes” in its place.

§ 1980.454 [Amended]

384. Amend § 1980.454 by:

a. In paragraph (a):

i. Removing “FmHA or its successor agency under Public Law 103-354 State” and adding “Rural Development State” in its place;

ii. Removing “Form FmHA or its successor agency under Public Law 103-354” wherever it occurs and adding “Form RD” in its place;

iii. Removing “provide FmHA or its successor agency under Public Law 103-354” and adding “provide Rural Development” in its place; and

iv. Removing “approved by FmHA or its successor agency under Public Law 103-354” and adding “approved by Rural Development” in its place;

b. In paragraph (b):

i. Removing “FmHA or its successor agency under Public Law 103-354 will” and adding “Rural Development will” in its place;

ii. Removing “Form FmHA or its successor agency under Public Law 103-354” wherever it occurs and adding “Form RD” in its place; and

iii. Removing “approved by the FmHA or its successor agency under Public Law 103-354 National Office” and adding “approved by the National Office” in its place;

c. In paragraph (c), removing “Form FmHA or its successor agency under Public Law 103-354” wherever it occurs and adding “Form RD” in its place and removing “intent of FmHA or its successor agency under Public Law 103-354” and adding “intent of Rural Development” in its place;

d. In paragraphs (e) and (f), removing “FmHA or its successor agency under Public Law 103-354” wherever it occurs and adding “Rural Development” in its place; and

e. In the Administrative text at the end of the section:

i. Removing “Form FmHA or its successor agency under Public Law 103-354” wherever it occurs and adding “Form RD” in its place;

ii. Removing “Inspection Reports” in paragraph A.2 and adding “Inspection Report” in its place;

iii. Removing “FmHA or its successor agency under Public Law 103-354 personnel” in paragraph C. and adding “Rural Development personnel” in its place; and

iv. Removing “by FmHA or its successor agency under Public Law 103-354” in paragraph F. and adding “by Rural Development” in its place.

§ 1980.469 [Amended]

385. Amend § 1980.469 by:

a. In the introductory text, removing “FmHA or its successor agency under Public Law 103-354 of” and adding “Rural Development (RD) of” in its place and removing “Form FmHA or its successor agency under Public Law 103-354” and adding “Form RD” in its place;

b. In paragraphs (a)(1), (c) introductory text, and (c)(1), removing “FmHA or its successor agency under Public Law 103-354” and adding “Rural Development” in its place; and

c. In the Administrative text at the end of the section:

i. Removing “Refer to appendix G of this subpart (available in any FmHA or its successor agency under Public Law 103-354 Office)” in the introductory text and adding “Refer to RD Instruction 1980-E, Appendix G, Liquidation and Property Management Guide (available in any RD office)” in its place;

ii. Removing “which FmHA or its successor agency under Public Law 103-354” in paragraph B.1 and adding “which Rural Development” in its place;

iii. Removing “approved by FmHA or its successor agency under Public Law 103-354” in paragraph B.1 and adding “approved by Rural Development” in its place;

iv. Removing “the time FmHA or its successor agency under Public Law 103-354” wherever it occurs in paragraphs B.2 and C.4 and adding “the time Rural Development” in its place;

v. Removing “occurs FmHA or its successor agency under Public Law 103-354” in paragraph B.2 and adding “occurs Rural Development” in its place;

vi. Removing “FmHA or its successor agency under Public Law 103-354 Instruction” in paragraph B.3 and adding “RD Instruction” in its place;

vii. Removing “FmHA or its successor agency under Public Law 103-354 office” in paragraph B.3 and adding “Rural Development office” in its place;

viii. Removing “FmHA or its successor agency under Public Law 103-354 staff” in paragraph B.3 and adding “Rural Development staff” in its place;

ix. Removing “If FmHA or its successor agency under Public Law 103-354” in paragraphs B.3 and 5 and adding “If Rural Development” in its place;

x. Removing “claim to FmHA or its successor agency under Public Law 103-354” wherever it occurs in paragraphs B.3 and 4 and adding “claim to Rural Development” in its place;

xi. Removing “guaranteed by FmHA or its successor agency under Public Law 103-354” in paragraph B.3 and adding “guaranteed by Rural Development” in its place;

xii. Removing “FmHA or its successor agency under Public Law 103-354 was deceived” in paragraph B.6 and adding “Rural Development was deceived” in its place;

xiii. Removing “FmHA or its successor agency under Public Law 103-354 could then” in paragraph B.7 and adding “Rural Development could then” in its place;

xiv. Removing “FmHA or its successor agency under Public Law 103-354 personnel” in paragraph C.2 and adding “Rural Development personnel” in its place;

xv. Removing “Form FmHA or its successor agency under Public Law 103-354” in paragraphs C.3.(d) and C.4 and adding “Form RD” in its place;

xvi. Removing “noted by FmHA or its successor agency under Public Law 103-354” in paragraph C.4 and adding “noted by Rural Development” in its place;

xvii. Removing “statements for FmHA or its successor agency under Public Law 103-354” in paragraph C.5 and adding “statements for Rural Development” in its place;

xviii. Removing “FmHA or its successor agency under Public Law 103-354 in turn” in paragraph C.5 and adding “Rural Development in turn” in its place;

xix. Removing “FmHA or its successor agency under Public Law 103-354's” in paragraph C.5 and adding “Rural Development's” in its place; and

xx. Removing “borrower and FmHA or its successor agency under Public Law 103-354” in paragraph C.6 and adding “borrower, and Rural Development” in its place.

§ 1980.470 [Amended]

386. Amend the Administrative text at the end of § 1980.470 by:

a. Removing “Refer to appendix G of this subpart (available in any FmHA or its successor agency under Public Law 103-354 Office)” from the introductory text and adding “Refer to RD Instruction 1980-E, Appendix G, Liquidation and Property Management Guide (available in any Rural Development office)” in its place;

b. Removing “by the FmHA or its successor agency under Public Law 103-354” in paragraph A. and adding “by the Rural Development” in its place;

c. Removing “by FmHA or its successor agency under Public Law 103-354” in paragraph A. and adding “by Rural Development” in its place;

d. Removing “Form FmHA or its successor agency under Public Law 103-354” in paragraphs B. and D. and adding “Form RD” in its place;

e. Removing “risks of the FmHA or its successor agency under Public Law 103-354” in paragraph B. and adding “risks of Rural Development” in its place;

f. Removing “the lender and FmHA or its successor agency under Public Law 103-354” in paragraph B. and adding “the lender and Rural Development” in its place;

g. Removing “when FmHA or its successor agency under Public Law 103-354” in paragraph D. and adding “when Rural Development” in its place;

h. Removing “will FmHA or its successor agency under Public Law 103-354 endorse” in paragraph D. and adding “will Rural Development endorse” in its place; and

i. Removing “assist FmHA or its successor agency under Public Law 103-354” in paragraph F. and adding “assist Rural Development” in its place.

§ 1980.471 [Amended]

387. Amend § 1980.471 by:

a. In the introductory text, removing “Refer to appendix G of this subpart (available in any FmHA or its successor agency under Public Law 103-354 Office)” and adding “Refer to RD Instruction 1980-E, Appendix G, Liquidation and Property Management Guide (available in any Rural Development office)” in its place;

b. In paragraphs (a)(1) and (a)(2), removing “FmHA or its successor agency under Public Law 103-354” and adding “Rural Development” in its place; and

c. In the Administrative text at the end of the section:

i. Removing “FmHA or its successor agency under Public Law 103-354 personnel” in paragraph A. and adding “Rural Development personnel” in its place;

ii. Removing “FmHA or its successor agency under Public Law 103-354 will” in paragraph B. and adding “Rural Development will” in its place;

iii. Removing “between FmHA or its successor agency under Public Law 103-354” in paragraph B. and adding “between Rural Development” in its place;

iv. Removing “FmHA or its successor agency under Public Law 103-354 consider” in paragraph B. and adding “Rural Development consider” in its place;

v. Removing “When FmHA or its successor agency under Public Law 103-354 liquidates,” in paragraph B. and adding “When Rural Development liquidates,” in its place;

vi. Removing “Form FmHA or its successor agency under Public Law 103-354” wherever it occurs in paragraphs B. and E. and adding “Form RD” in its place;

vii. Removing “FmHA or its successor agency under Public Law 103-354 is” in paragraph D. and adding “Rural Development is” in its place;

viii. Removing “499-30” in paragraph E. and adding “449-30” in its place;

ix. Removing “by FmHA or its successor agency under Public Law 103-354 to” in paragraph F. and adding “by Rural Development to” in its place; and

x. Removing “FmHA or its successor agency under Public Law 103-354 guaranteed loan” in paragraph F. and adding “Rural Development guaranteed loan” in its place.

§ 1980.472 [Amended]

388. Amend § 1980.472 by removing “Refer to appendix G of this subpart (available in any FmHA or its successor agency under Public Law 103-354 Office)” and adding “Refer to RD Instruction 1980-E, Appendix G, Liquidation and Property Management Guide (available in any Rural Development office)” in its place.

§ 1980.473 [Amended]

389. Amend § 1980.473 by removing “FmHA or its successor agency under Public Law 103-354” and adding “RD” in its place.

§ 1980.475 [Amended]

390. Amend § 1980.475 by:

a. In paragraph (a)(6), removing “FmHA or its successor agency under Public Law 103-354” and adding “Rural Development” in its place;

b. In paragraph (b), removing “FmHA or its successor agency under Public Law 103-354's opinion, FmHA or its successor agency under Public Law 103-354” and adding “Rural Development's opinion, Rural Development” in its place;

c. In paragraph (d), removing “FmHA or its successor agency under Public Law 103-354” and adding “RD” in its place; and

d. In the Administrative text at the end of the section:

i. Removing “Refer to appendix G of this subpart (available in any FmHA or its successor agency under Public Law 103-354 Office)” in the introductory text and adding “Refer to RD Instruction 1980-E, Appendix G, Liquidation and Property Management Guide (available in any Rural Development office)” in its place;

ii. Removing “that FmHA or its successor agency under Public Law 103-354” in paragraph A. and adding “that Rural Development” in its place;

iii. Removing “advising FmHA or its successor agency under Public Law 103-354” in paragraph F. and adding “advising Rural Development” in its place;

iv. Removing “FmHA or its successor agency under Public Law 103-354 servicing” wherever it occurs in paragraphs F. and H. and adding “Rural Development servicing” in its place; and

v. Removing “actions FmHA or its successor agency under Public Law 103-354” in paragraph H. and adding “actions Rural Development” in its place.

§ 1980.476 [Amended]

391. Amend § 1980.476 by:

a. Removing “FmHA or its successor agency under Public Law 103-354” and adding “Rural Development” in its place wherever it occurs in the following places:

i. Paragraph (a);

i. Paragraphs (e) introductory text, (e)(1), (e)(2), (g)(2)(i), and (g)(2)(iii);

ii. Paragraph (h);

iii. Paragraph (i);

iv. Paragraph (j);

v. Paragraph (l);

vi. Paragraph (m) introductory text; and

vii. Paragraph (n);

b. In paragraph (c), removing “FmHA or its successor agency under Public Law 103-354 Form FmHA or its successor agency under Public Law 103-354” and adding “Form RD” in its place;

c. In paragraph (p), removing “Form FmHA or its successor agency under Public Law 103-354” wherever it occurs and adding “Form RD” in its place and removing “Form 449-30” and adding “Form RD 449-30” in its place; and

d. In the Administrative text at the end of the section:

i. Removing “Refer to appendix G of this subpart (available in any FmHA or its successor agency under Public Law 103-354 Office)” and adding “Refer to RD Instruction 1980-E, Appendix G, Liquidation and Property Management Guide (available in any Rural Development office)” in its place;

ii. Removing “FmHA or its successor agency under Public Law 103-354 file” in paragraph B. and adding “Rural Development file” in its place; and

iii. Removing “Form FmHA or its successor agency under Public Law 103-354” in paragraph B. wherever it occurs and adding “Form RD” in its place.

§ 1980.481 [Amended]

392. Amend § 1980.481 introductory text by removing “FmHA or its successor agency under Public Law 103-354” wherever it occurs and adding “Rural Development” in its place.

§ 1980.488 [Amended]

393. Amend § 1980.488(a) and (b), and the administrative text at the end of the section by removing “FmHA or its successor agency under Public Law 103-354” wherever it occurs and adding “Rural Development” in its place.

§ 1980.490 [Amended]

394. Amend § 1980.490 by:

a. In paragraphs (d)(1) through (d)(4), removing “FmHA or its successor agency under Public Law 103-354” wherever it occurs and adding “Rural Development” in its place;

b. In paragraph (f)(1), removing “FmHA or its successor agency under Public Law 103-354” wherever it occurs and adding “RD” in its place;

c. In paragraph (f)(2):

i. Removing “FmHA or its successor agency under Public Law 103-354 will” and adding “Rural Development will” in its place;

ii. Removing “Form FmHA or its successor agency under Public Law 103-354 449-29” and adding “the Project Summary” in its place; and

iii. Removing “Form FmHA or its successor agency under Public Law 103-354” and adding “Form RD” in its place;

d. In paragraph (f)(3), removing “FmHA or its successor agency under Public Law 103-354 will” wherever it occurs and adding “Rural Development will” in its place and removing “Form FmHA or its successor agency under Public Law 103-354 1980-48” and adding “Form 1980-48” in its place;

e. In paragraph (f)(4):

i. Removing “from FmHA or its successor agency under Public Law 103-354” and adding “from Rural Development” in its place;

ii. Removing “Form FmHA or its successor agency under Public Law 103-354 1980-23, “Request for Business and Industry Interest Buydown Payment,” and adding “Form RD 1980-24, “Request Interest Assistance/Interest Rate Buydown Subsidy Payment to Guaranteed Loan Lender,” in its place;

iii. Removing “FmHA or its successor agency under Public Law 103-354 servicing office” wherever it occurs and adding “Rural Development servicing office” in its place;

iv. Removing “FmHA or its successor agency under Public Law 103-354 regulations” and adding “Rural Development regulations” in its place; and

v. Removing “Form FmHA or its successor agency under Public Law 103-354 1980-48” and adding “Form 1980-48” in its place;

f. In paragraph (g), removing “When FmHA or its successor agency under Public Law 103-354” and adding “When Rural Development” in its place and removing “Form FmHA or its successor agency under Public Law 103-354 1980-23” and adding “Form RD 1980-24” in its place;

g. In paragraphs (n) introductory text, (n)(4), and (n)(5), removing “FmHA or its successor agency under Public Law 103-354” and adding “RD” in its place;

h. In paragraphs (p)(4) introductory text and (p)(5)(iii), removing “FmHA or its successor agency under Public Law 103-354” and adding “Rural Development” in its place; and

i. In paragraph (p)(4)(ii), removing “Form FmHA or its successor agency under Public Law 103-354 1980-25, “Farmer Programs Applications,” or FmHA or its successor agency under Public Law 103-354 449-1” and adding “Form RD 449-1” in its place.

395. Revise § 1980.495 to read as follows:

§ 1980.495 RD forms and guides.

The following RD forms and guides, as applicable, are used in connection with processing B&I, D&D, and DARBE loan guarantees; they are incorporated in this subpart and made a part hereof:

(a) Form RD 449-1. “Application for Loan and Guarantee” is referred to as “Appendix A,” or successor form,

(b) The “Certificate of Incumbency and Signature” or successor form,

(c) “Guidelines for Loan Guarantees for Alcohol Fuel Production Facilities” is referred to as “Appendix C.”

(d) “Alcohol Production Facilities Planning, Performing, Development and Project Control” is referred to as “Appendix D.”

(e) “Environmental Assessment Guidelines” is referred to as “Appendix E.”

(f) Form RD 449-14, “Conditional Commitment for Guarantee,” or successor form.

(g) “Liquidation and Property Management Guide” as found in RD Instruction 1980-E Appendix G.

(h) “Suggested Format for the Opinion of the Lender's Legal Counsel” is referred to as “Appendix H.”

(i) “Instructions for Loan Guarantees for Drought and Disaster Relief” and Forms RD 1980-68, “Lender's Agreement—Drought and Disaster Guaranteed Loans,” 1980-69, “Loan Note Guarantee—Drought and Disaster Guaranteed Loans,” and 1980-70, “Assignment Guarantee Agreement—Drought and Disaster Guaranteed Loans,” or their successor forms.

(j) [Reserved]

(k) “Regulations for Loan Guarantees for Disaster Assistance for Rural Business Enterprises” and Forms RD 1980-71, “Lender's Agreement—Disaster Assistance for Rural Business Enterprises Guaranteed Loans,” 1980-72 “Loan Note Guarantee—Disaster Assistance for Rural Business Enterprises Guaranteed Loans,” and 1980-73 “Assignment Guarantee Agreement—Disaster Assistance for Rural Business Enterprises Guaranteed Loans” or their successor forms.

§ 1980.497 [Amended]

396. Amend § 1980.497 by:

a. In the introductory text, removing “Refer to appendix G of this subpart (available in any FmHA or its successor agency under Public Law 103-354 Office)” and adding “Refer to RD Instruction 1980-E, Appendix G, Liquidation and Property Management Guide (available in any Rural Development office)” in its place;

b. In paragraphs (a), (b) introductory text, (c), and (d)(1), removing “FmHA or its successor agency under Public Law 103-354” wherever it occurs and adding “Rural Development” in its place;

c. In paragraphs (b)(2) introductory text and (b)(3), removing “FmHA or its successor agency under Public Law 103-354's” and adding “Rural Development's” in its place;

d. In paragraphs (d)(2) and (d)(7) through (d)(9), removing “Form FmHA or its successor agency under Public Law 103-354” and adding “Form RD” in its place; and

e. In paragraph (f):

i. Removing “to FmHA or its successor agency under Public Law 103-354” and adding “to Rural Development” in its place;

ii. Removing “BENEFIT OF FmHA or its successor agency under Public Law 103-354” and adding “benefit of RURAL DEVELOPMENT” in its place; and

iii. Removing “UNDER FmHA or its successor agency under Public Law 103-354” wherever it occurs and adding “UNDER RURAL DEVELOPMENT” in its place.

§ 1980.498 [Amended]

397. Amend § 1980.498 by:

a. In paragraphs (k) introductory text, (k)(4), and (k)(5), removing “FmHA or its successor agency under Public Law 103-354” and adding “RD” in its place;

b. In paragraph (m)(5) introductory text, removing “FmHA or its successor agency under Public Law 103-354” and adding “Rural Development” in its place; and

c. In paragraph (m)(5)(iii), removing “Form FmHA or its successor agency under Public Law 103-354 410-1, “Application for FmHA or its successor agency under Public Law 103-354 Services,” or Form FmHA or its successor agency under Public Law 103-354 449-1” and adding “Form RD 449-1” in its place.

Appendices A and B to Subpart E of Part 1980 [Removed and Reserved]

398. Appendices A and B to Subpart E of Part 1980 are removed and reserved.

Appendix D to Subpart E of Part 1980 [Amended]

399. Amend Appendix D to Subpart E of Part 1980 by removing:

a. “the Farmers Home Administration or its successor agency under Public Law 103-354 (FmHA or its successor agency under Public Law 103-354)” in paragraph (I)(B) and adding “Rural Development” in its place;

b. “FmHA or its successor agency under Public Law 103-354” wherever it occurs in paragraphs (I)(B)(2)(a), (II)(A)(2)(g)(ii), (III)(A)(2), (III)(E) introductory text, (III)(E)(2), (III)(G), (IV)(A), and (IV)(B)(1) and adding “Rural Development” in its place; and

c. “Form FmHA or its successor agency under Public Law 103-354” in paragraph (IV)(B)(3) and adding “Form RD” in its place.

Appendix E to Subpart E of Part 1980 [Amended]

400. Amend Appendix E to Subpart E of Part 1980 by removing:

a. “FmHA or its successor agency under Public Law 103-354's position” in paragraph (I) and adding “Rural Development's position” in its place;

b. “an FmHA or its successor agency under Public Law 103-354 action” in paragraph (II) and adding “a Rural Development action” in its place; and

c. “the FmHA or its successor agency under Public Law 103-354 action” wherever it occurs in paragraph (II) and adding “the Rural Development action” in its place;

d. “FmHA or its successor agency under Public Law 103-354 project” in paragraph (IV)(2) and adding “Rural Development project” in its place;

e. “or FmHA or its successor agency under Public Law 103-354” in paragraph (XIII) and adding “or Rural Development” in its place; and

f. “by FmHA or its successor agency under Public Law 103-354” in paragraph (XVII) and adding “by Rural Development” in its place.

Appendix F to Subpart E of Part 1980 [Removed and Reserved]

401. Appendix F to subpart E of Part 1980 is removed and reserved.

402. Amend Appendix I to Subpart E of Part 1980 by:

a. Removing “, and appear in the Federal Register following the body of this appendix as Exhibits A, B, and C in the following order” in paragraph A. introductory text;

b. Removing “Form FmHA or its successor agency under Public Law 103-354” in paragraphs X.D and X.F and adding “Form RD” in its place;

c. Removing “will be used” in paragraphs A.(1) through (3), IV., and E.1 and 2, and adding “or successor form will be used” in its place;

d. Removing “FmHA or its successor agency under Public Law 103-354 will not” in paragraph D. introductory text, and adding “Rural Development will not” in its place;

e. Removing “by FmHA or its successor agency under Public Law 103-354” in paragraph D.(2) and adding “by Rural Development” in its place;

f. Removing “are FmHA or its successor agency under Public Law 103-354” in paragraph J. and adding “are Rural Development” in its place;

g. Removing “FmHA or its successor agency under Public Law 103-354 has” in paragraph J. and adding “Rural Development has” in its place; and

h. Removing Exhibits A through C.

Appendix K to Subpart E of Part 1980 [Amended]

403. Amend Appendix K to Subpart E of Part 1980 by:

a. Removing “, and appear in the Federal Register following the body of this appendix as exhibits A, B, and C in the following order” in the introductory text;

b. Removing “Form FmHA or its successor agency under Public Law 103-354” wherever it occurs in paragraphs A.(1) through (3) and G. and adding “Form RD” in its place;

c. Removing “will be used” in paragraphs A.(1) thorugh (3) and adding “or successor form will be used” in its place;

d. Removing “FmHA or its successor agency under Public Law 103-354 Instruction” and “FmHA or its successor agency under Public Law 103-354 insruction” wherever they occur in paragraphs B. through F., H., J., and K. and adding “RD Instruction” in their place;

e. Removing “other FmHA or its successor agency under Public Law 103-354-type farm loan” in paragraph C. and adding “other Rural Development-type farm loan” in its place;

f. Removing “FmHA or its successor agency under Public Law 103-354 will” in paragraph D. and adding “Rural Development will” in its place;

g. Removing “by FmHA or its successor agency under Public Law 103-354” in paragraph D. and adding “by Rural Development” in its place;

h. Removing “will FmHA or its successor agency under Public Law 103-354” in paragraph D. and adding “will Rural Development” in its place;

i. Removing “FmHA or its successor agency under Public Law 103-354's” in paragraph F. and adding “Rural Development's” in its place;

j. Removing “Guarantee DARBE,” issued on” in paragraph G. and adding “Guarantee DARBE, ” (or successor form) issued on” in its place;

k. Removing “are FmHA or its successor agency under Public Law 103-354” in paragraph J. and adding “are Rural Development” in its place;

l. Removing “FmHA or its successor agency under Public Law 103-354 guaranteed loans” in paragraph J. and adding “Rural Development guaranteed loans” in its place;

m. Removing “FmHA or its successor agency under Public Law 103-354 has” and adding “Rural Development has” in paragraph J. in its place; and

n. Removing Exhibits A through C.

Exhibit G to Subpart E of Part 1980 [Amended]

404. Amend the Note to Exhibit G to Subpart E of Part 1980 by removing “FmHA or its successor agency under Public Law 103-354” and adding “Rural Development” in its place.

CHAPTER XXXV—RURAL HOUSING SERVICE, DEPARTMENT OF AGRICULTURE

PART 3550—DIRECT SINGLE FAMILY HOUSING LOANS AND GRANTS

405. The authority citation for part 3550 continues to read as follows:

Authority: 5 U.S.C. 301; 42 U.S.C. 1480.

Subpart C—Section 504 Origination and Section 306C Water and Waste Disposal Grants

§ 3550.103 [Amended]

406. Amend § 3550.103(g) by removing “FmHA” and adding “RD” in its place.

407. In § 3550.116, revise paragraph (c) to read as follows:

§ 3550.116 Definitions applicable to WWD grants only.

* * * * *

(c) Rural areas. Includes unincorporated areas and any city or town with a population not in excess of 10,000 inhabitants. The population figure is obtained from the most recent decennial Census of the United States (decennial Census). If the applicable population figure cannot be obtained from the most recent decennial Census, RD will determine the applicable population figure based on available population data.

* * * * *

PART 3560—DIRECT MULTI-FAMILY HOUSING LOANS AND GRANTS

408. The authority citation for part 3560 continues to read as follows:

Authority: 42 U.S.C. 1480.

Subpart A—General Provisions and Definitions

§ 3560.11 [Amended]

409. In § 3560.11, revise the definition of “Rural area” to read as follows:

§ 3560.11 Definitions.

* * * * *

Rural area. An area classified as a rural area prior to October 1, 1990, (even if within a Metropolitan Statistical Area), and any area deemed to be a `rural area' under any other provision of law at any time during the period beginning January 1, 2000, and ending December 31, 2010, shall continue to be so classified until the receipt of data from the decennial census in the year 2020 if such area has a population exceeding 10,000, but not in excess of 35,000, is rural in character, and has a serious lack of mortgage credit for low- and moderate-income families.

* * * * *

Subpart B—Direct Loan and Grant Origination

§ 3560.57 [Amended]

410. Amend § 3560.57(c) by removing “most recent census data, or” and adding “most recent decennial Census of the United States, or” in its place.

PART 3570—COMMUNITY PROGRAMS

411. The authority citation for part 3570 continues to read as follows:

Authority: 5 U.S.C. 301; 7 U.S.C. 1989.

412. Revise § 3570.51(h) to read as follows:

§ 3570.51 General.

* * * * *

(h) The income data used to determine median household income must be that which accurately reflects the income of the population to be served by the proposed facility. The median household income of the service area and the nonmetropolitan median household income for the State will be determined using 5-year income data from the American Community Survey (ACS) or, if needed, other Census Bureau data. If there is reason to believe that the ACS or other Census Bureau data does not accurately represent the median household income within the area to be served, this will be documented and the applicant may furnish, or RD may obtain, additional information regarding such median household income data. Information must consist of reliable data from local, regional, State, or Federal sources or from a survey conducted by a reliable impartial source.

* * * * *

413. In § 3570.53, revise the definition of “Rural and rural area” to read as follows:

§ 3570.53 Definitions.

* * * * *

Rural and rural area. For fiscal year 1999, the terms “rural” and “rural area” include a city or town with a population of 20,000 or less inhabitants. There is no limitation placed on population in open rural areas. After fiscal year 1999, the terms “rural” and “rural area” include a city, town, or unincorporated area that has a population of 50,000 inhabitants or less, other than an urbanized area immediately adjacent to a city, town, or unincorporated area that has a population in excess of 50,000 inhabitants. The population figures are obtained from the most recent decennial Census of the United States (decennial Census). If the applicable population figures cannot be obtained from the most recent decennial Census, RD will determine the applicable population figures based on available population data.

* * * * *

PART 3575—GENERAL

414. The authority citation for part 3575 continues to read as follows:

Authority: 5 U.S.C. 301, 7 U.S.C. 1989.

Subpart A—Community Programs Guaranteed Loans

415. In § 3575.2, revise the definition of “Rural and rural area” to read as follows:

§ 3575.2 Definitions.

* * * * *

Rural and rural area. The terms “rural” and “rural area” mean a city, town, or unincorporated area that has a population of 50,000 inhabitants or less, other than an urbanized area immediately adjacent to a city, town, or unincorporated area that has a population in excess of 50,000 inhabitants. The population figure is obtained from the most recent decennial Census of the United States (decennial Census). If the applicable population figure cannot be obtained from the most recent decennial Census, RD will determine the applicable population figure based on available population data.

* * * * *

CHAPTER XLII—RURAL BUSINESS-COOPERATIVE SERVICE AND RURAL UTILITIES SERVICE, DEPARTMENT OF AGRICULTURE

PART 4274—DIRECT AND INSURED LOANMAKING

416. The authority citation for part 4274 continues to read as follows:

Authority: 5 U.S.C. 301; 7 U.S.C. 1932 note; 7 U.S.C. 1989.

417. In § 4274.302(a), remove the defintion of “Rural or rural area” and add the definition of “Rural area” in alphabetical order to read as follows:

§ 4274.302 Definitions and abbreviations.

(a) * * *

Rural area. All territory of a State that is not within the outer boundary of any city having a population of 25,000 or more. The population figure is obtained from the most recent decennial Census of the United States (decennial Census). If the applicable population figure cannot be obtained from the most recent decennial Census, RD will determine the applicable population figure based on available population data.

* * * * *

418. In § 4274.344, revise paragraphs (c)(2) introductory text and (c)(2)(vi) introductory text to read as follows:

§ 4274.344 Filing and processing applications for loans.

* * * * *

(c) * * *

(2) Employment. For computations under this paragraph, income data should be 5-year income data from the American Community Survey (ACS) or, if needed, other Census Bureau data, updated according to changes in the consumer price index. If there is reason to believe that the ACS or other Census Bureau data does not accurately represent the median household income of the service area, the reasons will be documented and the borrower may furnish, or RD may obtain, additional information regarding such median household income data. Information must consist of reliable data from local, regional, State or Federal sources or from a survey conducted by a reliable impartial source. The poverty line used will be as defined in section 673 (2) of the Community Services Block Grant Act (42 U.S.C. 9902(2)). Unemployment data used will be that published by the Bureau of Labor Statistics, U.S. Department of Labor.

* * * * *

(vi) The population of the service area according to the most recent decennial Census was lower than that recorded by the previous decennial Census (or as equivalently determined using another data source if the other data source was used in determining whether the area was rural) by the following percentage:

* * * * *

PART 4279—GUARANTEED LOANMAKING

419. The authority citation for part 4279 continues to read as follows:

Authority: 5 U.S.C. 301; 7 U.S.C. 1932(a); and 7 U.S.C. 1989.

Subpart A—General

420. In § 4279.2, revise the definition of “Poor” to read as follows:

§ 4279.2 Definitions and abbreviations.

* * * * *

Poor. A community or area is considered poor if either the county, city, or census tract where the community or area is located has a median household income at or below the poverty line for a family of four; has a median household income below the nonmetropolitan median household income for the State; or has a population of which 25 percent or more have income at or below the poverty line. The determination of “poor” will be based on 5-year data from the American Community Survey (ACS) or, if needed, other Census Bureau data. If there is reason to believe that the ACS or other Census Bureau data does not accurately represent the median household income of the community or area, the reasons will be documented and the borrower may furnish, or RD may obtain, additional information regarding such median household income data. Information must consist of reliable data from local, regional, State or Federal sources or from a survey conducted by a reliable impartial source.

* * * * *

PART 4280—LOANS AND GRANTS

421. The authority citation for part 4280 continues to read as follows:

Authority: 5 U.S.C. 301; 7 U.S.C. 904c; 7 U.S.C. 8107.

Subpart A—Rural Economic Development Loan and Grant Program

422. In § 4280.3, remove the definition of “Rural area” and add the definition of “Rural or rural area” in alphabetical order to read as follows:

§ 4280.3 Definitions.

* * * * *

Rural or rural area. See 7 U.S.C. 1991(a)(13)(A) and (D) et seq.

* * * * *

423. Revise § 4280.42(b)(7) to read as follows:

§ 4280.42 Application evaluation and selection.

* * * * *

(b) * * *

(7) Decline in population for the county where the Project is physically located. If there has been a decline in population in the county where the Project will be located over the time period covered by the two most recent decennial Censuses to the present (or equivalent time frame if using a data source other than the decennial Census), Rural Development will award 10 points.

* * * * *

Subpart B—Rural Energy for America Program General

§ 4280.103 [Amended]

424. Amend § 4280.103 by removing “the latest decennial census” in the introductory text to the definition of “Rural or rural area” and adding “the most recent decennial Census” in its place.

Subpart D—Rural Microentrepreneur Assistance Program

425. In § 4280.302(a), revise the first sentence of the definition of “Rural or rural area” to read as follows:

4280.302 Definitions and abbreviations.

(a) * * *

Rural or rural area. Any area of a State not in a city or town that has a population of more than 50,000 inhabitants, according to the most recent decennial Census of the United States (decennial Census), and the contiguous and adjacent urbanized area, and any area that has been determined to be “rural in character” by the Under Secretary for Rural Development, or as otherwise identified in this definition.

* * *

* * * * *

§ 4280.316 [Amended]

426. Amend § 4280.316(b)(1)(v) by removing “the latest applicable decennial census” and adding “the most recent decennial Census” in its place.

PART 4284—GRANTS

427. The authority citation for part 4284 continues to read as follows:

Authority: 5 U.S.C. 301 and 7 U.S.C. 1989.

Subpart F also issued under 7 U.S.C. 1932(e).

Subpart G also issued under 7 U.S.C. 1926(a)(11).

Subpart J also issued under 7 U.S.C. 1621 note.

Subpart K also issued under 7 U.S.C. 1621 note.

Subpart A—General Requirements for Cooperative Service Grant Programs

§ 4284.3 [Amended]

428. Amend § 4284.3 by removing “the latest decennial census” in the definition of “rural and rural area” and adding “the most recent decennial Census” in its place.

Subpart G—Rural Business Opportunity Grants

429. In § 4284.603, revise the definitions of “long-term” and “rural and rural area” to read as follows:

§ 4284.603 Definitions.

* * * * *

Long-term. The period of time covered by the three most recent decennial Censuses of the United States to the present.

* * * * *

Rural and rural area. Any area other than a city or town that has a population of greater than 50,000 inhabitants including the urbanized area contiguous and adjacent to such a city or town. The population figure used must be in accordance with the most recent decennial Census of the United States.

* * * * *

PART 4288—PAYMENT PROGRAMS

430. The authority citation for part 4288 continues to read as follows:

Authority: 5 U.S.C. 301; 7 U.S.C. 1989.

Subpart A—Repowering Assistance Payments to Eligible Biorefineries

§ 4288.2 [Amended]

431. Amend § 4288.2 by removing “the latest decennial census” in the introductory text of the definition of “Rural or rural area” and adding “the most recent decennial Census” in its place.

PART 4290—RURAL BUSINESS INVESTMENT COMPANY (“RBIC”) PROGRAM

432. The authority citation for part 4290 continues to read as follows:

Authority: 7 U.S.C. 1989 and 209cc et seq.

Subpart B—Definition of Terms Used in Part 4290

433. In § 4290.50, revise the introductory text of the definition of “Rural Area” and revise the definition of “Urban Area” to read as follows:

§ 4290.50 Definition of terms.

* * * * *

Rural Area means any area of a State not in a city or town that has a population of more than 50,000 inhabitants, according to the most recent decennial Census of the United States (decennial Census), or in the urbanized area contiguous and adjacent to a city or town that has a population of more than 50,000 inhabitants, and any area that has been determined to be “rural in character” by the Under Secretary for Rural Development, or as otherwise identified in this definition.

* * * * *

Urban Area means an area containing a city (or its equivalent), or any equivalent geographic area determined by the Census Bureau and adopted by the Secretary for purposes of this definition (about which the Secretary will publish a document in the Federal Register from time to time), which had a population of over 150,000 in the most recent decennial Census and the urbanized areas containing or adjacent to that city, both as determined by the Bureau of the Census for the most recent decennial Census.

* * * * *

Dated: January 15, 2015.
Lisa Mensah,
Under Secretary, Rural Development.
Dated: January 23, 2015.
Michael Scuse,
Under Secretary, Farm and Foreign Agricultural Services.

[FR Doc. 2015-01571 Filed 2-23-15; 8:45 am]

BILLING CODE 3410-XY-P